DEPARTMENT OF COMMERCE

National Oceanic and Atmospheric Administration

50 CFR Parts 679 and 680

[Docket No. 070515102-7102-01; I.D. 032907C]

RIN 0648-AT91

Pacific Halibut Fisheries; Bering Sea and Aleutian Islands King and Tanner Crab Fisheries; Groundfish Fisheries of the Exclusive Economic Zone Off Alaska; Individual Fishing Quota Program; Western Alaska Community Development Quota Program; Recordkeeping and Reporting; Permits

AGENCY: National Marine Fisheries Service (NMFS), National Oceanic and Atmospheric Administration (NOAA), Commerce.

ACTION: Proposed rule; request for comments.

SUMMARY: NMFS issues a proposed rule for substantial revisions to recordkeeping and reporting (R&R) requirements. This proposed rule would also change a variety of fisheries permits provisions. Several definitions would be changed. Further, this proposed rule also revises a Sitka Pinnacles Marine Reserve closure provision and a groundfish observer provision regarding at-sea vessel-to-vessel transfers. This proposed rule would change certain crab provisions, including fee calculations. Detailed information on these changes is presented in the SUPPLEMENTARY INFORMATION section below. These actions are intended to promote the goals and objectives of the Magnuson-Stevens Fishery Conservation and Management Act and to further the goals and objectives of the Alaska fishery management programs.

DATES: Comments must be received by July 30, 2007.

ADDRESSES: Send comments to Sue Salveson, Assistant Regional Administrator, Sustainable Fisheries Division, Alaska Region, NMFS, Attn: Ellen Sebastian, Records Officer. Comments may be submitted by:

• Mail to NMFS, P.O. Box 21668, Juneau, AK 99802-1668;

• Hand delivery to the Federal Building, 709 West 9th Street, Room 420A, Juneau, Alaska, 99802;

• Fax: 907-586-7557;

• E-mail: 0648-AT91-IERS@noaa.gov. Include in the subject line the following document identifier: IERS. E-mail comments, with or without attachments, are limited to 5 megabytes; or

• Webform to the Federal eRulemaking Portal at http://www.regulations.gov. Follow the instructions at that site for submitting comments.

Copies of the Categorical Exclusion (CE) and Regulatory Impact Review/Initial Regulatory Flexibility Analysis (RIR/IRFA) prepared for this action may be obtained from the same address, or by calling the Alaska Region, NMFS, at 907-586-7228, or from the NMFS Alaska Region website at http://www.fakr.noaa.gov.

Written comments regarding the burden-hour estimates or other aspects of the collection-of-information requirements contained in this proposed rule may be submitted to NMFS, Alaska Region, and by e-mail to David_Rostker@omb.eop.gov, or fax to 202-395-7285.

FOR FURTHER INFORMATION CONTACT: Patsy A. Bearden, 907-586-7008 or email at patsy.bearden@noaa.gov.

SUPPLEMENTARY INFORMATION: NMFS manages the groundfish fisheries according to the Fishery Management Plan (FMP) for Groundfish of the Gulf of Alaska (GOA) and the FMP for Groundfish of the Bering Sea and Aleutian Islands Management Area (BSAI). With Federal oversight, the State of Alaska (State) manages the commercial BSAI king crab and Tanner crab fisheries under the FMP for BSAI King and Tanner Crabs and the commercial scallop fishery under the FMP for the Scallop Fishery off Alaska. The FMPs were prepared by the North Pacific Fishery Management Council and approved by the Secretary of Commerce under authority of the Magnuson-Stevens Fishery Conservation and Management Act, 16 U.S.C. 1801 et seq. The FMPs are implemented by regulations at 50 CFR parts 679 and 680. General provisions governing fishing by U.S. vessels in accordance with the FMPs appear at subpart H of 50 CFR part 600.

Background for Proposed Recordkeeping and Reporting Changes

If approved, this rule would implement the Interagency Electronic Reporting System (IERS) and its data entry component, eLandings, to replace the current Shoreside Processor Electronic Logbook Report (SPELR) for entering groundfish catch information and replace the electronic procedure for data entry of Individual Fishing Quota (IFQ) halibut, Western Alaska Community Development Quota (CDQ) halibut, and IFQ sablefish information. Further explanation is found in Table 11.

To further enhance electronic data submission, electronic logbooks (ELBs) are proposed to replace the daily fishing logbook (DFL) used by all catcher vessels, regardless of gear type, as well as replace the daily cumulative fishing logbook (DCPL) used by catcher/processors and motherships. NMFS proposes updates to equipment and operational requirement regulations in conjunction with the new ELBs to provide the process and criteria by which a private-sector vendor could have ELB software programs approved for use in the NMFS Alaska Region groundfish fisheries. Further explanation is found in Tables 4 and 12.

In addition to proposing ELB's, this rule would reorganize and revise § 679.5(a) and (c) such that each of the six groundfish logbooks is described in regulatory text separately, completely, and clearly. Processor-completed forms also would be revised and reorganized in this rule. Further explanation is found in Tables 4 through 10.

In another action, this rule proposes revisions to several sections of regulations that pertain to permits in the groundfish fisheries off Alaska. Further explanation is found in Table 2.

Next, this rule would revise part 680 by removing IFQ crab landing report regulations for incorporation into § 679.5 IERS description and by adding a requirement for a CR Registered Crab Receiver Ex-vessel Volume and Value Report. Further explanation is found in Table 17.

Finally, this rule would add and revise certain § 679.2 definitions both related and unrelated to this proposed rule's principal actions, add or correct cross references, remove obsolete text, add new text, and codify certain existing practices in both 50 CFR parts 679 and 680. These revisions would also affect the part 679 Figures and Tables. There are proposed changes to limitations on QS and IFQ use, and to improve enforceability of the Sitka Pinnacles Marine Reserve and observer at-sea transfer provisions. Further explanation is found in Tables 1, 3, and 13 through 17.

The text of each proposed change is set forth in either the proposed regulatory text or in the add/remove table at the back of this proposed rule. Because simple changes are more efficiently shown in an add/remove table, NMFS chose to propose those types of changes in the table. The preamble will refer the reader to the add/remove table at any instance the proposed regulatory change is found there. All other text is otherwise set forth in the proposed regulatory text following the preamble.

Tables 1 through 17 of this preamble provide the paragraph location, general type of change, and reason for the proposed changes and additions.

Need for Action

Amendments to § 679.2

This action proposes to amend § 679.2 by adding new definitions and revising existing definitions. Technical revisions include additions of cross-references, updated definitions to include the new eLandings and IERS, corrections, or abbreviations. Some proposed changes mean there are new requirements or existing requirements would be changed. These measures are explained further in Table 1. Table 1 summarizes changes to § 679.2.

Table 1. Section 679.2—Definitions
Definition | Reason for change
“Associated processor” | to describe two different mothership and catcher/processor relationships: with a buying station and a custom processor. A second “associated processor” definition would be added for purposes of eLandings to describe a relationship with a custom processor. The heading “Relationship with a buying station” would be added to the current definition. In addition “a federally permitted mothership, shoreside processor, or stationary floating processor” would be revised to say “a mothership or catcher/processor issued an FFP or a shoreside processor or SFP issued an FPP.” This would provide an accurate permit description.
“At-sea operation” | to translate the Federal categories of “catcher/processor” and “mothership” to an eLandings operation type of “at-sea” for the purpose of eLandings processor registration.
“Authorized distributor” | to remove “food bank distributors” and replace with “food bank distributors (see § 679.26 Prohibited Species Donation Program).” This would provide a cross reference to the section that describes the food bank program [found in REMOVE/ADD Table].
“Authorized fishing gear”, paragraph (14)(iii) under “pelagic trawl gearrdquo; | to remove “paragraph (10)(ix)” and replace with “paragraph (14)(ix)”. This change would correct the paragraph reference [found in REMOVE/ADD Table].
“Authorized fishing gear”, paragraphs (14)(iv) and (14)(v) under “pelagic trawl gear” | to remove “paragraph (10)(iii)” and by adding in its place “paragraph (14)(iii).” This change would correct the paragraph reference [found in REMOVE/ADD Table].
“Basis species” | to remove “authorized to harvest” and replace with “authorized to harvest (see Tables 10 and 11 to this part).” This change would add a cross reference to Tables 10 and 11 which list basis species [found in REMOVE/ADD Table].
“Catcher vessel” | to add the abbreviation, CV. This would define the abbreviation that is used frequently in the regulatory text [found in REMOVE/ADD Table].
“Catcher/processor” | to add the abbreviation, C/P. This would define the abbreviation that is used frequently in the regulatory text [found in REMOVE/ADD Table].
“eLandings” | to add the name of the data entry component of the interagency electronic reporting system for commercial harvest and production of groundfish, halibut, and crab.
“Endorsement”, paragraphs (1) and (2) | to remove “LLP permits” and replace with “LLP licenses”. This would correct the text to use the proper term. [found in REMOVE/ADD Table].
“gear deployment (or to set gear)” | to remove the defining text and replace with a cross reference to § 679.5(c)(3)(vi)(B) and § 679.5(c)(4). This would place gear information in related logbook sections.
“gear retrieval (or to haul gear)” | to remove the defining text and replace with a cross reference to § 679.5(c)(3)(vi)(C) and § 679.5(c)(4)(vi)(C). This would place gear information in related logbook sections.
“Haul” | to replace the current definition, which is a simple cross-reference to the definition for “gear retrieval”, and redefine “haul” to include a variety of gear retrievals. Further, for enforcement purposes, the definition would state that each time gear is hauled for any reason the haul be numbered.
“Interagency electronic reporting system (IERS)” | to add the name of the electronic reporting system through which processors would report groundfish, crab, halibut, and sablefish landings on the eLandings website (http://www.elandings.alaska.gov) to satisfy data requirements of NMFS, ADF&G, and International Pacific Halibut Commission (IPHC).
“Maximum retainable amount (MRA)” | to add this term. This term and abbreviation are used in several places in the regulations at 50 CFR part 679; however, MRA is explained at § 679.20(e).
“Non-IFQ groundfish” | to identify which sablefish program is being addressed. Sablefish belong to two management programs; groundfish and IFQ sablefish. Sablefish harvested with trawl gear or in the CDQ Program are non-IFQ groundfish.
“Non-individual entity” | to add this term to describe any type of entity other than a natural or human entity
“Permit” | to explain that the terms “permit, license, card, and any endorsement placed on a license, card, or permit,” are synonymous and have the same legal authority as “permit”.
“Prohibited species” | to remove “regulated under this part” and replace with “issued an FFP under § 679.4(b)” [found in REMOVE/ADD Table].
“Prohibited species catch (PSC)” | to state that “PSC” means any of the species listed in Table 2b to this part.
“Shoreside processor electronic logbook report (SPELR)” | to add definition for SPELR and to indicate that SPELR is superceded by eLandings.
“Single geographic location (see § 679.4(l)(5)(iii)” | to add a cross reference to indicate where more information on this term may be found.
“Stationary floating processor” | to add the abbreviation, SFP, to the definition [found in REMOVE/ADD Table].
“Tender vessel (see also “buying station”)” | to add “or shellfish” after “fish” to broaden this definition to include shellfish. Specific processor types would be removed and replaced with “associated processor” to indicate that a prior arrangement or association must take place with a processor before transport, primarily for purposes of recordkeeping and reporting.
“User” | to add a term to describe those participants required to or authorized to use IERS and eLandings.
“User identification (UserID)” | to add a term to describe the meaning and purposes of IERS and eLandings identification of a fishery participant.
“Vessel operations category” | to correct the cross reference [found in REMOVE/ADD Table].
“Week-ending date” | to establish “week-ending date” currently found in § 679.5(a)(6)(iii)(B) as a definition. Making it a definition makes the term more accessible.

Permit-related Revisions

Section 303(b)(1) of the Magnuson-Stevens Act authorizes the Secretary to require permits for fishing vessels, operators, and processors participating in fisheries conducted under FMP's. Permit identification of the participants and expected activity levels are needed to measure the consequences of management controls and are an effective tool in the enforcement of other fishery regulations. Experience has shown that fines for violations of specific fishery regulations are not as effective as the threat of a permit revocation that would exclude the participant from the fishery altogether. NMFS proposes to create a better regulatory environment to improve compliance with the requirements of each permit, while at the same time facilitating prosecution of cases.

These proposed regulatory amendments would provide uniform language and would revise permit-related regulations governing fishing activities in FMP fisheries in the GOA and BSAI. Most of the proposed measures are technical in nature and do not change existing requirements. Other proposed measures would require new data in a permit application and ensure applicants are qualified for the permit. Several proposed measures would describe how to amend permits to reflect new holder information. For other proposed measures, this administrative action is necessary to simplify these regulations through minor regulatory text revisions. NMFS has never provided a formal process for surrendering a permit. Consequently, this action would also describe which permits can be surrendered and the process for surrender. Table 2 summarizes those changes.

Table 2. Section 679.4—Permits
Paragraph under § 679.4 | Reason for change
(a)(1)(i)(A) | to remove “Until next renewal cycle.” and replace with “Until expiration date shown on permit.” This would describe NMFS' existing IFQ permit renewal practice as described in paragraphs (b)(4)(i) and (f)(4)(i) [found in REMOVE/ADD Table].
(a)(1)(vii)(C) | to add text regarding the Scallop license that was inadvertently omitted in previous rules.
(a)(3)(i) | to state that the permit applications may also be completed onscreen from the NMFS Alaska Region home page. The GPEA encourages the use of electronic access to forms and information. NMFS is working towards increasing the numbers of participants in Alaska fisheries who use computers and the Internet to access needed forms.
(a)(3)(iii) | to add “applicant” to the description of entities who must obtain separate permits, which presently are vessels, processors, and buying stations and change the regulation focus from “applications” to “permits”. Adding “applicant” and refocusing the regulation would require that separate applicants must have separate permits. The existing regulation text may be misleading because an applicant may believe that one application may suffice to obtain a permit for one vessel when in fact more than one permit may be required.
(a)(4) | to amend a permit through submittal of an application. This paragraph would be removed and the contents integrated into the FFP and the FPP sections and revised.
(a)(9) | to establish formal procedures for voluntary surrender and reissue of all permits. It would describe permits that may not be surrendered; permits that are surrendered permanently; permits that are surrendered for a fishing year; and permits that are surrendered and regained during a fishing year.
(b) heading | to add the abbreviation (FFP) after the title. This would be necessary to identify the meaning of the abbreviation, which is used many times in the regulatory text.
(b)(3) | to simplify how a submitter describes vessel operations categories. This would remove paragraphs (b)(3)(i) through (iv) and add in their place “An FFP authorizes a vessel owner to deploy a vessel to conduct operations in the GOA or BSAI under the following categories: catcher vessel, catcher/processor, mothership, tender vessel, or support vessel. A vessel may not be operated in a category other than as specified on the FFP.”
(b)(4)(i) | to add the heading “Length of permit effectiveness”, to correct the duration of the FFP, and to add information about surrender of a permit. This would remove “from the date of issuance through the end of the current NMFS 3-year cycle” and replace with “"for three years from the effective date through the expiration date”. This would also add a cross reference to the new permit surrender paragraph (a)(9). This would replace “Federal fisheries permit” with the abbreviation “FFP”.
(b)(4)(ii) | to add the heading “Surrendered permit”, provide that an owner or agent may surrender the permit, and where to send it. In addition, it would revise the requirement to send the returned permit by some method, such as certified mail, that provides evidence that NMFS received the permit. This would replace “Federal fisheries permit” with the abbreviation “FFP”
(b)(4)(iii) | to add the heading “Amended permit” and to describe amending a permit when any change occurs in permit information. Although the information was requested on the application, the information request does not have regulatory support. Paragraph (a)(4) would be revised and renumbered as paragraph (b)(4)(iii).
(b)(5) heading | to revise the heading to read “Contents of FFP application”, rather than “How do I obtain a Federal fisheries permit?” This would provide an accurate heading for the accompanying regulatory text.
(b)(5)(ii) | to replace “owner, and the name” with “owner; and if applicable, the name” to indicate that the name of an additional person is not required if not applicable [found in REMOVE/ADD Table].
(b)(5)(iii) | to remove items that are no longer requested on the permit application [found in REMOVE/ADD Table].
(b)(5)(iv) | to remove “Indicate requested/elected area(s) of operation. If a catcher/processor and/or a catcher vessel, the gear types used for groundfish fishing. If a mothership or catcher/processor operating in the GOA, choose inshore or offshore component.” and add in its place “If catcher/processor or catcher vessel, indicate only the gear types used for groundfish fishing. If the vessel is a catcher/processor under 125 ft (18.3 m) LOA that is intended to process GOA inshore pollock or GOA inshore Pacific cod, mark the box for a GOA inshore processing endorsement.” This revision would state which vessels have the choice of having GOA pollock and cod harvest accrued to either the inshore or offshore allocation component.
(b)(5)(vi)(C) | to formalize a permit application process and eliminate errors and confusion when no process is provided. This would require that species endorsements be changed or removed by submitting an FFP application.
(d)(1)(i), (d)(2)(i), (d)(3)(i), (d)(3)(iv), and (e)(2) | to add surrender of a permit to the events that would interrupt a normal issuance permit cycle by removing “suspended, or modified” and adding in its place “suspended, surrendered under paragraph (a)(9) of this section, or modified” [found in REMOVE/ADD Table]. “Surrender” must be added to this provision because it would, as does a permit suspension or modification, require holders to submit new applications should they desire to hold the permit once again.
(f) heading | to add the abbreviation “FPP” after the title, because this abbreviation is used frequently in the text and should be defined.
(f)(2) | to revise heading to read “Contents of FPP application” rather than “How do I obtain a Federal processor permit?” This revision would create an accurate heading. This revision would also replace “Federal processor permit” with “FPP” and “stationary floating processor” with “SFP” wherever they appear in order to save space.
(f)(2)(i) | to revise heading to read “New or amended permit” rather than “Permit application information”. The revision would also require applicant indication of whether application is for a shoreside processor or an SFP.
(f)(2)(ii) | to replace “owner, and the name” with “owner; and if applicable, the name” to indicate that the name of an additional person is not required if not applicable [found in REMOVE/ADD Table].
(f)(2)(iii) | to revise heading to read “SFP information” rather than “Stationary floating processor information”; remove “and whether this vessel will be used as a stationary floating processor”, because it is redundant with the heading “SFP.” Add “whether choosing to receive a GOA inshore processing endorsement. A GOA inshore processing endorsement is required in order to process GOA inshore pollock and GOA inshore Pacific cod”.
(f)(2)(iv) | to simplify the text. The order of the data elements in this paragraph would be re-arranged to match the order on the application. The phrase “processing businesses” would be used instead of “processors.” The word “permanent” would be added before “business address.” The word “facility” would be replaced by “plant”.
(f)(2)(v) | to shorten the regulatory text by removing “stationary floating processor” and by adding in its place “SFP”.
(f)(4)(i) | to add heading “Length of permit effectiveness”; to remove “in effect from the date of issuance through the end of the current NMFS 3-year cycle” and replace it with “in effect for three years from the effective date through the date of permit expiration”; and remove “suspended, or modified” and by adding in its place “suspended, surrendered under paragraph (a)(9) of this section, or modified.”
(f)(4)(ii) | to formalize the surrender process to: add the heading “Surrendered permit”; state that an owner or agent may surrender the permit, and where to send it. In addition, it would revise the requirement to send the returned permit by some method, such as certified mail, that provides evidence that NMFS received the permit. Also, this would replace “Federal processor permit” with the abbreviation “FPP”.
(f)(4)(iii) | to add the heading “Amended permit” and to describe amending a permit when any change occurs in permit information. Although the information was requested on the application, the information request does not have regulatory support. This paragraph would be derived from information originally found at paragraph (a)(4).
(k) heading | to add the abbreviation “LLP” after the words “license limitation” [found in REMOVE/ADD Table].
(k)(5)(iv) | to correct the time designation for the LLP qualifying fishing history by removing “Pacific time” and adding in its place “Alaska local time” [found in REMOVE/ADD Table].
(l)(1)(iv) | to add a procedure for making changes in vessel ownership information on certain permits. Although American Fisheries Act (AFA) vessel and processor permits are no longer available, vessel and processor ownership can change. Thus, information on existing permits must reflect the change. This revision would remove paragraphs (l)(1)(iv)(A) and (B) and replace that text with a process which allows the participant to submit a letter notifying NMFS of any changes in vessel ownership.

Paper Logbooks and Forms

NMFS' R&R regulations require participants in groundfish fisheries to record daily fisheries harvest and processing activities in one of six different groundfish logbooks. Processors also complete a weekly production report (WPR) summarizing the logbook entries. The R&R system also requires groundfish discards and prohibited species to be recorded and reported. Logbooks with two unique formats are available for three types of harvesters (longline gear, pot gear, and trawl gear) and three types of processors (catcher/processor, mothership, and shoreside processor). To minimize the recordkeeping costs associated with fishery management requirements, the logbooks are designed to provide a convenient method to enter information that serves the fishing industry business needs and NMFS data collection requirements. Vessels under 60 ft (18.3 m) length overall (LOA) are not required to maintain logbooks. The R&R system of logbooks and forms allows fish tracking from harvest, through processing, to fish product transfer.

This action would remove the term “combined groundfish/IFQ logbook” from the regulations. To explain historically, this term came into being when NMFS Alaska Region and IPHC collaborated to combine the data elements of four separate logbooks (2 for NMFS, 2 for IPHC) into two logbooks (catcher vessel longline and pot gear DFL and catcher/processor longline and pot gear DCPL). Now that crab pot gear fishermen use this same logbook to record crab harvest in CR fisheries starting in 2005, logbook titles are more appropriately referred to by type of gear.

NMFS proposes to remove § 679.5(a), which presents R&R requirements by topic, and instead to codify all logbook recordkeeping requirements in four separate, complete sections. All of the material currently found at § 679.5(a)(1) through (a)(14) would be removed and redistributed to the new logbook sections at § 679.5(c). Most of the proposed revisions are technical.

This action proposes to reorganize § 679.5 so that each of the six groundfish logbooks is described separately, completely, and clearly (see Tables 6 through 9 for further explanation). Several forms also would be reorganized in this rule. Table 3 summarizes the changes for § 679.5 that address general responsibilities in paragraph (a) and certain technical revisions to paragraphs (b), (g), (h), (i), (l), (m), (n), and (p).

Table 3. Section 679.5 [except paragraphs (c), (d), (e), and (f)]—Recordkeeping and Reporting.
Paragraph under § 679.5 | Derived from § 679.5 unless specified otherwise | Reason for change
(a) |  | removed, information would be integrated into paragraph (c).
(a) heading | new | added to read “General requirements”.
(a)(1) heading | new | added to read “Logbooks and forms”.
(a)(1)(i) and (a)(1)(ii) | (a)(3)(i) | to add information describing electronic access and submittal of forms, to provide the address for the NMFS Alaska Region website from which forms may be downloaded, and to require submitters to use the most current forms and logbooks.
(a)(1)(iii) | (a)(7)(xv) | to provide a reference paragraph with a table that describes management programs. Other paragraphs in the regulatory text would refer to this table rather than duplicate the information. Also, the AFA Program and IFQ Program would be removed from this paragraph and table because these programs are recorded through different means in the logbooks and forms. In addition, “Open Access (OA)” would be added as a program used in eLandings only.
(a)(2)(i) |  | to add “SFP” after “shoreside processor” in two places. This would correct an inadvertent omission in the regulations.
(a)(2)(ii) |  | to replace “stationary floating processor” with “SFP” to save space and to correct the cross reference.
(a)(3) | (a)(1)(ii)(A) through (a)(1)(ii)(C) | to add heading “Fish to be recorded and reported” and to remove duplication among the paragraphs. This paragraph would describe the fish that are required to be recorded and reported.
(a)(4) heading | new | to read “Exemptions”.
(a)(4)(i) | (a)(1)(iii)(A) | to add heading “Catcher vessels less than 60 ft (18.3 m) LOA”, to change the wording from passive to active voice, and to provide R&R compliance exemption to the owner or operator rather than to the vessel.
(a)(4)(ii) heading | (a)(1)(iii)(B) | to read “Catcher vessels that take groundfish in crab pot gear for use as crab bait on that vessel”.
(a)(4)(ii)(A) | (a)(1)(iii)(B)(1) | to change “open crab season” to read “when crab is open anywhere or in the same areas as open crab season” to better describe the conditions. This change also would show that owners or operators of these crab vessels are exempt from all R&R requirements in § 679.5, not just paragraphs (a) through (j).
(a)(4)(ii)(B) | (a)(1)(iii)(B)(1) | to improve reader comprehension by placing this sentence “This exemption does not apply to fishermen who:” as an introductory paragraph for paragraphs (a)(4)(ii)(B)(1) and (2).
(a)(4)(ii)(B)(1) | (a)(1)(iii)(B)(1)(i) | redesignation
(a)(4)(ii)(B)(2) | (a)(1)(iii)(B)(1)(ii) | redesignation
(a)(4)(ii)(C) | (a)(1)(iii)(B)(2) | redesignation
(a)(5) heading | (a)(13) | to read “Inspection and retention of records.”
(a)(5)(i) | (a)(13)(i) | to provide information on inspection and retention that applies to all forms and logsheets. Further, this paragraph would be simplified by using the terms “operator or manager” and by referring to Table 9 to part 679, which provides a list of all R&R forms and logbooks, instead of listing those documents in this paragraph.
(a)(5)(ii) | (a)(13)(ii) introductory text | to remove “logbooks and forms” and substitute “for all R&R documentation listed in Table 9 to this part”.
(a)(5)(ii)(A) | (a)(13)(ii)(A) | to amend text by removing “On site at the shoreside facility” and substituting “Retain on site at the shoreside processor or SFP.” This would add a verb to the sentence and would use defined terms instead of “shoreside facility.” It would further be revised by removing “recorded in the logbooks and forms” and substituting “recorded in the R&R documentation listed in Table 9 to this part.” This change would reference all of the forms and logbooks, which all have the same retention requirements.
(a)(5)(ii)(B) | (a)(13)(ii)(B) | to remove “them” and substitute “R&R documentation listed in Table 9 to this part.”
(a)(6) | (a)(6) introductory text, (a)(6)(i) | to add heading “Maintenance of records” and to remove “all records, reports, and logbooks” and substitute “all R&R documentation listed in Table 9 to this part”.
(b) | (b)(1) and (b)(2) | to amend the text by removing paragraph (b)(2) and redesignating paragraph (b)(1) as paragraph (b) introductory text and by removing “paragraph (a)(2)” and adding in its place “paragraphs (a)(1) through (a)(6)”. Paragraph (b)(2) listed the information necessary to describe an authorized representative. This text would be removed, because each form and logbook would separately list the same or similar information.
(g)(1) introductory text |  | to correct the cross references and indicate the source tables for species codes.
(g)(1)(i) heading |  | to read “Groundfish and donated prohibited species” [found in REMOVE/ADD table].
(h)(1) | (h)(1) introductory text | to revise heading to read “Requirement” and to remove “Telex” from the regulatory text because NMFS no longer accepts this media; by removing “electronic file” and adding in its place the e-mail address; and removing “within the appropriate time limits”.
(h)(2) | (h)(1)(iii) | redesignated
(h)(3) | (h)(2) | redesignated
(h)(4) | (h)(1)(i) and (h)(1)(ii) | to revise heading to read “Time limits and submittal”, to add “and a check-out report”, and to place requirements for check-in reports and check-out reports in one in-text table. This would remove duplication and correct errors, for example, by removing “MS, SS, SFP” and adding in its place “MS” because SS and SFP do not have the same R&R requirements as MS.
(h)(5) | (h)(3) | to add “and check-out report, as appropriate.” and to add an in-text table to include all of the requirements formerly described in paragraph (h)(3). In addition, several variables would be codified for check-out reports that appear on the form.
(i)(1) heading |  | to revise heading to read “Responsibility”.
(i)(1)(i) |  | to revise the cross references from paragraph (i)(1)(iii) to read (i)(1)(ii) and change paragraph (h)(2) to read paragraph (h)(1).
(i)(1)(ii) |  | to remove this paragraph which duplicates paragraph (i)(3)(i).
new (i)(1)(ii) | (i)(1)(iii) | to redesignate this paragraph and change exemption reference from “SPELR” to “eLandings”.
(i)(2) |  | to add fax number and email address.
(i)(3) | (i)(3)(i) through (i)(3)(vi) | to create an in-text table to list the conditions under which a separate WPR is submitted by a C/P, MS, SS, or SFP.
(i)(4) introductory text |  | to revise this instruction into a complete sentence
(i)(4)(i) through (i)(4)(xv) | (i)(4)(i) through (i)(4)(xii) | to create an in-text table showing all WPR requirements for mothership, catcher/ processor, shoreside processor, and SFP.
(j) |  | to remove this paragraph and requirement because daily production reports would be replaced by eLandings.
(l)(1)(iv) |  | to revise the description of the IFQ Prior Notice of Landing exemption language for 1) salmon harvested using hand troll gear or power gurdy troll gear and 2) lingcod harvested using dinglebar gear.
(l)(2) |  | to remove this paragraph because the procedure for data entry of the IFQ landing report would be replaced by eLandings.
(l)(2) heading | new | to read “IFQ landing”.
(l)(2)(i) | (l)(2)(i)(D) | to update the cross reference.
(l)(2)(ii) | (l)(2)(i)(E) | to change the heading to read “No movement.” to indicate that the landing report must be completed through eLandings or other NMFS-approved software prior to halibut being moved from the landing site, and to update the cross reference.
(l)(2)(iii) heading | new | to read “Single offload site”.
(l)(2)(iii)(A) | (l)(2)(i)(B) | to revise heading to read “IFQ halibut and CDQ halibut”.
(l)(2)(iii)(B) | (l)(2)(i)(C) | to revise heading to read “IFQ sablefish”.
(m) |  | to remove and reserve this paragraph, because eLandings would replace the requirement for paper fish tickets onboard the mothership.
(n)(1)(i) |  | to update the text to show that a different data entry system is in use by removing reference to SPELR and replacing it with eLandings [found in REMOVE/ADD Table].
(p)(2) |  | to standardize reference to ADF&G [found in REMOVE/ADD Table].
(r)(3) |  | to update the heading and text to show that a different data entry system is in use by removing reference to SPELR and replacing it with eLandings [found in REMOVE/ADD Table].

Logbook General Information

The current § 679.5(c) would be removed and replaced entirely. This section would provide introductory information and descriptions for four different formats for reporting logbook data: DFL, DCPL, ELB, and eLandings. Most of the proposed revisions are technical and pertain to reorganization of the regulations. The reorganization of § 679.5 (R&R) would improve efficiency for the use of the regulations.

General requirements that affect all logbooks would be relocated to § 679.5(c)(1). One general logbook requirement proposed for revision is the “active” or “inactive” entry. Each groundfish fishery participant currently must account for each day of the calendar year in the logbook by coding the time periods as active or inactive. The procedure for recording inactive time periods is the same for all logbooks and would be described at paragraph (c)(2). Each logbook described at paragraphs (c)(3) through (c)(6) would have a paragraph referring back to paragraph (c)(2). The procedure for recording active time periods would be presented separately in each logbook section. The reference to fishing activity would be removed, as this term no longer is appropriate.

Regulations for catcher vessel DFLs and catcher/processor DCPLs for longline or pot gear, currently found at § 679.5(c)(1), would appear at § 679.5(c)(3). Regulations for catcher vessel DFLs and catcher/processor DCPLs for trawl gear, currently found at § 679.5(c)(2), would appear as a new paragraph at § 679.5(c)(4). Regulations for shoreside processor DCPLs, used by shoreside processors and SFPs, would appear as a new paragraph at § 679.5(c)(5). And, regulations for mothership DCPLs would appear as a new paragraph at § 679.5(c)(6). Each new or revised paragraph would contain complete information for a particular logsheet. In addition, NMFS would standardize data elements within each logbook type, so that similar information is found in the same location of each section. Table 4 summarizes these changes.

Table 4. New § 679.5(c) and (c)(1)—Logbook General Information
Paragraph under § 679.5(c)(1) | Derived from § 679.5 unless specified otherwise | Reason for change
(c) |  | existing paragraph (c) would be removed.
(c) heading | new | to read “Logbooks vs eLandings and ELBs”.
(1) heading | new | to read “Requirements”.
(i) heading | new | added to read “Shoreside processor or SFP”.
(i)(A) | (a)(2)(i) | to add heading “Shoreside processor daily cumulative production logbook (DCPL)” and to describe the DCPL use requirement.
(i)(B) | new | to add heading “eLandings” and to describe the requirement to use eLandings to daily report groundfish received, fish ticket number, production, discard or disposition information, catcher vessel and buying station groundfish delivery information.
(ii) heading | new | to read “Mothership”.
(ii)(A) | (a)(2)(i) | to add heading “Mothership DCPL” and to describe the DCPL use requirement.
(ii)(B) | new | to add heading “Mothership ELB” and to describe the ELB use requirement and need to export files to eLandings.
(ii)(C) | new | to add heading “eLandings (Effective until January 1, 2008)” and to describe the mothership requirement to use eLandings to report groundfish received, fish ticket number, production, and discard or disposition information weekly or daily but must use the DCPL to record catcher vessel and buying station groundfish delivery information.
(ii)(C) | new | to add heading “eLandings (Effective January 1, 2008)” and to describe the mothership requirement to use eLandings to report groundfish received, fish ticket number, production, and discard or disposition information daily but must use the DCPL to record catcher vessel and buying station groundfish delivery information.
(iii) heading | new | to read “Catcher/processor”.
(iii)(A) | (a)(2)(i) | to add heading “Catcher/processor longline or pot gear DCPL and catcher/processor trawl gear DCPL” and to describe that the current DCPL must be used.
(iii)(B) | new | to add heading “Catcher/processor ELB” and to describe the requirement to use ELB and to export files to eLandings.
(iii)(C) | new | to add heading “eLandings (Effective until January 1, 2008)” and to describe the catcher/processor requirement to use eLandings to report groundfish received, fish ticket number, production, and discard or disposition information weekly or daily but must use the DCPL to record catcher vessel and buying station groundfish delivery information.
(iii)(C) | new | to add heading “eLandings (Effective January 1, 2008)” and to describe the catcher/processor requirement to use eLandings to report groundfish received, fish ticket number, production, and discard or disposition information daily but must use the DCPL to record catcher vessel and buying station groundfish delivery information.
(iv) heading | new | to read “Catcher vessel”.
(iv)(A) | (a)(2)(i) | to add heading “Catcher vessel longline or pot gear and catcher vessel trawl gear DFL” and describe the requirement to use the DFL.
(iv)(B) | new | to add heading “Catcher vessel longline or pot gear and catcher vessel trawl gear ELB” and describe the requirement to use the ELB to export files to eLandings.
(v) | new | to add heading “Registered Buyer” and describe the requirement for a Registered Buyer to use eLandings or other NMFS-approved software to report IFQ halibut, IFQ sablefish, or CDQ halibut.
(vi) heading | new | to read “Registered Crab Receiver (RCR)”.
(vi)(A) heading | new | to read “IFQ crab”.
(vi)(A)(1) | § 680.5(d)(3) | to describe the requirement for an RCR to use eLandings to report IFQ crab landings.
(vi)(A)(2) | § 680.5(d)(2)(ii) | to describe the requirement for an RCR aboard a catcher/processor to use eLandings to report IFQ crab landings by e-mail attachment.
(vii) | (a)(6)(iii)(E)(1) | to revise heading to read “Two vessel logbooks of same gear type”, add “onboard a vessel” after “fishing year”, and add that the operator is responsible for this activity.
(viii) | (a)(6)(iii)(E)(2) | to add heading “Two vessel logbooks of different gear types” and provide pagination instructions for vessel logbooks.
(ix) | (a)(6)(iii)(E)(3) | to add heading “Two vessel logbooks for pair trawl”, correct the text to show that catcher/ processors also could do pair trawling, and state the need for logbook pagination. In addition, this action would be reworded in active voice.
(x) | new | to add heading “Two logbooks of different operation”, and describe use of logbooks when a vessel performs two different functions in a fishing year - as a mothership and as a catcher/processor.
(xi) heading | new | to read “Alteration of logbook information.”
(xi)(A) and (B) | (a)(12)(i) | to describe the procedure for revising an entry in a logbook. This action would add “Except as described in paragraphs (c)(1)(xi)(B)and (C) of this section,” to show that exceptions to this regulation exist. This action further would remove “except that” to simplify the paragraph.
(xi)(C) | new | to describe the procedure for correcting an error in a logbook that was found after a time period had passed. This paragraph would state that, rather than redo all of the entries after an error, to add a note in the logbook that an error occurred and correct the error using new blank logsheets.
(xii) heading | new | added to read “Logsheet distribution and submittal.”
(xii)(A) | (a)(12)(ii) | to re-write text to clearly state that only an authorized officer may remove the original white logsheet.
(xii)(B) | (a)(14)(ii) and (a)(14)(iii) | to combine logbook copy set information with logsheet distribution information in the same in-text table. This would save space and would present a simpler array of information.

Recording Inactive Time Periods in the DFL or DCPL

The current § 679.5(c)(2) would be completely removed and replaced. The term “fishing activity” would be removed from the regulations at 50 CFR part 679. “Fishing activity” was a term introduced with the creation of the paper logbooks in 1989-90. The term defined the participant's conduct, described as harvest, discard, receipt, process, and delivery. NMFS has determined that this term is unnecessary, because the requirement for reporting “active” or “inactive” time periods provides NMFS with sufficient information regarding the participant's fishing activities. Different fields within the logbook are completed depending on whether the vessel or processor is active or inactive. Table 5 summarizes the changes describing inactive time periods.

Table 5. New § 679.5(c)(2)—Recording Inactive Time Periods in the DFL or DCPL
Paragraph under § 679.5(c)(2) | Derived from § 679.5 unless specified otherwise | Reason for change
(c)(2) |  | existing paragraph (c)(2) would be removed and redesignated as paragraph (c)(4).
(c)(2) heading | new | to read “Recording active and inactive time periods in the DFL or DCPL.”
(i) | (a)(6)(ii) | to add a heading “Account for each day of the fishing year”, explain that operator must document each day of the calendar year (fishing year), and indicate whether the vessel or processor was active or inactive during that day. The inactive box must be checked in the logbook if vessel or processor is inactive. This action would restructure the first sentence.
(ii) | (a)(6)(ii) | to add a heading “Record January 1 on page 1”, and describe the requirements to record the first day of the fishing year, (January 1) on the first page of the logbook, even if not fishing or processing.
(iii) introductory text | new | to add heading “Required information for inactive time periods” and to state the general requirement that an operator or manager must record inactive information.
(iii)(A) | (a)(5)(i) and (a)(5)(ii) | to describe requirements for a catcher vessel; to add “Federal crab vessel permit number” because crab operators also use the longline or pot gear DFL; and to add “page number” as an essential item of information.
(iii)(B) | (a)(5)(i) and (a)(5)(iii) | to describe requirements for a shoreside processor or SFP; to revise the paragraph to add “on Part I of the logsheet” because Part II logsheets are not completed when inactive; to add “page number” as an essential item of information.
(iii)(C) | (a)(5)(i) and (a)(5)(iv) | to describe requirements for a mothership or catcher/processor; to add “page number” as an essential item of information.
(iii)(D) | (a)(7)(iii)(B)(1) | redesignated
(iii)(E) | (a)(7)(iii)(B)(2) | redesignated
(iii)(F) | (a)(6)(ii)(A) through (a)(6)(ii)(C) and (a)(7)(ii)(B)(3) | to add “e.g., bad weather or equipment” as an example of requested information.
(iii)(G) | (a)(7)(iii)(B)(4) | redesignated
(iv) | (a)(7)(iii)(C) | redesignated

Longline and Pot Gear DFL and DCPL

The current regulations at § 679.5(c)(1) describe R&R requirements for maintaining the longline and pot gear logbook. The proposed action would expand this section and redesignate it from § 679.5(c)(1) to (c)(3). Most of the proposed measures are technical and would pertain to reorganization. The existing § 679.5(c)(3) would be completely removed and replaced. Table 6 summarizes these changes.

Table 6. New § 679.5(c)(3) — Longline and Pot Gear DFL and DCPL
Paragraph under § 679.5(c)(3) | Derived from § 679.5 unless specified otherwise | Reason for change
(c)(3) heading | new | to read “Longline and pot gear catcher vessel DFL and catcher/processor DCPL.”
(i) heading | new | to read “Responsibility.”
(i)(A) heading | new | to read “Groundfish fisheries.”
(i)(A)(1) | (c)(1)(i)(A)(1) | to add that operators of vessels 60 ft (18.3 m) or more LOA and that is required to have an FFP are required to complete a logbook.
(i)(A)(2) | (c)(1)(i)(A)(2) | redesignated
(i)(B) heading | new | to read “IFQ halibut, CDQ halibut, and IFQ sablefish fisheries.”
(i)(B)(1) | (c)(1)(i)(B)(1) | to remove “longline” and replace with “fixed gear (NMFS), setline (IPHC) or pot gear”, because these are the correct gear terms used for that fishery; the term “longline” is a term used for groundfish. This regulation pertains to vessels 60 ft (18.3 m) or greater LOA.
(i)(B)(2) | (c)(1)(i)(B)(2) | redesignated
(i)(C) heading | new | to read “CR crab fisheries.”
(i)(C)(1) | (c)(1)(i)(C)(1) | to remove “catcher vessel” and substitute “catcher vessel 60 ft (18.3 m) or greater LOA” to state that vessels less than 60 ft (18.3 m) LOA are not required to complete a logbook.
(i)(C)(2) | (c)(1)(i)(C)(2) | redesignated
(ii) heading | (a)(14)(iv) | to read “Data entry time limits”.
(ii)(A) | (c)(1)(ii)(H)(1) | to describe the data elements that must be recorded in the DFL or DCPL within 2 hours after completion of gear retrieval. In addition, the data element “hail weight” would replace “haul weight”. This would correct an inadvertent error wherein “haul weight” was placed into regulations (see also footnote 1).
(ii)(B) | (a)(10)(vii)(B) and (a)(14)(iv)(C)(1) | to describe the time limit for recording discard and disposition information in the DFL or DCPL (see also footnote 1).
(ii)(C) | (a)(14)(iv)(C)(3) | to describe the time limit to submit the goldenrod logsheet in the DFL or DCPL to the observer (see also footnote 1).
(ii)(D) | (a)(14)(iv)(A), (a)(14)(iv)(B)(3) and (a)(14)(iv)(C)(2) | if on a catcher vessel, to describe the time limit for the operator to submit the blue DFL to the processor, to record all other required information, and to sign the completed logsheet in the DFL (see also footnote 1).
(ii)(E) | (a)(14)(iv)(C)(2), (a)(14)(iv)(D)(1) and (a)(14)(iv)(D)(2) | if on a catcher/processor, to describe the time limit for the operator to record product information, record all other required information, and sign the completed logsheet in the DCPL (see footnote 1).
(iii) | new | to add a heading “Required information, if inactive”, and add a cross reference to paragraph (c)(2) instead of duplicating that material.
(iv) heading | new | to read “Required information, if active”.
(iv)(A) heading | new | to read “Catcher vessel”.
(iv)(A)(1) | (a)(7)(i)(A) | to describe an “active” catcher vessel using longline or pot gear.
(iv)(A)(2) | (a)(7)(iii)(A) | to describe the data elements that must be recorded in the longline or pot gear DFL if a catcher vessel is active.
(iv)(B) heading | new | to read “Catcher/processor”.
(iv)(B)(1) | (a)(7)(i)(D) | to describe an “active” catcher/processor using longline or pot gear.
(iv)(B)(2) | (a)(7)(iii)(A) | to describe the data elements that must be recorded in the longline or pot gear DCPL if a catcher/processor is active.
(v) heading | new | to read “Identification information”.
(v)(A) | (a)(6)(iii)(D)(1) | to describe logbook pagination requirements; e.g., information for January 1 is recorded on page 1 regardless of whether active or inactive.
(v)(B) | (a)(2)(iii) and (a)(5)(i) | to describe DFL and DCPL signature requirement and responsibility. This action also would remove mention of SPELR, as it does not apply in this section.
(v)(C) | (a)(5)(ii) and (c)(1) | to describe vessel identification data entry requirements. In addition “Federal crab vessel permit” because the logbook is also used by crab fishermen. Further, this would add “ADF&G processor code if a catcher/ processor”.
(v)(D) | (c)(1)(ii)(D) | to describe recording of permit numbers other than the FFP and FPP, if required, when IFQ or CDQ fishing.
(v)(E) | (a)(7)(xi) and (c)(1)(ii)(A) | to describe recording of “reporting area” for different programs in the longline and pot gear DFL or DCPL; Federal reporting area for groundfish, IPHC regulatory area for IFQ halibut, IFQ sablefish, and CDQ halibut, and no entry for CR crab.
(v)(F) | (c)(1)(ii)(B) | redesignated
(v)(G) | (c)(1)(ii)(C) | to describe the data entry and recording requirements of the various “gear types”.
(v)(H) | (a)(7)(xv) and (c)(1)(ii)(F) | to describe the data entry and recording requirements of special “management programs” (see also footnote 1).
(v)(I) | (c)(1)(ii)(E) | redesignated
(vi) introductory text | (c)(1)(ii)(G) introductory text, and (c)(1)(ii)(G)(1) | to add heading to read “Catch by set information” and to describe the data entry and recording requirements of catch-by-set information (see also footnote 1).
(vi)(A) | (c)(1)(ii)(G)(2) | redesignated
(vi)(B) | (c)(1)(ii)(G)(3) and definition for “gear deployment (or to set gear) for hook-and-line gear, jig or troll gear, and pot gear” | to describe the data entry and recording requirements of “gear deployment” (see also footnote 1).
(vi)(C) | (c)(1)(ii)(G)(4) and definition for “gear retrieval (or to haul gear) for hook-and-line gear, jig or troll gear, and pot gear” | to describe the recording requirements of “gear retrieval” (see also footnote 1).
(vi)(D) | (c)(1)(ii)(G)(5) | redesignated
(vi)(E) | (c)(1)(ii)(G)(6) | redesignated
(vi)(F) | (a)(7)(vi) | to describe “species codes” and to elaborate on species information contained in Tables 2a through 2d. To remove “Table 2” and substitute the titles and Tables 2a through 2d. In addition, this action would remove the vague term “federally managed groundfish.” This would rearrange the description of this requirement to fit the new paragraph format.
(vi)(G) | (c)(1)(ii)(G)(7) | to describe “target species code” and to remove “you intend to catch” and replace with “you intended to catch this set.”
(vi)(H) | (c)(1)(ii)(G)(8) | to describe “estimated total hail weight” and to add the data element “hail weight” to replace “haul weight” to correct an inadvertent error wherein “haul weight” was placed into regulations. Also, this action would rearrange the description of this requirement to fit the new paragraph format.
(vi)(I) | (c)(1)(ii)(G)(9) | to describe “IR/IU species” and to add “if applicable” to indicate that this data element is not always completed; not all operators catch IR/IU species.
(vi)(J) through (L) | (c)(1)(ii)(G)(10) through (c)(1)(ii)(G)(13) | redesignated paragraphs
(vii) | (a)(7)(ii)(C), (a)(7)(iv), and (a)(9)(i) | to add a heading “Product information, catcher/processor” and to describe how to record product information (see also footnote 1).
(vii)(A) | (a)(7)(iv)(E) | to describe recording of “total daily fish product weight” or “actual scale weight” (see also footnote 1).
(vii)(B) | (a)(7)(iv)(G)(1) | to describe recording of “total product balance forward” weight (see also footnote 1).
(vii)(C) | (a)(7)(iv)(I)(1) | to describe recording of “weekly cumulative total” of weights and numbers (see also footnote 1).
(vii)(D) | (a)(7)(iv)(B) | to describe recording of “weekly cumulative total” of weights and numbers (see also footnote 1).
(vii)(E) | (a)(7)(iv)(H) introductory text | to describe recording of “zero balance forward” (see also footnote 1).
(viii) heading | new | to read “Retain and record discard quantities over the MRA.”
(viii) | (a)(10)(vi) | redesignated
(ix) | (a)(7)(ii)(D) and (a)(10)(iv) | to add a heading “Discard or disposition information, catcher vessel” and to describe how to record “discard and disposition” information in the DFL under various scenarios (see also footnote 1).
(ix)(A) | (a)(7)(iv)(F), (a)(7)(iv)(H), and (a)(10)(iv) | to describe recording of “species codes” and “product codes” for discard and disposition (see also footnote 1).
(ix)(B) | (a)(7)(iv)(H)(1) | to describe recording of “zero balance forward” after offload or transfer of fish (see also footnote 1).
(x) introductory text | (a)(7)(ii)(D)(1), (a)(7)(iv)(H)(2) (a)(7)(iv)(H)(3), and (a)(10)(ii)(A)(1) | to add a heading “Discard or disposition information, catcher/processor” and to describe how to record discard and disposition information in the DCPL under various scenarios (see also footnote 1).
(x)(A) | (a)(7)(iv)(H)(2) and (a)(10)(ii)(A)(2) | to describe recording of “zero balance forward” after offload or transfer of fish and to add “Nothing shall be carried forward from the previous fishing trip” (see also footnote 1).
(x)(B) | (a)(7)(iv)(B), (a)(7)(iv)(F), (a)(7)(v), and (a)(10)(ii)(A) | to describe recording of catcher/processor discard or disposition information longline and pot gear logbook information requirements (see also footnote 1).
(xi) | new | to add heading “Catcher vessel delivery information” and to describe buying station, mothership, shoreside processor, or SFP delivery data entry requirements.
¹The information currently listed under § 679.5(a) for multiple catcher vessel and processor requirements would be revised under a new § 679.5(c)(3) to address specifically the longline and pot gear DFL and DCPL.

Trawl gear DFL and DCPL

Currently, the regulations at § 679.5(c)(2) describe some of the requirements for maintaining a trawl gear logbook, and some of the requirements are found in generalized tables formerly found in § 679.5(a). The proposed action would place all of the trawl gear DFL and DCPL requirements in one section and renumber it from § 679.5(c)(2) to (c)(4). This would create a “stand-alone” trawl gear logbook section. Most of the proposed measures are technical and would pertain to the reorganization of these logbook regulations. Existing § 679.5(c)(2) would be completely removed and replaced. Table 7 summarizes these changes.

Table 7. New § 679.5(c)(4) — Trawl Gear Catcher Vessel DFL and Catcher/processor DCPL
Paragraph under § 679.5(c)(4) | Derived from § 679.5 unless specified otherwise | Reason for change
(c)(4) heading | new | to read “Trawl gear catcher vessel DFL and catcher/processor DCPL.”
(i) heading | new | to read “Responsibility.”
(i) | (a)(1)(iii)(A) | to describe the trawl catcher and catcher/processor logbook data entry responsibilities and that vessels less than 60 ft (18.3 m) LOA are not required to complete a logbook.
(ii) introductory text | new | to add heading “Data entry time limits” and introductory text.
(ii)(A) | (a)(14)(iv)(B)(2) | to identify the data elements that must be recorded in the DFL or DCPL within 2 hours after completion of gear retrieval. In addition, the data element “hail weight” would be added to replace “haul weight”. This would correct an inadvertent error wherein “haul weight” was placed into regulations (see also footnote 1).
(ii)(B) | (a)(14)(iv)(C)(1) | to describe the time limit for recording discard and disposition information in the DFL or DCPL (see also footnote 1).
(ii)(C) | (a)(14)(iv)(C)(3) | to describe the time limit for submitting the goldenrod logsheet in the DFL or DCPL to the observer (see also footnote 1).
(ii)(D) | (a)(14)(iv)(A), (a)(14)(iv)(B)(3) and (a)(14)(iv)(C)(2) | if on a catcher vessel, to describe the time limit for the operator to submit the blue DFL to the processor, to record all other required information, and to sign the completed logsheet in the DFL (see also footnote 1)
(ii)(E) | (a)(14)(iv)(B)(1), (a)(14)(iv)(C)(2), and (a)(14)(iv)(D)(2) | if on a catcher/processor, to describe the time limit for the operator to record product information, record all other required information, and sign the completed logsheet in the DCPL (see footnote 1).
(iii) | new | to add a heading “Required information, if inactive”, and add a cross reference to paragraph (c)(2) instead of duplicating that material.
(iv) heading | new | to read “Required information, if active.”
(iv)(A) heading | new | to read “Catcher vessel.”
(iv)(A)(1) | (a)(7)(i)(A) | to state that a net or tow at fishing depth constitutes an active period for a trawl gear catcher vessel and to correct the description of active catcher vessel in current regulations (see also footnote 1).
(iv)(A)(2) | (a)(7)(iii)(A) | to require that the operator of an active trawl catcher vessel enter only one day's information per logsheet (see also footnote 1).
(iv)(B) heading | new | to read “Catcher/processor.”
(iv)(B)(1) | (a)(7)(i)(D) | to describe an active period for a trawl gear catcher/processor (see also footnote 1).
(iv)(B)(2) | (a)(7)(iii)(A) | to require that the operator of an active catcher/processor using trawl gear enter one day's information per logsheet (see also footnote 1).
(v) introductory text | new | to add heading “Identification information” and introductory text.
(v)(A) and (B) | (a)(6)(iii)(D)(1) | to describe “date” and “page number” (see also footnote 1).
(v)(C) | (a)(2)(iii) and (a)(5)(i) | to describe operator “printed name” and “signature” (see also footnote 1).
(v)(D) | (a)(5)(ii) and (a)(5)(iv) | to describe “vessel identification” (see also footnote 1).
(v)(E) | (a)(7)(x)(B) and (a)(7)(xi) | to describe “Federal reporting area” (see also footnote 1).
(v)(F) | (a)(7)(x)(C) and (a)(7)(xii) | to describe how to record information when fishing occurred in the COBLZ or RKCSA (see also footnote 1).
(v)(G) | (a)(7)(xiv) | to describe “crew size” (see also footnote 1).
(v)(H) | (a)(7)(x)(D) and (c)(2)(i) | to describe “gear type” (see also footnote 1).
(v)(I) | (a)(7)(xv) | to describe special “management programs” (see also footnote 1).
(v)(J) | (a)(7)(xiii) | to describe “observer information” (see also footnote 1).
(vi) introductory text | new | to add heading “Catch-by-haul information,” add to introductory text, and to explain that if no catch occurred on a day, the operator would indicate “no catch” in the logbook.
(vi)(A) | (c)(2)(ii) | to describe “Haul number”.
(vi)(B) | (c)(2)(iii) and definition for “gear deployment (or to set gear) for trawl gear” | to describe the recording of “gear deployment” (see also footnote 1).
(vi)(C) | (c)(2)(iv) and definition for “gear retrieval (or to haul gear) for trawl gear” | to describe the recording of “gear retrieval” (see also footnote 1).
(vi)(D) | (c)(2)(v) | to describe “average sea depth” and “average gear depth” (see also footnote 1).
(vi)(E) | (a)(7)(vi) | to describe “species codes” and to elaborate on species information contained in Tables 2a through 2d. To remove “Table 2” and substitute the titles and Tables 2a through 2d. In addition, this action would remove the vague term “federally managed groundfish.” This would rearrange the description of this requirement to fit the new paragraph format.
(vi)(F) | (c)(2)(vi) | to describe “target species code” and remove “you intend to catch” and replace with “you intended to catch this haul.”
(vi)(G) | (a)(7)(iv)(C)(3) and (c)(2)(vii) | to describe “IR/IU species” and to add “if applicable” after “for each IR/IU species” to indicate that this data element is not always completed; not all operators catch IR/IU species (see footnote 1).
(vi)(H) | (a)(7)(iv)(A) and (a)(7)(iv)(C)(2) | to describe “total estimated hail weight” and add “hail weight” in place of “haul weight”. This would correct an inadvertent error wherein “haul weight” was placed into regulations.
(vii) introductory text | (a)(7)(ii)(C), (a)(9)(i) and (a)(9)(i)(A) | to add heading “Product information, catcher/processor” and to describe recording of “groundfish product information” (see also footnote 1).
(vii)(A) | (a)(7(iv)(E) | to describe recording of “daily product weight” (see also footnote 1).
(vii)(B) | (a)(7)(iv)(G)(1) | to describe recording of “balance forward weight” (see also footnote 1).
(vii)(C) | (a)(7)(iv)(I)(1) | to describe recording of “weekly cumulative total weight” (see also footnote 1).
(vii)(D) | (a)(7)(iv)(B) | to describe summarizing “weekly cumulative totals” (see also footnote 1).
(vii)(E) | (a)(7)(iv)(H)(2) and (3) | to describe recording of “zero balance forward” (see also footnote 1).
(viii) introductory text and (c)(4)(viii)(A) | (a)(7)(ii)(D)(1), (a)(10)(iv), (a)(10)(v), and (a)(11)(iv) | to add heading “Discard or disposition information, catcher vessel” and to add introductory text. In addition, this would remove a discard or disposition exemption, formerly found at paragraph (a)(10)(v) that exempted completion of the blue DFL if an operator indicated it had an “unsorted” codend. OLE indicated that over the years, experience has shown that discards always occur, whether receiving a sorted or unsorted codend. When the final rule becomes effective, the DFL format would be changed to remove the delivery information block and the terms, “presorted” and “unsorted”. The blue DFL would always be submitted (see also footnote 1).
(viii)(B) | (a)(7)(iv)(F)(1) | to describe “discard weight” (see also footnote 1).
(viii)(C) | (a)(7)(iv)(F)(2) | to describe “PSC discard numbers” (see also footnote 1).
(viii)(D) | (a)(7)(iv)(I)(3) | to describe “discard cumulative total” (see also footnote 1).
(viii)(E) | (a)(7)(iv)(H)(1) | to describe “discard zero balance forward” (see also footnote 1).
(ix) introductory text | (a)(7)(ii)(D)(1) and (a)(10)(ii)(A) | to add heading “Discard or disposition information, catcher/processor” and to add introductory text.
(ix)(A) | (a)(7)(iv)(F)(1) and (a)(10)(ii)(A)(2) | to describe “discard total weight” (see also footnote 1).
(ix)(B) | (a)(7)(iv)(B), and (a)(7)(iv)(F)(2) | to describe “PSC discard numbers” (see also footnote 1).
(ix)(C) | (a)(7)(iv)(I)(1) | to describe “discard cumulative totals” (see also footnote 1).
(ix)(D) | (a)(7)(iv)(H)(2) and (3) | to describe “discard zero balance forward” (see also footnote 1).
(x) introductory text | (a)(11)(iv) | to add heading “Catcher vessel delivery information” and to add introductory text.
(x)(A) through (C) | (a)(11)(iv) | to describe “catcher vessel delivery”.
¹The information currently listed under § 679.5(a) for multiple catcher vessel and processor requirements would be revised under a new § 679.5(c)(4) to address specifically the trawl gear DFL and/or DCPL.

Shoreside Processor DCPL

Currently, the regulations at 50 CFR part 679 do not describe the requirements for maintaining a shoreside processor DCPL, although this logbook has been available from the beginning of the domestic logbook program. The description of this logbook formerly relied on generalized tables found in § 679.5(a). The proposed action would add § 679.5(c)(5) as a stand-alone section to describe the shoreside processor DCPL regulations. Table 8 summarizes these additions.

Table 8. New § 679.5(c)(5) — Shoreside Processor DCPL
Paragraph under § 679.5(c)(5) | Derived from § 679.5 unless specified otherwise | Reason for change
(c)(5) | new | to add heading “Shoreside processor DCPL” and to add new section to describe the shoreside processor DCPL.
(i) | (a)(1)(i)(A)(2) | to add heading “Responsibility,” to describe shoreside processor DCPL data entry responsibilities.
(ii) introductory text | (a)(14)(iv) introductory text | to add heading “Data entry time limits” and to add introductory text.
(ii)(A) | (a)(14)(iv)(E)(1) | to describe the data elements that must be recorded in the DCPL within 2 hours after completion of receipt of each groundfish delivery (see also footnote 1).
(ii)(B) | (a)(14)(iv)(F) | to describe the various recording time limits for landings information, product information, discard and disposition information, and all other required information (see also footnote 1).
(ii)(C) | (a)(14)(iv)(D)(2) |
(ii)(D) | (a)(14)(iv)(C)(1) |
(ii)(E) | (a)(14)(iv)(D)(1) |
(ii)(F) | (a)(14)(iv)(C)(2) | to describe the time limit for signing the DCPL (see also footnote 1).
(ii)(G) | (a)(14)(iv)(C)(3) | to describe the time limit for submitting the goldenrod logsheet to the observer (see also footnote 1).
(iii) | (a)(7)(iii)(B) and (D) | to add heading “Required information, if inactive,” to reference paragraph (c)(2) instead of duplicating that material, and to explain that no information is recorded in Part II if inactive (see also footnote 1).
(iv) introductory text | (a)(7)(i)(B), (a)(7)(iii)(A), and (a)(7)(x)(A) | to add heading “Required information Part I, if active” and to describe this information (see also footnote 1).
(iv)(A) | (a)(6)(iii)(D)(2) and (a)(7)(x)(A) | to provide instructions for the first day of the fishing year, whether active or inactive. to explain that page 1 should start with January 1 (see also footnote 1).
(iv)(B) | new | to describe the procedure for recording the week-ending date.
(iv)(C) | (a)(2)(iii) and (a)(5)(i) | to describe the “printed name” and “signature of manager” (see also footnote 1).
(iv)(D) | (a)(5)(iii) | to describe “name of shoreside processor or SFP”.
(iv)(E) | (a)(5)(iii) | to describe “geographic location of plant”.
(iv)(F) | (a)(5)(iii) | to describe “FPP number” and “ADF&G processor code”.
(iv)(G) | (a)(7)(xi) | to describe “Federal reporting area” (see also footnote 1).
(iv)(H) | (a)(7)(xv) | to describe the special “management programs” on Part I of the DCPL (see also footnote 1).
(iv)(I) | new | to describe “gear type” on Part I of the DCPL.
(iv)(J) | (a)(7)(x)(C) and (a)(7)(xii) | to describe how to record fish harvested with trawl gear in the COBLZ or RKCSA (see also footnote 1).
(iv)(K) | (a)(7)(xiii) | to describe “observer information” (see also footnote 1).
(v) introductory text | (a)(7)(ii)(A) and (a)(11)(i) | to add heading “Required delivery information Part I, if active” and to describe this information (see also footnote 1).
(v)(A) | (a)(6)(iii)(A)(1) and (a)(11)(iii)(A) | to describe “date of delivery” (see also footnote 1).
(v)(B) | (a)(6)(iii)(B) and (a)(6)(iii)(B)(1) | to describe “type of delivery” (see also footnote 1).
(v)(C) | (a)(11)(iii)(C) | to describe “non-submittal of discard report”.
(v)(D) | (a)(11)(iii)(D) | to describe “name and ADF&G vessel registration number” of vessel.
(v)(E) | (a)(6)(iii)(C) | to describe “receipt time” and add that time should be recorded in military format.
(v)(F) | (a)(7)(iv)(A), (a)(7)(iv)(C)(1) and (a)(7)(iv)(C)(7)(i) | to describe “estimated total hail weight” and add “hail weight” to replace “haul weight”. This would correct an inadvertent error wherein “haul weight” was placed into regulations (see also footnote 1).
(v)(G) | (a)(11)(iii)(G)(1) | to describe “ADF&G fish ticket numbers” (see also footnote 1).
(v)(H) | (a)(11)(iii)(H) | to describe “fish ticket numbers, states other than Alaska”.
(v)(I) | (a)(11)(iii)(I) | to describe “catch receipt numbers, states other than Alaska”.
(vi) introductory text | (a)(7)(ii)(B) and (a)(8)(i) | to add heading “Required landings information Part I, if active” and to describe this information.
(vi)(A) | (a)(6)(iii)(A)(2) and (a)(8)(i)(A) | to describe “date of landing” (see also footnote 1).
(vi)(B) | (a)(7)(iv)(D) and (a)(8)(i)(A) | to describe “daily total weight of landings” (see also footnote 1).
(vi)(C) | (a)(7)(iv)(D)(1) and (2) | to describe “scale weight” and remove “weighing some or all” and replace with “weighing the entire delivery” (see also footnote 1).
(vi)(D) | (a)(7)(iv)(I)(2) and (a)(8)(i)(A) | to describe “weekly cumulative weight of landings” (see also footnote 1).
(vi)(E) | (a)(7)(iv)(B) | to describe summarizing “weekly cumulative totals” (see also footnote 1).
(vi)(F) | (a)(8)(ii) | to describe “landings as product”.
(vii) introductory text | (a)(10)(i)(A)(1), (a)(10)(vii)(A), and (a)(11)(i) | to add heading “Required discard or disposition information Part I, if active” and to describe recording of this information (see also footnote 1).
(vii)(A) | (a)(10)(vii) | to describe “date of discard” (see also footnote 1).
(vii)(B) | (a)(10)(i)(A)(2) | to describe “discard species code and product code” (see also footnote 1).
(vii)(C) | (a)(7)(iv)(F)(1) and (a)(10)(i)(A)(2) | to describe “daily weight” (see also footnote 1).
(vii)(D) | (a)(7)(iv)(F)(2) and (a)(10)(i)(A)(2) | to describe “PSC discard numbers” (see also footnote 1).
(vii)(E) | (a)(7)(iv)(I)(2) and (a)(10)(i)(A)(2) | to describe “discard weekly cumulative totals” (see also footnote 1).
(viii) heading | new | to read “Required product information Part II, if active.”
(viii)(A) | (a)(7)(ii)(C)(1) and (2) and (a)(9)(i) | to describe recording of product information (see also footnote 1).
(viii)(B) | (a)(6)(iii)(D)(2) | to describe “page numbering” in Part II.
(viii)(C) | (a)(2)(iii) and (a)(5)(i) | to describe “printed name and signature of manager” (see also footnote 1).
(viii)(D) | (a)(5)(iii) | to describe “name of shoreside processor or SFP” in Part II.
(viii)(E) | new | to describe “FPP number and ADF&G processor code”.
(viii)(F) | new | to describe “week-ending date”.
(viii)(G) | new | to specify whether harvest occurred in the BSAI or GOA.
(viii)(H) | (a)(6)(iii)(A)(3) and (a)(9)(i)(A) | to describe “date of production” (see also footnote 1).
(viii)(I) | (a)(9)(i)(A) | to describe “species and product codes” (see also footnote 1).
(viii)(J) | (a)(7)(iv)(A)(1), (a)(7)(iv)(E), and (a)(9)(i)(A) | to describe “daily product weight” (see also footnote 1).
(viii)(K) | (a)(7)(iv)(A)(1), (a)(7)(iv)(I)(2), and (a)(9)(i)(A) | to describe “weekly cumulative totals of product weights” (see also footnote 1).
(ix) | (a)(9)(ii) | to add heading “Custom processing” and to add introductory text (see also footnote 1).
¹The information currently listed under § 679.5(a) for multiple catcher vessel and processor requirements would be revised under a new § 679.5(c)(5) to address specifically the shoreside processor DCPL.

Mothership DCPL

Currently, the regulations at 50 CFR part 679 do not have a section describing the mothership DCPL, although this logbook has been available since the beginning of the domestic logbook program. The description of this logbook formerly relied on generalized tables found in § 679.5(a). The proposed action would add a new § 679.5(c)(6) to describe stand-alone mothership DCPL regulations. Most of these proposed measures are technical in nature. Table 9 summarizes these additions.

Table 9. New § 679.5(c)(6) — Mothership DCPL
Paragraph under § 679.5(c)(6) | Derived from § 679.5 unless specified otherwise | Reason for change
(c)(6) | new | to add heading “Mothership DCPL”.
(i) | (a)(1)(i)(A)(2) | to add heading “Responsibility,” to describe “responsibility”, and to add language to describe the practice of incorporating information into the DCPL for all groundfish received from any source.
(ii) introductory text | (a)(14)(iv) | to add heading “Data entry time limits” and to describe these time limits.
(ii)(A) | (a)(14)(iv)(E)(1) | to describe the information required for each groundfish delivery to be recorded within 2 hours after completion of receipt of each groundfish delivery (see also footnote 1).
(ii)(B) | (a)(14)(iv)(D)(2) | to describe time limit for recording “product information” (see also footnote 1).
(ii)(C) | (a)(14)(iv)(C)(1) | to describe time limit for recording “discard or disposition information” (see also footnote 1).
(ii)(D) | (a)(14)(iv)(D)(1) | to describe time limit for recording “all other required information” (see also footnote 1).
(ii)(E) | (a)(14)(iv)(C)(2) | to describe time limit for “signing the completed DCPL logsheets” (see also footnote 1).
(ii)(F) | (a)(14)(iv)(C)(3) | to describe the time limit for submitting the goldenrod logsheet to the observer(see also footnote 1).
(iii) | (a)(7)(iii)(B) and (a)(7)(iii)(D) | to add heading “Required information, if inactive” and to add a cross reference to paragraph (c)(2) instead of duplicating that material (see also footnote 1).
(iv) introductory text | (a)(7)(i)(C) and (a)(7)(iii)(A) | to add heading “Required information, if active,” to add introductory text, and describe when a mothership is active (see also footnote 1).
(iv)(A) | (a)(6)(iii)(D)(1) | to describe “page number” and require that information for January 1 be recorded on page 1 whether or not receiving groundfish (see also footnote 1).
(iv)(B) | (a)(2)(iii) and (a)(5)(i) | to describe “printed name and signature of operator” (see also footnote 1).
(iv)(C) | (a)(5)(iv) | to describe “mothership identification” (see also footnote 1).
(iv)(D) | new | to describe “date” (see also footnote 1).
(iv)(E) | (a)(7)(xiv) | to describe “crew size” (see also footnote 1).
(iv)(F) | new | to describe “gear type”. This would add gear type of harvester.
(iv)(G) | (a)(7)(x)(b) and (a)(7)(xi) | to describe “Federal reporting areas” (see also footnote 1).
(iv)(H) | (a)(7)(x)(C) and (a)(7)(xii) | to describe how to record fish harvested with trawl gear in the COBLZ or RKCSA (see also footnote 1).
(iv)(I) | (a)(7)(xiii) | to describe “observer information” (see also footnote 1).
(iv)(J) | (a)(7)(xv) | to describe recording of special “management programs” (see also footnote 1).
(v) introductory text | (a)(7)(ii)(A) and (a)(11)(i) | to add heading “Required delivery information” and to describe the section (see also footnote 1).
(v)(A) | (a)(6)(iii)(A)(1) | to describe “date of delivery” (see also footnote 1).
(v)(B) | (a)(6)(iii)(A)(1)(ii), (a)(11)(iii)(B), and (a)(11)(iii)(B)(1) | to describe “type of delivery” (see also footnote 1).
(v)(C) | (a)(11)(iii)(C) | to describe “non-submittal of discard report” (see also footnote 1).
(v)(D) | (a)(11)(iii)(D) | to describe “vessel identification” (see also footnote 1).
(v)(E) | (a)(11)(iii)(E) | to add heading “Receipt time”, describe the “receipt time”, and add that time should be in military format.
(v)(F) | (a)(11)(iii)(F) | to describe the coordinates for the “beginning position of receipt” (latitude and longitude).
(v)(G) | (a)(7)(iv)(A), (a)(7)(iv)(C)(4) and (a)(7)(iv)(C)(7)(i) | to describe the “estimated total groundfish hail weight” and remove “haul weight” and replace with “hail weight”. This would correct an inadvertent error wherein “haul weight” was placed into regulations (see also footnote 1).
(v)(H) | new | to describe “IR/IU species” and to describe information requested in the mothership DCPL.
(v)(I) | (a)(11)(iii)(G)(1) | to describe “ADF&G fish ticket numbers” (see also footnote 1).
(vi) introductory text | (a)(7)(ii)(C) and (a)(9)(i) | to add heading “Product information” and to add introductory text (see also footnote 1).
(vi)(A) through (D) | (a)(9)(i)(A) | to describe recording of product data elements (see also footnote 1).
(vi)(E) | (a)(7)(iv)(B) | to describe summarizing “weekly cumulative product totals” (see also footnote 1).
(vi)(F) | (a)(7)(iv)(H)(2) and (3) | to describe the “zero product balance” (see also footnote 1).
(vi)(G) | (a)(9)(ii) | to describe “custom processing” (see also footnote 1).
(vii) introductory text | (a)(10)(i)(A)(1) and (a)(11)(i) | to add heading “Required discard or disposition information” and to describe the section (see also footnote 1).
(vii)(A), (B), and (D) | (a)(10)(vii)(A) | to describe data elements required for recording discard or disposition information (see also footnote 1).
¹The information currently listed under § 679.5(a) for multiple catcher vessel and processor requirements would be revised under a new § 679.5(c)(6) to address specifically the mothership DCPL.

Buying Station Report (BSR)

In addition to implementing changes to regulations describing logbooks, this rule would expand and make minor revisions to § 679.5(d), which describes the buying station report (BSR). The BSR regulations would be revised to include complete BSR information rather than contain cross references to generalized tables of information formerly found in § 679.5(a). These measures would create self-contained, stand-alone BSR regulation text. Most of these proposed measures are technical in nature. Table 10 summarizes these revisions.

Table 10. Section 679.5(d) — Buying Station Report (BSR)
Paragraph under § 679.5(d) | Derived from § 679.5 unless specified otherwise | Reason for change
(d)(1) introductory text |  | to remove (d)(1) introductory text because reference to paragraphs (a) and (b) no longer applies.
(1) heading | new | to read “Responsibility.”
(1)(i) | (a)(1)(i)(A)(3), (d)(1)(ii) and (d)(1)(iv) | to describe “responsibility” (see footnote 1).
(1)(ii) | (d)(1)(iii) | to describe documentation required to accompany each groundfish delivery from the landing site to the associated processor, including the printed ELB discard reports.
(1)(iii) | (a)(11)(ii)(B) | to describe a catcher vessel functioning as a buying station for its own catch.
(2) |  | to add heading “Data entry time limits” and to add “of a buying station” after “manager”.
(3) introductory text | new | to add heading “Required information, if inactive” and to describe that a buying station is not required to record information if inactive.
(4) introductory text | (a)(5)(v) and (d)(1) | to add heading “Required information, if active” and to add introductory text.
(4)(i) | (a)(6)(iii)(F) | to describe the original or revised report (see footnote 1).
(4)(ii) | (a)(5)(v) | to describe “name of buying station” (see footnote 1).
(4)(iii) | (a)(2)(iii) and (a)(5)(i) | to describe the operator or manager name and signature (see footnote 1).
(4)(iv) | (a)(7)(xv) | to describe the special management programs (see footnote 1).
(4)(v) | new | to describe “gear type” of harvester and to describe information requested on the BSR.
(4)(vi) | (a)(7)(xi) | to describe “Federal reporting area” (see footnote 1).
(4)(vii) | (a)(7)(xii) | to describe recording procedure if fishing occurred in the COBLZ or RKCSA (see footnote 1).
(4)(viii) | (a)(5)(v) and (d)(1)(i) | to describe “associated processor” and remove “Geographic location of plant” because the ADF&G processor code identifies this item.
(4)(ix) heading | new | to read “Catcher vessel delivery information”.
(4)(ix)(A) | (a)(11)(iii)(D) | to describe the identification information required from a catcher vessel making a delivery (see footnote 1).
(4)(ix)(B) | (a)(11)(iii)(C) | to describe recording the non-submittal of discard report (see footnote 1).
(4)(ix)(C) | (a)(11)(iii)(G)(2) | to describe “ADF&G fish ticket number” (see footnote 1).
(4)(ix)(D) | (d)(1)(v) | to describe the species codes and scale weight.
(4)(ix)(E) | (d)(1)(v) | to describe “groundfish hail weight”. Further “hail weight” would be substituted for “delivery weight” as a more accurate term.
(4)(x) heading | new | to read “Discard and disposition information”.
(4)(x) | (a)(10)(iii) | to describe the discard and disposition information (see footnote 1).
¹The information currently listed under § 679.5(a) for multiple catcher vessel and processor requirements would be revised under § 679.5(d) to address specifically the buying station report (BSR).

IERS and eLandings

ADF&G, NMFS, and IPHC collect harvest data for management of groundfish, Pacific halibut, other finfish species, and shellfish species in the waters off Alaska. NMFS collects groundfish harvest data for FMP species in the EEZ through logbooks, WPRs, and SPELR. NMFS collects IFQ halibut, CDQ halibut, and IFQ sablefish harvest data through online system landing reports. ADF&G collects harvest data for species taken in the waters of the State of Alaska (State) and has responsibility for some fisheries in the EEZ which were delegated to the State via an FMP, such as lingcod, black rockfish, and demersal shelf rockfish. ADF&G maintains records of harvest through fish tickets for non-FMP species. ADF&G and NMFS cooperatively manage the Crab Rationalization Program fisheries in the BSAI through eLandings. The IPHC collects harvest data for management of IFQ Pacific halibut in both State waters and in the EEZ through an Internet recordkeeping system.

A new electronic reporting system, the IERS, was first implemented for use in the CR crab fisheries in August 2005. NMFS would require the use of eLandings, the data entry component of IERS, in place of the SPELR reporting system with this proposed rule for those programs currently required to use SPELR. NMFS also would require the use of eLandings in place of the online data entry system for IFQ halibut, CDQ halibut, and IFQ sablefish.

NMFS proposes that eLandings be used as a single reporting system for commercial harvest and production of groundfish, halibut, and crab. eLandings would allow processors and others to make all three required landings reports to regulatory agencies (NMFS, IPHC, and ADF&G) with a single reporting system. Using eLandings would remove reporting duplications, and once implementation is complete, eLandings would simplify recordkeeping and reporting. Additional benefits of the eLandings system include:

• Improved accuracy through immediate verification of permits, vessel identification, and other reported data;

• Timely catch reports for management agency use;

• Options for processors to import or export catch and production information; and

• Significant reduction in data entry by management agencies and processors for programs managed under any Federal program, such as IFQ.

Processors would report groundfish, crab, halibut, and sablefish landings on the eLandings website (http://www.elandings.alaska.gov) and print landings records in the ADF&G fish ticket format. Fish and shellfish would be reported and printed as daily at-sea or shoreside production reports. IFQ information would be printed in IFQ report format. Even though these reports are submitted to the agency electronically, paper copies of the reports would be maintained by the submitter for purposes of enforcement audits.

Clients with no web access, such as the at-sea fleet, would use eLandings desktop software to create reports and then submit landing reports as e-mail attachments. The vessels use satellite communications which may or may not include telephone, Internet, text messaging, email, and email attachment capabilities. Communication providers provide different types of satellite communications, and not all these have email attachment capability. Several different types of satellite communications telephone systems would meet the email attachment requirement. These include the Stratos, Iridium phone, Inmarsat A, Inmarsat B, Inmarsat M (or mini M), Fleet 66, and other Fleet models.

While the consolidation of agency reporting procedures appears straightforward, it is complicated by the varying nature of the reports. ADF&G fish tickets and NMFS paper and electronic reports are primarily historic records of harvests and deliveries, while IFQ reports are transactions that affect specific account balances and the ability of permit holders to make future landings.

ADF&G and NMFS began meeting in 1999 to address fishery data acquisition issues facing both agencies. IPHC joined the initiative to make comprehensive groundfish landing data available to all management agencies and to provide seafood processors with consistent and non-redundant means of reporting commercial harvests. The initial effort under this initiative coordinated the coding schemes for reports made on each of the agencies' systems; these codes are currently in use for existing systems. As the effort progressed, it became apparent that a single electronic reporting system for commercial landing data might be feasible. The Pacific States Marine Fisheries Commission (Pacific States) received a grant to fund development of an interagency electronic reporting system.

In late 2001, Pacific States engaged Wostmann & Associates (WAI), a Juneau-based consulting firm, to assess the potential electronic reporting needs of ADF&G, IPHC, and NMFS. In addition, WAI assessed the needs of the fishery processors required to provide landing and production data. The needs assessment covered

• Data requirements;

• Technological capabilities;

• Regulatory implications; and

• Procedural challenges that might affect the success of an electronic reporting system.

The assessment concluded that an integrated electronic reporting system would be feasible and could provide significant benefits to processors and the fishery management agencies.

The needs assessment recommended a staged development approach. Under this approach, limited development would occur and results would be analyzed before proceeding to the next development stage. The first stage was to develop a technology demonstrator using the technologies anticipated for use in the IERS to simulate communications and processing needs. This first stage allowed evaluation of the system components, development environment, and communications infrastructure in use actual use in Alaska.

When the NMFS halibut and sablefish IFQ card-swipe reporting system was initially deployed in the mid-1990s, significant performance problems occurred due to communications lag times and failures, even though testing in Juneau had indicated that the system's data communication architecture was reliable. An important objective of the technology demonstrator was to prevent a repeat of that experience by testing the system communications architecture against the communications infrastructure in Alaska before the project committed to building the production software. Testing with the limited bandwidth and satellite communications used in remote Alaskan fishing ports provided important feasibility information for project decision making. Additionally, the knowledge gained helped software developers anticipate conditions IERS encounters in the field and allows for better design decisions to be made.

In the summer of 2003, Pacific States engaged WAI to develop the technology demonstrator and to report on the performance of Internet communications and systems infrastructures at seafood processor and agency locations around the state. WAI also evaluated the software development tools and software components used during the project. WAI concluded that a web-based reporting system was acceptable, and the technology demonstrator report provides the performance analysis and the assessment of the different technologies.

The primary program goals of IERS were identified as follows:

• Provide commercial fisheries landing and production data, by processors and catcher/processors, to agencies;

• Meet the primary data needs of each of the participating agencies;

• Adhere to regulations;

• Adhere to confidentiality requirements;

• Improve data quality;

• Improve data collection methods to reduce redundancy and to consider business constraints;

• Provide timely commercial catch statistics;

• Provide trip-based information; and

• Provide electronic and paper documentation.

In 2004, Pacific States awarded a contract to WAI for the development of IERS to be used for data collection by three separate agencies: ADF&G, NMFS, and IPHC. The system was developed under the leadership of the eLandings Steering Committee. eLandings is the data entry component of IERS, a web-based system. Users of eLandings receive immediate confirmation of data submission through the system. The submitted records are available for immediate retrieval through the web interface and no return receipt is required. The language remains the same for entities using the desktop version of IERS, and a return receipt is generated by the system.

In 2005, NMFS published a final rule (70 FR 10174, March 2, 2005) that required the use of eLandings for the CR Program. In 2006, NMFS published a proposed rule (71 FR 33040, June 7, 2006) and a final rule (71 FR 67210, November 20, 2006) stating that managers of shoreside processors or SFPs that are authorized Central GOA Rockfish Pilot Program processors must use SPELR or NMFS-approved software, instead of a logbook and WPR, to record Rockfish. If this proposed rule is approved and implemented, these Rockfish processors would be required to use eLandings instead of SPELR. NMFS also authorized eLandings for voluntary processor data entry reporting of groundfish landings in place of SPELR.

Currently, § 679.5(e) describes the SPELR. If this proposed rule is approved and implemented, § 679.5(e) would be completely removed and replaced by a new § 679.5(e) containing eLandings regulatory text. All regulations describing IERS and eLandings requirements would be moved to this new section, even those describing eLandings for CR crab, which are currently at § 680.5. All participants that are currently required to use SPELR would now be required to use IERS. The term, “other NMFS-approved software” would be added throughout this section to indicate that software other than eLandings could be used for data entry if approved by NMFS. Table 11 summarizes these revisions.

Table 11. New § 679.5(e) — Interagency Electronic Reporting System (IERS) and eLandings
Paragraph under § 679.5(e) | Derived from § 679.5 unless specified otherwise | Reason for change
(e) |  | remove this paragraph; because eLandings would replace SPELR.
(e) heading | new | to read “Interagency Electronic Reporting System (IERS) and eLandings”.
(e)(1) heading | new | to read “Responsibility”.
(1)(i) | (l)(2)(iv)(B)(1) and § 680.5(c) introductory text | to add heading “Hardware, software, and Internet connectivity” and to expand the current requirement for hardware, software, and Internet connectivity for data entry to include participants reporting groundfish, IFQ halibut, IFQ sablefish, CDQ halibut, CDQ crab, Adak crab, and IFQ crab information.
(1)(ii) heading | new | to read “Computer or network failure.”
(1)(ii)(A) | new | to add a heading “Groundfish” and to describe the responsibility of the User to keep a groundfish logbook on hand as backup in case of computer or network failure when using eLandings for groundfish.
(1)(ii)(B) | § 680.5(b)(10) | to add a heading “IFQ manual landing report for crab, halibut, and sablefish” and to describe the use of the IFQ manual landing report for crab, halibut, and sablefish as backup in case of computer or network failure when using eLandings.
(2) heading | new | to read “eLandings processor registration.”
(2)(i) | § 680.5(c)(1)(i) | to describe the procedure to obtain a UserID.
(2)(ii) | § 680.5(c)(1)(i) and (c)(1)(ii) | to describe the procedure for completion of an eLandings User Agreement Form.
(2)(iii) | § 680.5(c)(1)(ii) | to describe the responsibility associated with signature on the registration form.
(2)(iv) | § 680.5(c)(1)(ii) | to describe the UserID confirmation and to describe the steps a User must take when submitting the registration.
(3) | § 680.5(c)(2) | to add heading “Information required for eLandings processor registration form” and add introductory text.
(3)(i) | new | to add heading “Operation type” and describe “operation type”.
(3)(ii) | new | to add heading “Operation name” and describe “operation name”.
(3)(iii) | new | to add heading “ADF&G processor code and home port of shoreside processor, SFP, mothership, or catcher/processor.”
(3)(iv) heading | new | to read “Federal permit number”.
(3)(iv)(A) through (E) | new | to describe the permit number associated with the specific operation type.
(3)(v) | new | to add heading “Physical operation” and describe the information required if a buying station or custom processor.
(3)(vi) | new | to add heading “UserID registration for primary User” and describe the information required for a User.
(4) | new | to add heading “Information entered automatically for eLandings landing report” and to describe the fields that eLandings automatically fills using information from the processor registration records.
(5) heading | new | to read “Information entered for each groundfish delivery to a shoreside processor and SFP.”
(5)(i) | new | to add heading “Contents”, to add introductory text, and list the eLandings data elements required from a shoreside processor and SFP for each groundfish delivery.
(5)(ii) | new | to add heading “Signatures” and to describe signatures required on each landing report created by eLandings.
(5)(iii) | (a)(14)(iv)(E)(1) | to add heading “Submittal time limit” and to describe the time limit to enter the information listed at paragraphs (e)(5)(i) and (ii) into eLandings.
(6) heading | new | to read “Information entered for each groundfish delivery to a mothership.”
(6)(i) | new | to add heading “Contents”, to add introductory text, and list the eLandings data elements required from a mothership for each groundfish delivery.
(6)(ii) | new | to add heading “Signatures” and to describe signatures required on each landing report created by eLandings.
(6)(iii) | new | to add heading “Submittal time limit” and to describe the time limit to enter the information listed at paragraphs (e)(6)(i) and (ii) into eLandings.
(7) heading | new | to read “Information entered for each IFQ halibut, CDQ halibut, and IFQ sablefish delivery”.
(7)(i) | (l)(2)(iii) | to add heading “Contents” and list the eLandings data elements required for each IFQ halibut, CDQ halibut, and IFQ sablefish delivery. Some variables would be removed from the list because eLandings would autoload them.
(7)(ii) | § 679.42(c)(1)(iii) and (iv) | to add heading “Signatures” and to describe signatures required on each landing report (ADF&G fish ticket) and IFQ receipt, and add the signature requirement for the IFQ manual landing report.
(7)(iii) | new | to read “Time limits”.
(7)(iii)(A) | (l)(2)(ii)(A) | to add heading “Landing hours” and to describe time range within which a landing of IFQ halibut, CDQ halibut, or IFQ sablefish may commence.
(7)(iii)(B) | (l)(2)(ii)(B) | to add heading “Landing completion” and to describe the 6 hour time limit to enter the information listed at paragraph (e)(7)(i) into eLandings.
(8) heading | new | to read “Information entered for each IFQ crab delivery”.
(8)(i) | § 680.5(d)(7) | to add heading “Contents” and to list the eLandings data elements required for each IFQ crab delivery. Also, the following data elements would be removed because these elements are required by the state and are not collected in the IFQ database: ADF&G processor code of first purchaser; State of Alaska Interim Use Permit (IUP) number; Commercial Fisheries Entry Commission year sequence number; Indicate (YES or NO) whether a portion of the harvested IFQ crab was or will be delivered to another RCR (partial delivery); Number of pot lifts in each ADF&G statistical area; Number of crew, including operator and excluding observer(s); and Number of observers. And “gear code” would be removed because pot gear is the only legal gear allowed.
(8)(ii) | § 680.5(d)(7) | to add heading “Signatures” and to describe signatures required on each landing report.
(8)(iii) heading | new | to read “Submittal time limits”.
(8)(iii)(A) | § 680.5(d)(4)(ii) | to describe the 6 hour time limit to enter the information listed at paragraphs (e)(8)(i) and (ii) into eLandings after all crab is offloaded.
(8)(iii)(B) | § 680.5(d)(4)(i) | to describe the time limit for a catcher/ processor to submit a weekly IFQ crab landing report.
(9) | § 680.5(d)(8) | to add heading “Information entered for CR crab custom processing landings”, to describe CR crab custom processing information, and to update cross references.
(10) heading | new | to read “Shoreside processor or SFP information entered for eLandings production report”.
(10)(i) | new | to add heading “Contents”, and describe information automatically filled by eLandings as well as that required from User.
(10)(ii) | new | to add heading “Submittal time limits” and to describe the time limit to enter the information listed at paragraph (e)(10)(i) into eLandings.
(11) heading | new | to read “Catcher/processor or mothership information entered for eLandings production report”.
(11)(i) | new | to add heading “Contents”, to describe information automatically filled by eLandings as well as that required from User.
(11)(ii) | new | to add heading “Submittal time limit” and to describe time limits to enter production information into eLandings.
(12) | § 679.5(f) and § 680.5(b)(8) | to add heading “eLandings printed reports” and to add introductory text. This would replace text at § 679.5(f) describing SPELR printed reports with revised text describing eLandings printed reports and describe signatures required on eLandings landing reports.
(13) | new | to add heading “Retention of eLandings printed reports” and provide cross reference to paragraph (a)(5).

Electronic Logbooks (ELBs) and Equipment and Operational Requirements

Currently, the regulations at § 679.5(f) describe SPELR printed reports. NMFS proposes to remove the description of SPELR printed reports and replace it with new text describing the ELBs. New paragraph (f) would describe ELB user reporting options and responsibilities; software requirements, data entry instructions, data export instructions; regular backup and correction of errors instructions; submittal time limits; standards for maintaining a DFL or DCPL onboard for emergency use; and printing and maintaining paper copies of ELB reports.

Early in the ELB development process, one vendor developed and supplied software for a NMFS pilot program for catcher vessels using trawl gear. Because the pilot program involved voluntary participants, no costs were involved other than the training time to learn how to use the software. The pilot program involved a dozen or more vessels, some of which still use the software instead of the DFL, despite that the software is no longer supported by the vendor. The pilot program demonstrated that electronic software is feasible onboard a catcher vessel. This action may foster the voluntary use of this software by codifying the conditions governing its adoption and application. Nothing in this action mandates the use of ELBs by fishing vessel operators. Fishermen could continue to submit the requested information using the existing DFL.

Vessels that currently use the ELB would be required to report inactive period dates, the reason for the inactivity, and the date and time when they start a trip after being inactive. This requirement duplicates a requirement in the DFL that the ELB is designed to replace.

This rule would extend the ELB option to catcher vessels and catcher/processors using longline or pot gear, catcher/processors using trawl gear, and to motherships.

The infrastructure to obtain information collected by fishermen using electronic logs already exists. If new vendors enter the marketplace, and more catcher vessels and catcher/processors use the software, NMFS' costs of using catcher vessel log information actually may decrease with technological advances in ELB software.

NMFS proposes to update equipment and operational requirement regulations (§ 679.28). Minor revisions would remove outdated text and codify existing reporting practice for catch weighing and VMS operation regulations. A new section would be added to provide the process and criteria by which a private-sector vendor could get an ELB software program approved for use in the NMFS Alaska Region fisheries. Table 12 provides the proposed changes for this section.

Table 12. Section 679.28 — Electronic Logbooks and Equipment and Operational Requirements
Paragraph under § 679.28 | Derived from § 679.28 unless specified otherwise | Reason for change
(a) |  | to add “catch monitoring and control plan, and catcher vessel electronic logbook software” to update the paragraph to recent additions to the text; to remove “This section does not require any vessel or processor to provide this equipment. Such requirements appear elsewhere in this part.” because § 679.28(f)(6) does list requirements to use VMS.
(b)(2)(iii) |  | to state that scales be inspected and approved by a NMFS-staff scale inspector or an inspector designated by NMFS and trained by a NMFS-staff scale inspector.
(b)(2)(iv) | (b)(2)(v) | to simplify this language by removing unnecessary text.
(b)(2)(v) |  | to remove and reserve this paragraph because
(b)(2)(vi)(A) |  | to remove “authorized by the Regional Administrator” because the language is extraneous.
(c)(3)(i) |  | to correct a cross reference [found in REMOVE/ADD Table].
(f)(4)(i) | new | to describe how to register a VMS unit.
(f)(4)(ii) | (f)(4)(i) | to add the fields for information requested on the VMS check-in report.
(f)(4)(iii) | (f)(4)(ii) | redesignated
(f)(5) | (f)(5) introductory text, (f)(5)(i) and (f)(5)(ii) | to remove text describing an outdated procedure.
(h) | new | to add heading “ELB software” and to describe software for the four types of ELBs.
(h)(1) | new | to add heading “How do I get my ELB software approved by NMFS?” and to describe how to obtain specifications for ELB software.
(h)(1)(i) | new | to add heading “Specifications” and to describe the types of ELB software.
(h)(1)(ii) | new | to add heading “ELB submittal package” and to describe the information required for software approval from NMFS.
(h)(1)(iii) | new | to add heading “ELB approval” and to describe NMFS' ELB requirements.
(h)(2) heading | new | to read “What if I need to make changes to NMFS-approved ELB software?”
(h)(2)(i) | new | to add heading “NMFS-instigated changes” and to describe procedure when NMFS makes changes in regulations that affect ELB software.
(h)(2)(ii) | new | to add heading “Developer-instigated changes” and to describe procedures for instituting developer-instigated changes to ELB software.
(h)(2)(iii) | new | to add heading “NMFS-approved ELB changes” and to describe procedure vendor must use to notify users of ELB updates.

Limitations on Use of QS and IFQ

NMFS proposes several revisions and edits to the regulations at § 679.42. Miscellaneous revisions include removing outdated text, reorganizing text, addition of a term “non-individual entity”, revisions regarding the occurrence where an approved IFQ allocation for one IFQ permit holder exceeds the limitations of catch and retention on a single vessel, and revisions regarding the allocation of quota share. Most of these proposed measures are technical in nature. Table 13 summarizes these revisions.

Table 13. Section 679.42 — Limitations on Use of QS and IFQ
Paragraph under § 679.42 | Derived from § 679.42 unless specified otherwise | Reason for change
(c)(1)(iii) and (c)(1)(iv) |  | paragraph (c)(1)(iii) would be redesignated as § 679.40(h)(1)(i); paragraph (c)(1)(iv) would be redesignated as § 679.40(h)(1)(i).
(c)(2) introductory text |  | paragraph (c)(2) introductory text would be redesignated as § 679.40(h)(1) introductory text.
(c)(2)(i) |  | paragraph (c)(2)(i) would be redesignated as § 679.40(h)(1) introductory text.
(c)(2)(ii) |  | 1st sentence of § 679.42(c)(2)(ii) would be redesignated as § 679.40(h)(1)(ii). 2nd sentence of § 679.42(c)(2)(ii) would be redesignated as § 679.40(h)(2).
new (c)(2) | (j)(6) | “other entity” would be replaced with “non-individual entity” (meaning any type of entity other than a natural or human entity). This would remove “QS initial allocation of QS assigned to categories B, C, or D” and replace it with “an allocation of QS”, because this text refers to any allocation of QS. This would add “to the individual person level” to distinguish shareholders or partners; and add “or other non-individual entity” to accurately describe and include all entities to which this applies.
(c)(3) |  | this paragraph would be deleted because it duplicates text found at § 679.40(h)(3).
(h)(3) |  | to add heading “Excess” and to describe an exemption applicable in circumstances where an approved IFQ allocation for one IFQ permit holder exceeds the limitations of catch and retention on a single vessel.
(h)(4) | new | to add heading “Liability” and a description of a participant's responsibility when harvest limitations are exceeded.
(j) introductory text |  | to add other non-individual entities to those entities already subject to the rule such as after “corporation or partnership” [found in REMOVE/ADD table].
(j)(6) | (j)(7) | paragraph (j)(7) would be redesignated as paragraph (j)(6).

Miscellaneous part 679 Changes

NMFS proposes several revisions and edits to the regulations at 50 CFR part 679. Miscellaneous revisions include updating text to new procedures, removing outdated text, correction of cross references, addition of a prohibition regarding operation types on an FFP, revisions regarding the Sitka Pinnacles Marine Reserve, and revisions regarding the safety of observers who are transferred at sea between vessels. Table 14 summarizes these revisions.

Table 14. Miscellaneous part 679 Revisions and Edits
part 679 Location | Derived from | Reason for change
§ 679.1 introductory text |  | to correctly cite the authorizing laws [found in REMOVE/ADD Table].
§ 679.1(a)(2) |  | to correctly cite the State of Alaska regulation [found in REMOVE/ADD Table].
§ 679.7(a)(1)(iii) | new | to provide a prohibition regarding operation type(s) on an FFP. This new provision would prohibit fishing operations other than what is specified on the vessel's FFP. This would support the changes made to § 679.4(b)(3) to simplify vessel operations categories.
§ 679.20(e) heading |  | to add the abbreviation “MRA”. This would provide reference to the abbreviation which is found throughout the text [found in REMOVE/ADD Table].
§ 679.20(g)(2)(iii) |  | to correct a cross reference [found in REMOVE/ADD Table].
§ 679.21(a)(2) |  | to correct an inadvertent omission of SFPs [found in REMOVE/ADD Table].
§ 679.21(e)(1)(ii) |  | to correct a cross reference [found in REMOVE/ADD Table].
§ 679.21(e)(7)(vii) |  | to describe the applicable time period [found in REMOVE/ADD Table].
§ 679.22(b)(1)(iii) |  | by removing “open to any trawl other than a pelagic trawl gear year round” and replacing it with “open unless otherwise closed to trawling.” [found in REMOVE/ADD table].
§ 679.22(b)(5)(i) |  | to revise text regarding groundfish fishing in the Sitka Pinnacles Marine Reserve, a closed area. This revision would not add any new requirements but would rather rearrange the text to describe that an FFP holder and any vessel named on an FFP may not anchor in the Reserve.
§ 679.22(b)(5)(ii) |  | to revise text that prohibits vessels with FFP's and IFQ permits from fishing and anchoring in the Sitka Pinnacles Marine Reserve, a closed area. This revision would state that persons, in addition to vessels, fishing under an IFQ halibut or sablefish permit may not fish or anchor in the Sitka Pinnacles Marine Reserve. It would further state that a vessel with an IFQ permit holder or IFQ card holder onboard may not be anchored in the Sitka Pinnacles Marine Reserve.
§ 679.40(c)(3) |  | to amend text regarding an IFQ permit. To remove “accompanied by a statement” and “as of January 31 of that year”, because NMFS no longer requires these provisions. To remove “after the beginning of each fishing year but prior to the start of the annual IFQ fishing season” and replacing it with “prior to the start of the IFQ fishing season”.
§ 679.40(h) heading | new | to read “Properly debited landing.”
§ 679.40(h)(1) introductory text | § 679.42(c)(2) introductory text | § 679.42(c)(2) introductory text would be redesignated as § 679.40(h)(1) introductory text and revised by removing “debit a CDQ or IFQ account” and replacing it with “debit a CDQ halibut, IFQ halibut, or IFQ sablefish account”.
§ 679.40(h)(1)(i) | § 679.42(c)(2)(i) | § 679.42(c)(2)(i) would be redesignated as § 679.40(h)(1)(i) and two cross references would be corrected.
§ 679.40(h)(1)(ii) | § 679.42(c)(2)(ii) | 1st sentence of § 679.42(c)(2)(ii) would be redesignated as § 679.40(h)(1)(ii) and the words “(in pounds)” added to correlate with eLandings requirements and to provide a more precise instruction.
§ 679.40(h)(2) | § 679.42(c)(2)(ii) | 2nd sentence of § 679.42(c)(2)(ii) would be redesignated as § 679.40(h)(2) and revised to remove unnecessary text.
§ 679.40(h)(3) | § 679.5(l)(2)(i)(A) | § 679.5(l)(2)(i)(A) would be redesignated as § 679.40(h)(3), “IFQ sablefish catch must be” would be removed and replaced with “IFQ sablefish catch onboard a vessel must be”.
§ 679.50(g)(1)(ix)(A) |  | This change would revise text regarding at-sea transfer of an observer by removing “via small boat or raft”. The result of this revision would be to increase safety of observer transfers regardless of the method of transfer. The change would also strengthen OLE's ability to respond to unsafe observer transfer incidents. The OLE recently took enforcement action against a vessel operator who conducted a transfer of a NMFS certified observer at sea, at night, and without the observer's consent. The transfer occurred between two vessels which were nested side to side. While the facts of the case were felt to have merit, the transfer was not conducted via raft or small boat; therefore, the elements of the violation were determined to have not been met.
§ 679.61(d)(1) and § 679.61(e)(1) |  | to correct a cross reference error [found in REMOVE/ADD Table].

Figures to part 679

NMFS proposes changes for Figures 3a, 5, 7, and 12 to part 679. The revisions to the figures add cross references to pertinent regulatory text, revise text within the figures, and reconcile figure titles and graphics with regulatory text. Table 15 summarizes these changes.

Table 15. Changes to part 679 Figures
Figure No. | Reason for Change
3a | by redrawing the boundary to show that Reporting area 610 ends at 170 degrees, not 171 degrees as shown on the illustration. This revision would bring the graphic and regulatory coordinates into agreement.
5a | by removing the current figure title and adding in its place “Kodiak Island Closure Status for Vessels Using Non-pelagic Trawl Gear (see § 679.22(b)(1)).” The legend text “Type III Areas Open: reserved for announced closures” would be replaced with “Type III Areas Open: unless otherwise closed to trawling.”
7 | by adding “(see § 679.24(d)(4))” at the end of the figure title to assist the reader in finding related text. Text within the figure would be revised by removing “DUTCH HARBOR” and by adding in its place “BERING SEA” for consistency between the figure and regulatory text.
12 | by revising the figure title to read “Bristol Bay Trawl Closure Area (see § 679.22(a)(9))”. In addition, the legend text “Nearshore Bristol Bay Trawl Closure Area: CLOSED ALL YEAR” would be replaced with “Bristol Bay, as described in the current edition of NOAA chart 16006, is closed at all times in the area east of 162°00′ W. long.” These revisions would reconcile the areas described in the figure with the text.

Tables to part 679

NMFS would remove Table 1 and replace it with Tables 1a, 1b, and 1c. NMFS proposes changes to Tables 2a, 2b, 2d, 4, 9, 10, 11, 12, 14a, 14b, and 15 to part 679 for use with IERS and also to correct minor errors. Table 16 summarizes these changes.

Table 16. Changes to part 679 Tables
Table No. | Reason for Change
1 | Table 1 would be split into Table 1a , Table 1b, and Table 1c. This change would accommodate eLandings codes.
1a | to add title “Delivery Condition and Product Codes” to accommodate eLandings. Shellfish codes would be added from Tables 3a and 3b to part 680: 75 (soft shell crab), 79 (deadloss), 80 (sections), and 81 (meat) and one additional code, 76 (bitter crab).
1b | to add title “Discard and Disposition Codes”, list the discard and disposition codes previously in Table 1; add code 60 (whole fish sold for human consumption), code 61 (bait/whole fish sold), code 62 (overage), code 63 (confiscated), code 64 (tagged fish, exempt from IFQ), code 79 (deadloss, crab only), and code 87 (halibut retained for future sale). Remove code 02 (whole fish/bait, sold). These changes would accommodate IERS.
1c | to add title “Product Type Codes” and list the product designation codes previously listed in Table 1.
2a | to add “North Pacific” to the term “Octopus” and to add “majestic” to the term “Squid” to better define these terms.
2b | to remove crab species previously listed in Table 2d and list them in Table 2b to keep all shellfish together. Scientific names for the prohibited species in this table would be added. The management program under which these codes are used (CR crab or Groundfish PSC) would be added to distinguish between these programs and the different use of crab. When in the CR Program, participants directly fish for crab and record the crab as catch. In the groundfish fisheries, these same crab are prohibited, must be returned to the sea, and are recorded as PSC discard. These changes to Table 2b would accommodate IERS.
2d | to add species codes “880 Pacific oyster”, “211 Wrymouth”, and “217 wolf eel”; to remove “720 albacore” and “515 surf smelt”; to revise 810 to read “Washington butter clam”, 815 to read “Pacific geoduck clam”, 840 to read “Pacific littleneck clam”, 830 to read “Pacific razor clam”, and 812 to read “Arctic surf clam” and create a subsection for shellfish to accommodate IERS.
4 | to correct a typographical error for the latitude for Chowiet Island.; the coordinates are correct on Table 5.
9 | by removing “daily production report (DPR)” and “SPELR”, because these items would be removed from the regulations. This action also would add records for eLandings and update records for VMS. In addition, scale and weight records would be updated and a new record would be added for a video monitoring system which was added by the rockfish final rule although Table 9 was not changed to reflect the addition.
10 | by adding footnote 12 to describe an existing term, “aggregated non-groundfish”. This would amend this term and describe its use in determining maximum retainable amounts (MRAs) for GOA incidental catch species. The footnote would specifically state that IFQ halibut are considered part of the basis species, “aggregated non-groundfish”.
11 | by adding an eighth footnote to describe an existing term, “aggregated non-groundfish”. This addition would further explain these terms and their use in determining maximum retainable amounts (MRAs) for BSAI incidental catch species; the footnote specifically states that IFQ and CDQ halibut are considered part of the basis species, “aggregated non-groundfish.” Changes to footnotes 4 and 7 would update the table cross reference. A change to footnote 3 would remove outdated text. The last sentence of footnote 4 would be removed, because NMFS no longer manages these three species as a species group in the CDQ Program. They are managed as three individual quota categories, the same as they are managed for the non-CDQ fisheries in the BSAI.
12 | to correct a typographical error for the latitude for Chowiet Island; the coordinates are correct on Table 5.
14a | to add a port code for Larson Bay, Alaska, and to remove a port code for Halibut Cove, Alaska. These changes would accommodate eLandings.
14b | to add a port code for Vancouver, British Columbia, Canada. This change would accommodate eLandings.
15 | to divide the table into 3 subsections - NMFS & ADF&G Gear Codes, ADF&G Gear Codes, and Fixed Gear. This would also remove outdated material, and add new material required for eLandings.

Miscellaneous Revisions to part 680

NMFS proposes several changes to 50 CFR part 680 that would correct miscellaneous errors, revise certain definitions, reorganize eLandings text, and add a CR Registered Crab Receiver Ex-vessel Volume and Value Report. Table 17 summarizes these changes.

Table 17. Miscellaneous Revisions to part 680
Paragraph under part 680 | Derived from | Reason for change
Paragraphs (1) through (4) of the definition for “Crab individual fishing quota (crab IFQ)” § 680.2 |  | to revise “Catcher vessel crew (CVC) IFQ”, “Catcher vessel owner (CVO) IFQ”, “Catcher/processor owner (CPO) IFQ”, and “Catcher/processor crew (CPC) IFQ” such that each is a unique and complete description of the term.
Definition for “sideboards” under § 680.2 | new | to read: “(see § 680.22)”. This definition is explained in introductory paragraph 680.22. Because the term “sideboards” is used frequently in the text, the addition of a cross reference would be helpful to the reader.
§ 680.4(d)(3) |  | to include cooperatives in IFQ permit issuance. Current language limits IFQ issuance to QS holders and does not include cooperatives in the IFQ permit issuance. Cooperatives file annual applications for IFQ permits and receive IFQ permits but do not hold QS. Also, recipients of transfers may not be eligible for IFQ or IPQ without completing an annual application for IFQ/IPQ with the transfer. The proposed language is necessary to allow for all parties that may be able to receive IFQ, to receive it.
§ 680.5(a)(2)(i)(G) |  | to correct a cross reference to read “§ 679.5(e)(9)”. This change would provide the new location for the CR crab landing report information [found in REMOVE/ADD Table].
§ 680.5(b) |  | removed; this information would be integrated into § 679.5.
§ 680.5(b) heading | new | to read “IFQ crab landings.”
§ 680.5(b)(1) | § 680.5(d) | to add a cross reference to § 679.5(e).
§ 680.5(b)(2) | § 680.5(b)(1) | to remove “retained crab catch” and replace it with “landed crab catch” and to add a cross reference to § 679.5(e).
§ 680.5(c) and (d) |  | removed; these paragraphs would be integrated into § 679.5.
§ 680.5(m) |  | to add a CR Registered Crab Receiver Ex-vessel Volume and Value Report. Addition of this form would change the requirement to report the price from mandatory to optional on the IFQ crab landing report, because the price is not accurate at the time of landing. An additional effect would be the removal of a requirement for an RCR who receives a landing of CR crab harvested under the CDQ or Adak community allocation programs to submit for each landing the price per pound. Instead, each RCR would be required to submit a CR Registered Crab Receiver Ex-vessel Volume and Value Report near the end of the crab fishing year. An accurate report of crab value is important for assessing fees for the CR crab fisheries.
§ 680.7(e)(1) |  | to state that a legible copy of a valid crab IFQ permit is required to be onboard, not the original IFQ permit [found in REMOVE/ADD Table].
§ 680.20(g)(2)(ix) |  | to remove a cross reference to a paragraph that no longer exists [found in REMOVE/ADD Table].
§ 680.23(b)(4) |  | to correct text by removing “Land all product processed onboard” and replacing it with “Offload all CR crab product processed onboard”. In addition, by removing “on a scale approved by a state in which CR crab is landed” and replacing it with “on a scale approved by the state in which the CR crab product is removed from the vessel that harvested the CR crab”. This would state that CR crab product can be offloaded in a state other than Alaska and weighed on a scale certified by that State.
§ 680.40(c)(2)(vi)(A) |  | to correct a cross reference [found in REMOVE/ADD Table].
§ 680.44(a)(2)(i) |  | to correct the text to exclude personal use/ deadloss/ confiscated crab from calculation of fees. Personal use and deadloss crab are debited from the IFQ holder's allocation; however, they do not have ex-vessel values and are not considered in assessing fees. Crab confiscated by NMFS or the State of Alaska, for example crab harvests in excess of the IFQ amount, are not subject to the fees under § 680.44. This proposed language revises the regulations to state that fees are not assessed for these types of crab.

Classification

Pursuant to section 304 (b)(1)(A) of the Magnuson-Stevens Act, NMFS has determined that this proposed rule is consistent with the FMP, other provisions of the Magnuson-Stevens Act, and other applicable law, subject to further consideration after public comment.

This proposed rule has been determined to be not significant for purposes of Executive Order 12866.

A Regulatory Impact Review/Initial Regulatory Flexibility Analysis (RIR/IRFA) was prepared, as required by section 603 of the Regulatory Flexibility Act (RFA). The RIR/IRFA describes the economic impact this proposed rule would have on small entities, if adopted. A description of the action, the reasons why it is being considered, and a statement of the objectives of, and legal basis for, this action are contained earlier in the preamble and are not repeated here. A summary of the analysis follows. A copy of this analysis is available from NMFS (see ADDRESSES).

This RIR/IRFA evaluates the following regulatory amendments:

• Provide an option for operators of trawl catcher vessels and catcher/processors, longline or pot catcher vessels and catcher/processors, and motherships operating in the GOA and the BSAI in the EEZ off the coast of Alaska to substitute an ELB for the DFL or DCPL that is currently required.

• Provide the process and criteria by which a private software vendor could get ELB software approved for use in the Alaska Region groundfish fisheries.

• Implement regulations for the eLandings data entry component of IERS that would be used for reporting commercial fishery landings and production data and allow fishery participants to use the Internet to enter data only once for subsequent distribution to the ADF&G, the IPHC, and NMFS, as appropriate.

• Reorganize regulations for logbooks to provide complete information for each logbook in its own section in order to make the regulations more accessible and easier to use.

• Provide uniform language for and revise permit-related regulations governing fishing activities in FMP fisheries in the GOA and BSAI in the EEZ off the coast of Alaska. The proposed minor revisions would improve enforcement of the regulations at 50 CFR part 679, by revising text, where necessary, such that the regulations are specific, especially regarding permits and permit-related issues.

• Revise 50 CFR part 680 by removing IFQ crab landing report regulations for incorporation into § 679.5 IERS description and by adding a requirement for a CR Registered Crab Receiver Ex-vessel Volume and Value Report.

• Revise a groundfish observer provision regarding at-sea vessel-to-vessel transfers, and

• Make miscellaneous revisions to fishing regulations at 50 CFR parts 679 and 680

Electronic logbooks (ELBs)

NMFS proposes to provide the process and criteria by which a private-sector software vendor could obtain approval for ELB software in the Alaska Region groundfish fisheries.

NMFS proposes to provide an option for operators of trawl catcher vessels and catcher/processors, longline or pot catcher vessels and catcher/processors, and motherships operating in the GOA and the BSAI in the EEZ off the coast of Alaska to substitute an ELB for the DFL or DCPL that is currently required.

This action would allow ELBs for voluntary use by fishery participants to replace the DFL for trawl gear catcher vessels and longline or pot gear catcher vessels. ELBs would also be allowed for use by fishery participants to replace the DCPL used by trawl gear catcher/processors, longline or pot gear catcher/processors, and motherships to voluntarily fulfill daily catch recordkeeping and reporting requirements.

The potential universe of directly regulated small entities using an ELB includes trawl catcher vessels and longline or pot catcher vessels operating in Federally regulated fisheries off of the coast of Alaska, with total annual gross receipts, from all sources, of less than $ 4.0 million, and no affiliations with an AFA inshore cooperative. Based upon these criteria, 64 trawl catcher vessel entities could be considered small entities. This count may overstate the actual number of small trawl catcher vessels, since some of these may have had affiliations (e.g., non-AFA joint ventures with processing companies, interlocking ownership arrangements among multiple catcher vessel operations), or because of gross revenues earned in fisheries from other regions that, when taken in total, exceeded the $ 4.0 million annual limit.

The 64 small trawl catcher vessels had average gross revenues of about $480,000 and median gross revenues of about $400,000. The 64 vessels, taken together, had gross revenues of about $31 million. Most of these revenues, about $24 million, came from federally managed groundfish fisheries. Just over half of these groundfish revenues were derived from Pacific cod, and just over a quarter came from pollock fishing. Significant additional revenues were derived from sablefish and other groundfish. Most of the rest of the revenues earned by these vessels, about $5 million, came from fishing for halibut. Smaller amounts of revenues came from crab, salmon, and herring fisheries.

In 2004, there were 65 catcher/processors with gross revenues in excess of $4 million, and 18 catcher/processors with gross revenues less than $4 million (estimates supplied by the Alaska Fisheries Science Center). There were, thus, an estimated 18 small entities among the catcher/processor sector. These estimates do not take account of affiliations among catcher/processors, and they do not take account of revenues earned outside of the waters off Alaska, therefore they may overstate the true number of small catcher/processors. Two of the small catcher/processors will be required by this action to start reporting using IERS. These vessels appear on the list of vessels currently using electronic reporting and on the Alaska Fisheries Science Center list of small catcher/processors.

The small catcher/processors were predominately hook-and-line vessels (14 out of 18), although there were also a few small pot (two) and trawl (three) catcher/processors. Small catcher/processors operating off Alaska earned an average of $2.6 million in 2004, from all fishing activity in the EEZ off Alaska, and in the waters of the State (estimate supplied by the Alaska Fisheries Science Center).

NMFS considered two alternatives for implementation of the ELBs: the status quo and action alternatives. The action alternative would allow participants to voluntarily use an ELB instead of a DFL or DCPL, but would not require firms to encounter additional costs, because all processors participating in Federal fisheries have access to a computer.

NMFS interacted with the fishing industry on the use of ELBs during a pilot project described in the RIR/IRFA wherein a trawl gear ELB created by a private vendor was used by catcher vessels. An early version of this analysis included a provision requiring that fishing operations using the ELB software file a report with NMFS within 24 hours of delivering their product. This provision was eliminated from the alternatives following industry consultations during the preparation of the IRFA. The provision was expected to impose an undue burden on operations that were using the software voluntarily and perhaps slow its adoption rate. An examination of existing response rates indicated that about 32 percent of these reports have been received by NMFS within 24 hours of the landing, and about 73 percent have been received within 48 hours of the landing. The action alternative relaxes a constraint on the public, and if anything reduces data entry costs relative to the DFL and DCPL.

Interagency Electronic Reporting System (IERS)

NMFS proposes to implement regulations for the eLandings data entry component of IERS that would be used for reporting commercial fishery landings and production data and allow fishery participants to use the Internet to enter data only once for subsequent distribution to the ADF&G, the IPHC, and NMFS, as appropriate. The small entities (according to the Small Business Administration (SBA) criteria) that might be directly regulated by this action included nine catcher-processors, 13 shoreside processing firms, no shoreside floating processors, and 206 IFQ registered buyers. Total costs for the small entities were estimated to be $21,200, or about $100 per firm. Small catcher-processors were estimated to have 2004 gross revenues averaging about $2.6 million, small shoreside processors were estimated to have 2004 gross revenues averaging about $22 million. Average revenues for IFQ registered buyers are unknown.

NMFS considered two alternatives for the IERS and eLandings: the status quo and action alternatives. Under the action alternative, NMFS would provide web-based entry of data by processors through the IERS. IERS meets the reporting requirements of NMFS, ADF&G, and IPHC, and thus reduces redundant reporting to multiple agencies. For NMFS, the implementation of the IERS would replace the SPELR for entering groundfish data and would also replace the IFQ online system for entering IFQ halibut, CDQ halibut, and IFQ sablefish data.

IERS is a joint project of ADF&G, IPHC, and NMFS. If NMFS adopted a different system, confusion would result for the fishing industry and industry costs would be increased. A different system, in this instance, would compromise our ability to meet the objectives of the action. Therefore, additional alternatives were not evaluated.

Regulatory text reorganization

NMFS proposes to reorganize and revise § 679.5(a) and (c), such that each of the six groundfish logbooks is described in an individual section of regulatory text, separately, completely, and clearly. This action would make the regulations easier for the public to use. Regulations for processor forms also would be revised and reorganized in this rule. Currently, these regulations are arranged into tables by data element relating to multiple logbooks and forms. The reader must consult several places in the regulations to find complete requirements for any given logbook or form. The original organization of the regulations was designed by “information item” for use from the perspective of fishery managers and enforcement staff. This action would consolidate all of the requirements for each form and logbook into individual sections in § 679.5.

NMFS considered two alternatives for the reorganization of regulations: the status quo and action alternatives. Under the No Action alternative, the regulations at § 679.5 would remain without reorganization. The regulations at § 679.5 would remain arranged into tables by data element relating to multiple logbooks and forms causing the reader to consult several places in the regulations to find complete requirements for any given logbook or form. Under the regulatory scenario of the No Action alternative, participants would likely face increased R&R regulatory uncertainty and a loss of efficiency. Under the action alternative, NMFS would reorganize and revise regulations at § 679.5 such that each of the six groundfish logbooks is described in regulatory text, separately, completely, and clearly. Under the regulatory scenario of the Action alternative, participants would enjoy increased R&R regulatory certainty and a gain of efficiency.

Permits

NMFS would provide uniform language for and revise permit-related regulations governing fishing activities in FMP fisheries in the GOA and BSAI in the EEZ off the coast of Alaska. These proposed minor revisions would improve enforcement of the regulations at 50 CFR part 679 by clarifying and simplifying text, especially regarding permit-related issues. This action would apply to 1,013 small entities, consisting of 906 catcher vessels, 18 catcher/ processors, 80 shoreside processors, 3 stationary floating processors, and 6 CDQ groups.

NMFS considered two alternatives for the permit-related revisions: the status quo and action alternatives. The No Action alternative would maintain the inconsistency of regulatory language regarding permit-related issues, for example, by maintaining the term “federally regulated” and by not replacing it with the specific permit that relates to the paragraph. This would maintain the inconsistency in determination of which permit authorizes which activity. Under the Action alternative, NMFS would “tighten up” the regulations as they relate to permits, for example, regulatory text would be made specific as to whether a permit is issued to a person or to a vessel. Under the action scenario, NMFS would clarify ambiguities in the regulatory text concerning permit-related and would improve enforcement of the regulations at 50 CFR part 679.

Revise 50 CFR part 680

eLandings Landing Report. NMFS would revise regulations at 50 CFR part 680 by removing IFQ crab landing report regulations for incorporation into the § 679.5(e) eLandings regulations. The eLandings landing report originally was created for CR crab, but with approval of this rule, would be used for reporting groundfish, IFQ halibut, CDQ halibut, and IFQ sablefish as well.

NMFS considered two alternatives for the eLandings regulatory revisions: the status quo and action alternatives. Under the No Action scenario, the regulations for use of eLandings for the CR crab fisheries would remain at § 680.5 and the regulations for use of eLandings for other fisheries would be in § 679.5(e). This would allow duplication between the two sets of regulations and introduce confusion.

Under the action alternative, NMFS would remove regulatory text from § 680.5(b), (c) and (d) that describe the use of eLandings for CR crab and would integrate that text into regulations at § 679.5(e). This change would allow all related information for the eLandings landing report to be found in one section for groundfish, CR crab, IFQ halibut, IFQ sablefish, and CDQ halibut.

CR Registered Crab Receiver Ex-vessel Volume and Value Report. NMFS would add a new form, the CR Registered Crab Receiver Ex-vessel Volume and Value Report, to be submitted by participants near the end of the crab fishing year. This report is similar to a report required by regulations implementing the NMFS Alaska Region IFQ Program for Pacific halibut and sablefish. The regulations for the form would be described at § 680.5(m).

NMFS considered two alternatives for the addition of this form: the status quo and action alternatives. Under the No Action scenario, the requirement to report the price paid for crab during landing through eLandings would remain mandatory. This would mean that the crab price would be inaccurate, because the price at the time of landing does not include post-delivery or end-of-season adjustments. An inaccurate report of crab value would then be used to assess fees for participants in the CR crab fisheries, required by the Magnuson-Stevens Act (Section 304(d)(2)(B)). Inaccurate fees could result in less than sufficient amounts to manage the CR Program.

The Action Alternative would add the new form to collect crab price information from CR Crab Registered Crab Receivers (RCRs). The form would collect information used to assess fees on an annual basis, which is a statutory requirement. NMFS considered but rejected more frequent or less frequent collection of the price information. NMFS, Restricted Access Management (RAM) would collect the price information to establish a “standard” ex-vessel price for CR Crab. The standard price would be used to estimate the cost recovery fees due from processors and harvesters; the participants may not participate in the CR fisheries if fees are not paid. The cost recovery fees would be used to support management of the CR Program. An additional effect would be the removal of a requirement for an RCR who receives a landing of CR crab harvested under the CDQ or Adak community allocation programs to submit for each landing the price per pound. Instead, each RCR would be required to submit a CR Registered Crab Receiver Ex-vessel Volume and Value Report near the end of the crab fishing year. In addition, this form would change from mandatory to optional the requirement to report through eLandings the price paid for crab when landed.

Groundfish Observer Provision Regarding At-sea Vessel-to-vessel Transfers

The Fisheries Monitoring and Analysis Division (FMA) monitors groundfish fishing activities in the EEZ off Alaska and conducts research associated with sampling commercial fishery catches, estimation of catch and bycatch mortality, and analysis of fishery-dependent data. As part of the FMA's North Pacific Observer Program, approximately 400 fishery observers spend up to 90 consecutive days each year at sea or at processing plants collecting data used for management of the Alaskan groundfish fisheries. On occasion, the need occurs for a crab fisherman to transfer an observer at sea from one vessel to another vessel.

NMFS considered three alternatives for the observer at-sea transfer revisions: the status quo and 2 action alternatives. Under the No Action Alternative, the regulatory text would not be changed.

Under the Action 1 Alternative, the preferred alternative, NMFS would revise a groundfish observer provision regarding at-sea vessel-to-vessel transfers by removing “via small boat or raft” from the regulations at § 679.50(g)(1)(ix)(A). This revision would improve the safety of an observer undergoing a transfer at sea. The text to be removed restricts the type of observer transfer to boat or raft. This text removal would require other types of at-sea transfer to be conducted during daylight hours, under safe conditions, and with the agreement of observers involved.

Under the Action 2 Alternative, NMFS would prohibit the transfer of an observer at sea. Most of the at-sea transfers are done by companies that own two or more less-than-100%-covered vessels and that use one observer to accomplish observer coverage requirements on these vessels. This revision would require an observer to be transferred only at the dock, resulting in increased costs for the company, caused by vessels having to return to the dock to pick up or drop off an observer. This alternative was rejected for further analysis because the incremental improvement in observer safety appeared to come at a disproportionate cost to fishing operations.

Miscellaneous Revisions to Fishing Regulations at 50 CFR parts 679 and 680

NMFS proposes to amend regulations in parts 679 and 680 in order to improve clarity and efficiency.

NMFS considered two alternatives for the miscellaneous regulatory revisions: the status quo and action alternatives. Under the No Action Alternative the regulatory text would not be changed. Under the Action Alternative, NMFS would amend regulations at § 679.5 and part 680, by adding and revising definitions, adding or correcting cross references, removing obsolete text, adding new text, codifying certain existing practices, and revising figures and tables to part 679.

These changes would facilitate management of the fisheries, promote compliance with the regulations, and facilitate enforcement efforts.

This proposed rule contains collection-of-information requirements that are subject to review and approval by the Office of Management and Budget (OMB) under the Paperwork Reduction Act (PRA) and which have been approved by OMB. The collections are listed below by OMB Control Number.

OMB Control Number 0648-0206

Public reporting burden is estimated to average per response: 21 minutes for Federal fisheries permit and 21 minutes for Federal processor permit.

OMB Control Number 0648-0213

Public reporting burden is estimated to average per response: 31 minutes for shoreside processor DCPL; 31 minutes for mothership DCPL; 28 minutes for catcher vessel longline and pot gear DFL; 18 minutes for catcher vessel trawl DFL; 18 minutes for catcher vessel trawl ELB; 41 minutes for catcher/processor longline and pot gear DCPL; 30 minutes for catcher/processor trawl gear DCPL; 31 minutes for mothership DCPL; 23 minutes for buying station report; 7 minutes for check-in/check-out report, mothership or catcher/processor; 8 minutes for check-in/check-out report, shoreside processor; and 17 minutes for WPR.

OMB Control No. 0648-0272

Public reporting burden for IFQ landing reports is estimated to average 18 minutes per response.

OMB Control Number 0648-0334

Public reporting burden is estimated to average per response: one hour for groundfish and crab LLP transfer application and one hour for scallop LLP transfer application.

This proposed rule also contains collection-of-information requirements subject to review and approval by OMB under the PRA. These requirements have been submitted to OMB for approval. The collections are listed below by OMB Control Number, where available.

OMB Control Number 0648 0213

Public reporting burden for specific requirements are estimated to average per response: 28 minutes for catcher vessel longline and pot gear ELB; 20 minutes for catcher/processor longline and pot gear ELB; 15 minutes for catcher/processor trawl gear ELB; and 15 minutes for mothership ELB.

OMB Control Number 0648-0515

Public reporting burden for specific requirements are estimated to average per response: 15 minutes for IERS application processor registration; 35 minutes for eLandings landing report; 35 minutes for manual landing report; and 15 minutes for catcher/processor or mothership eLandings production data.

OMB Control Number 0648-new (crab reports)

Public reporting burden for specific requirements are estimated to average per response: 20 minutes for crab catcher/processor offload report, 40 hours for eligible crab community organization (ECCO) annual report; and 1 hour for CR Registered Crab Receiver Ex-vessel Volume and Value Report.

These estimates include the time for reviewing instructions, searching existing data sources, gathering and maintaining the data needed, and completing and reviewing the collection of information.

Public comment is sought regarding: whether this proposed collection of information is necessary for the proper performance of the functions of the agency, including whether the information shall have practical utility; the accuracy of the burden estimate; ways to enhance the quality, utility, and clarity of the information to be collected; and ways to minimize the burden of the collection of information, including through the use of automated collection techniques or other forms of information technology. Send comments on these or any other aspects of the collection of information to NMFS Alaska Region at the ADDRESSES above, and e-mail to David_Rostker@omb.eop.gov, or fax to 202-395-7285.

Notwithstanding any other provision of the law, no person is required to respond to, nor shall any person be subject to a penalty for failure to comply with, a collection of information subject to the requirements of the PRA, unless that collection of information displays a currently valid OMB Control Number.

This action does not have any adverse impacts on regulated small entities.

List of Subjects in 50 CFR Parts 679 and 680

Alaska, Fisheries, Recordkeeping and reporting requirements.

Dated: June 19, 2007.
Samuel D. Rauch III
Deputy Assistant Administrator for Regulatory Programs, National Marine Fisheries Service.

For the reasons set out in the preamble, NMFS proposes to amend 50 CFR parts 679 and 680 as follows:

PART 679—FISHERIES OF THE EXCLUSIVE ECONOMIC ZONE OFF ALASKA

1. The authority citation for part 679 continues to read as follows:

Authority: 16 U.S.C. 773 et seq.; 1540(f); 1801 et seq; 1851 note; 3631 et seq.

2. In § 679.2, add in alphabetical order definitions for “At-sea operation”, “eLandings”, “Interagency electronic reporting system (IERS)”, “Maximum retainable amount (MRA)”, “Non-IFQ groundfish”, “Non-individual entity”, “Permit”, “Shoreside processor electronic logbook report (SPELR)”, “Single geographic location”, “User”, “User identification (UserID)”, and “Week-ending date”; revise definitions of “Associated processor”, “Gear deployment (or to set gear)”, “Gear retrieval (or to haul gear)”, “Haul”, “Prohibited species catch (PSC)”, and “Tender vessel” to read as follows:

§ 679.2 Definitions.

* * * * *

Associated processor means:

(1) Relationship with a buying station. A mothership or catcher/processor issued an FFP, or a shoreside processor or SFP issued an FPP, with a contractual relationship with a buying station to conduct groundfish buying station activities for that processor.

(2) Relationship with a custom processor. A mothership or catcher/processor issued an FFP or a shoreside processor or SFP issued an FPP, with a contractual relationship with a custom processor to process groundfish on its behalf.

At-sea operation means, for purposes of eLandings, a catcher/processor or mothership that is receiving and/or processing fish in State waters and in waters of the EEZ off the coast of Alaska.

* * * * *

eLandings means the Internet data entry system or desktop client components of the Interagency Electronic Reporting System (IERS) for reporting commercial fishery landings and production from waters off Alaska.

* * * * *

Gear deployment (or to set gear) (see § 679.5(c)(3)(vi)(B) for longline and pot gear; see § 679.5(c)(4)(vi)(B) for trawl gear).

Gear retrieval (or to haul gear) (see § 679.5(c)(3)(vi)(C) for longline and pot gear; see § 679.5(c)(4)(vi)(C) for trawl gear).

* * * * *

Haul means the retrieval of trawl gear which results in catching fish or which does not result in catching fish; a test of new or repaired trawl gear; or when non-functional gear is pulled in, even if no fish are harvested. For enforcement purposes, all hauls of any type need to be recorded and numbered throughout the year, whether or not fish are caught.

* * * * *

Interagency electronic reporting system (IERS) means an interagency electronic reporting system that allows fishery participants to use the Internet or desktop client software to enter landings and production data for appropriate distribution to the ADF&G, IPHC, and NMFS Alaska Region (see § 679.5(e)).

* * * * *

Maximum retainable amount (MRA) (see § 679.20(e)).

* * * * *

Non-IFQ groundfish means groundfish, other than IFQ sablefish.

Non-individual entity means a person who is not an individual or “natural” person; it includes corporations, partnerships, estates, trusts, joint ventures, joint tenancy, and any other type of “person” other than a natural person.

* * * * *

Permit, as that term is used in the Magnuson-Stevens Act, includes the terms permit, license, halibut CDQ card, halibut IFQ card, sablefish IFQ card, and any endorsements or designations on a license.

* * * * *

Prohibited species catch (PSC) means any of the species listed in Table 2b to this part.

* * * * *

Shoreside processor electronic logbook report (SPELR) (discontinued, see definition of “IERS” under this section).

* * * * *

Single geographic location (see § 679.4(l)(5)(iii)).

* * * * *

Tender vessel (see also the definition of “buying station” under this section) means a vessel that is used to transport unprocessed fish or shellfish received from another vessel to an associated processor.

* * * * *

User means, for purposes of IERS and eLandings, a Registered Buyer; a Registered Crab Receiver; an owner, operator, manager of any mothership or catcher/processor that is required to have a Federal fisheries permit under § 679.4; any shoreside processor, SFP, or mothership that receives groundfish from vessels issued a Federal fisheries permit under § 679.4; any shoreside processor or SFP that is required to have a Federal processor permit under § 679.4; and his or her designee(s).

User identification (UserID), for purposes of IERS and eLandings, means the string of letters and/or numbers that identifies the individual and gives him or her authorization to view and submit reports for specific operations or to otherwise use eLandings. To facilitate the management of Users and privileges and to provide for data security, a separate UserID is issued to each individual.

* * * * *

Week-ending date means the last day of the weekly reporting period which ends on Saturday at 2400 hours, A.l.t., except during the last week of each calendar year, when it ends at 2400 hours, A.l.t. December 31).

* * * * *

3. In § 679.4:

A. Paragraph (a)(4) is removed and reserved.

B. Paragraphs (a)(1)(i)(A), (a)(3)(i), (a)(3)(iii), (b) heading, (b)(3), (b)(4), (b)(5) heading, (b)(5)(iv), (f) heading, (f)(2), (f)(4), and (l)(1)(iv) are revised.

C. Paragraphs (a)(1)(vii)(C), (a)(9), and (b)(5)(vi)(C) are added.

The revisions and additions read as follows:

§ 679.4 Permits.

(a) * * *

(1) * * *

If program permit or card type is: | Permit is in effect from issue date through end of: | For more information, see...
(i) * * * |  |
(A) Registered buyer | Until expiration date shown on permit | Paragraph (d)(3)(ii) of this section.
* * * * * * * |  |
(vii) * * * |  |
(C) Scallop license | Indefinite | Paragraph (g) of this section.
* * * * * * * |  |

* * * * *

(3) * * *

(i) A person may obtain an application for a new permit or for renewal or revision of an existing permit for any of the permits under this section and must mail completed forms to the Program Administrator, RAM, P.O. Box 21668, Juneau, AK 99802-1668. With appropriate software, all permit applications may be completed onscreen and printed from the Alaska Region website at http://www.fakr.noaa.gov.

* * * * *

(iii) A separate permit must be obtained for each applicant, facility, or vessel, as appropriate to each Federal permit in this section. A copy of each permit application must be retained, whether the application is requesting an initial permit or renewing or revising an existing permit.

* * * * *

(9) Permit surrender. The Regional Administrator will recognize the voluntary surrender of a permit issued by the Regional Administrator if it is submitted by the person named on the permit, and will permanently terminate or will reissue in the same year or another year, the permit depending on the type of permit voluntarily surrendered as follows:

(i) Permit may not be surrendered. AFA permits, except the AFA inshore cooperative permit, may not be surrendered;

(ii) Permanent surrender. A surrendered License Limitation Program (LLP) license for groundfish, crabs, and scallops, and quota share (QS) for rockfish, Pacific halibut, and sablefish will cease to exist and will not be subsequently reissued.

(iii) Temporary surrender for remainder of fishing year. A community development quota (CDQ) and CDQ card, individual fishing quota (IFQ) and IFQ card (except hired master) , and community quota (CQ) permit will not be reissued in the same fishing year in which it was surrendered, but may be reapplied for and if approved, reissued in a subsequent fishing year to the permit holder of record.

(iv) Temporary surrender within a fishing year. A Federal fisheries permit (FFP), Federal processor permit (FPP), Aleutian Islands directed pollock fishery, Registered Buyer permit, and an IFQ card issued to a hired master may be reissued in the same fishing year in which it was surrendered to the permit holder of record.

(b) Federal fisheries permit (FFP) * * *

* * * * *

(3) Vessel operations categories. An FFP authorizes a vessel owner to deploy a vessel to conduct operations in the GOA or BSAI under the following categories: catcher vessel, catcher/processor, mothership, tender vessel, or support vessel. A vessel may not be operated in a category other than as specified on the FFP.

(4) Duration—(i) Length of permit effectiveness. An FFP is in effect for three years from the effective date through the expiration date, unless it is revoked, suspended, surrendered under paragraph (a)(9) of this section, or modified under § 600.735 or § 600.740 of this chapter.

(ii) Surrendered permit. An FFP permit may be surrendered by the owner of record or agent by submitting the original FFP to Program Administrator, RAM Program, P.O. Box 21668, Juneau, AK 99802, by certified mail or other method that provides written evidence that NMFS Alaska Region received it. The receiving date of signature by NMFS staff is the date the permit was surrendered.

(iii) Amended permit. An owner or operator, who applied for and received an FFP, must notify NMFS of any change in the permit information by submitting an FFP application found at the NMFS website http://www.fakr.noaa.gov. The owner or operator must submit the application by mail to: Program Administrator, RAM Program, P.O. Box 21668, Juneau, AK 99802 or by fax: 907-586-7354. Upon receipt and approval of a permit amendment, the Program Administrator, RAM, will issue an amended FFP.

(5) Contents of an FFP application * * *

* * * * *

(iv) Area and gear information. Indicate the type of vessel operation. If catcher/processor or catcher vessel, indicate only the gear types used for groundfish fishing. If the vessel is a catcher/processor under 125 ft (18.3 m) LOA that is intended to process GOA inshore pollock or GOA inshore Pacific cod, mark the box for a GOA inshore processing endorsement.

* * * * *

(vi) * * *

(C) Selections for species endorsements will remain valid until an FFP is amended to remove those endorsements or the permit with these endorsements is surrendered or revoked.

* * * * *

(f) Federal processor permit (FPP) * * *

* * * * *

(2) Contents of an FPP application. To obtain an FPP, the owner must complete an FPP application and provide the following information for each SFP and shoreside processor plant to be permitted:

(i) New or amended permit. Indicate whether application is for a new or amended FPP; and if a revision, the current FPP number. Indicate whether application is for a shoreside processor or an SFP.

(ii) Owner information. Indicate the name(s), permanent business mailing address, business telephone number, business fax number, and business e-mail address of all owners, and if applicable, the name of any person or company (other than the owner) who manages the operations of the shoreside processor or SFP.

(iii) SFP information. Indicate the vessel name; whether this is a vessel of the United States; USCG documentation number; ADF&G vessel registration number; ADF&G processor code; the vessel's LOA (ft); registered length (ft); gross tonnage; net tonnage; shaft horsepower; homeport (city and state); and whether choosing to receive a GOA inshore processing endorsement. A GOA inshore processing endorsement is required in order to process GOA inshore pollock and GOA inshore Pacific cod.

(iv) Shoreside processor information. Indicate the shoreside processor's name; permanent business mailing address; physical location of plant at which the shoreside processor is operating (street, city, state, zip code); whether (YES or NO) the shoreside processor is replacing a previous processor at this facility, and if YES, name of previous processor; whether multiple processing businesses are using this plant; whether the owner named in paragraph (f)(2)(ii) of this section owns this plant; ADF&G processor code; business telephone number; business fax number; and business e-mail address.

(v) Signature. The owner or agent of the owner of the shoreside processor or SFP must sign and date the application. If the owner is a company, the agent of the owner must sign and date the application.

* * * * *

(4) Duration—(i) Length of effectiveness. An FPP is in effect for three years from the effective date through the date of permit expiration, unless it is revoked, suspended, surrendered under paragraph (a)(9) of this section, or modified under § 600.735 or § 600.740 of this chapter.

(ii) Surrendered permit. An FPP shall be surrendered by the owner of record or agent by submitting the original FPP to Program Administrator, RAM Program, P.O. Box 21668, Juneau, AK 99802, by certified mail or other method that provides written evidence that NMFS Alaska Region received it. The receiving date of signature by NMFS staff is the date the permit was surrendered.

(iii) Amended permit. An owner or operator, who applied for and received an FPP, must notify NMFS of any change in the permit information by submitting an FPP application found at the NMFS website http://www.fakr.noaa.gov. The owner or operator must submit the application by mail to: Program Administrator, RAM Program, P.O. Box 21668, Juneau, AK 99802 or by fax: 907-586-7354. Upon receipt and approval of a permit amendment, the Program Administrator, RAM, will issue an amended FPP.

* * * * *

(l) * * *

(1) * * *

(iv) Amended permits. AFA vessel and processor permits may not be used on or transferred to any vessel or processor that is not listed in the permit. However, AFA permits may be amended to reflect any change in the ownership of the vessel or processor by submitting this information to NMFS in a written letter.

* * * * *

4. In § 679.5, remove paragraphs (j) and (m); and revise paragraphs (a) through (f), (g)(1) introductory text, (h), (i), (l)(1)(iv), and (l)(2) to read as follows:

§ 679.5 Recordkeeping and reporting (R&R).

(a) General requirements—(1) Logbooks and forms. (i) The Regional Administrator will prescribe and provide logbooks and forms required under this section and described in Table 9 to this part. All forms may be completed onscreen and printed from the Alaska Region website at http://www.fakr.noaa.gov. The forms may be submitted as attachments to e-mails or may be faxed. Samples of logsheets also may be found on the website but may not be used for recordkeeping; only bound logbooks are acceptable.

(ii) Current editions. The operator or manager must use the current edition of the logbooks and forms or obtain approval from the Regional Administrator to use current electronic versions of the logbooks and forms. Upon notification and approval by the Regional Administrator, logbooks or forms from the previous year may be used.

(iii) Management program defined. Harvest that occurred under the special management programs listed below must be recorded separately in the logbooks and forms. If harvest is not under one of these management programs, leave blank.

If harvest made under...program | Record the... | For more information, see...
(A) CDQ | CDQ group number | subpart C of this part
(B) Exempted Fishery | Exempted fishery permit number | § 679.6
(C) Research Fishery | Research fishery permit number | § 600.745(a) of this chapter
(D) AIP | n/a | subpart F of this part
(E) Open access (OA) | [for recording in eLandings only] | § 679.5(e)

(2) Responsibility. (i) The operator of a catcher vessel, catcher/processor, mothership, or buying station receiving from a catcher vessel and delivering to a mothership (hereafter referred to as the operator) and the manager of a shoreside processor, SFP, or buying station receiving from a catcher vessel and delivering to a shoreside processor or SFP (hereafter referred to as the manager) are each responsible for complying with the applicable recordkeeping and reporting requirements of this section.

(ii) The owner of a vessel, shoreside processor, SFP, or buying station is responsible for compliance and must ensure that the operator, manager, or representative (see paragraph (b) of this section) complies with the requirements given in this section and in Table 9 to this part.

(3) Fish to be recorded and reported. The operator or manager must record and report the following information for all groundfish (see Table 2a to this part - Species Codes: FMP Groundfish), prohibited species (see Table 2b to this part - Species Codes: FMP Prohibited Species and CR Crab), and forage fish (see Table 2c to this part - Species Codes: FMP Forage Fish). The operator or manager may record and report the following information for non-groundfish (see Table 2d to this part - Species Codes: Non-FMP Species):

(i) Receipt information, including fish received from vessels not required to have an FFP; and fish received under contract for handling or processing for another processor;

(ii) Discard or disposition information reported to the operator or manager by catcher vessels or buying stations; and

(iii) Transfer information, including fish transferred out of the facility or off the vessel.

(4) Exemptions—(i) Catcher vessels less than 60 ft (18.3 m) LOA. The owner or operator of a catcher vessel less than 60 ft (18.3 m) LOA is not required to comply with the R&R requirements of this section.

(ii) Catcher vessels that take groundfish in crab pot gear for use as crab bait on that vessel. (A) Owners or operators of catcher vessels who, when crab is open anywhere or in the same area as open crab season, take groundfish in crab pot gear for use as crab bait onboard their same vessels, and the bait is neither transferred nor sold, are not required to comply with R&R requirements of this section.

(B) This exemption does not apply to fishermen who:

(1) Catch groundfish for bait during an open crab season and sell that groundfish or transfer it to another vessel, or

(2) Participate in a directed fishery for groundfish using any gear type during periods that are outside an open crab season for use as crab bait onboard their vessel.

(C) No groundfish species listed by NMFS as “prohibited” in a management or regulatory area may be taken in that area for use as bait.

(5) Inspection and retention of records—(i) Inspection of records. The operator or manager must make available for inspection the R&R documentation listed in Table 9 to this part upon the request of an authorized officer.

(ii) Retention of records. For all R&R documentation listed in Table 9 to this part, the operator or manager must retain records:

(A) On site. Retain these records on site at the shoreside processor or SFP, or onboard the vessel until the end of the fishing year during which the records were made and for as long thereafter as fish or fish products recorded in the R&R documentation listed in Table 9 to this part are retained.

(B) For 3 years. Make these records available upon request of an authorized officer R&R documentation listed in Table 9 to this part for 3 years after the end of the fishing year during which the records were made.

(6) Maintenance of records. The operator or manager must maintain all R&R documentation listed in Table 9 to this part in English in a legible, timely, and accurate manner, based on Alaska local time (A.l.t.); if handwritten, in indelible ink; if computer-generated, as a legible printed paper copy.

(b) Representative. The operator of a catcher vessel, mothership, catcher/processor, or buying station delivering to a mothership or manager of a shoreside processor, SFP, or buying station delivering to a shoreside processor or SFP may identify one contact person to complete the logbook and forms and to respond to inquiries from NMFS. Designation of a representative under this paragraph does not relieve the owner, operator, or manager of responsibility for compliance under paragraphs (a)(1) through (a)(6) of this section.

(c) Logbooks vs. eLandings and ELBs—(1) Requirements. The operator or manager must record information appropriate to the operation of the participant, in a NMFS-approved format as follows:

(i) Shoreside processor or SFP—(A) Shoreside processor daily cumulative production logbook (DCPL) (see paragraph (c)(5) of this section). Except as described in paragraph (c)(1)(i)(B) of this section, the manager of a shoreside processor or SFP must use the current edition of the DCPL to record processor identification information, catcher vessel and buying station groundfish delivery information, groundfish landings information, groundfish production data, and groundfish and prohibited species discard or disposition data. Upon notification by the Regional Administrator, DCPLs from the previous year may be used.

(B) eLandings (see paragraph (e) of this section). The manager of a shoreside processor or SFP that receives groundfish from a catcher vessel issued an FFP under § 679.4 is required daily to use eLandings during the fishing year to report processor identification information, catcher vessel and buying station groundfish delivery information, groundfish landings information, groundfish production data, and groundfish and prohibited species discard or disposition data in lieu of the shoreside processor DCPL, WPR (see paragraph (i) of this section), and CDQ delivery reports (see paragraph (n)(1) of this section) during the time the shoreside processor or SFP is checked-in (see paragraph (h) of this section). If a shoreside processor or SFP using eLandings is not taking deliveries over a weekend, the manager may transmit the eLandings report on Monday.

(ii) Mothership—(A) Mothership DCPL (see paragraph (c)(6) of this section). Except as described in paragraphs (c)(1)(ii)(B) and (C) of this section, the operator of a mothership must use the current edition of the DCPL to record processor identification information, catcher vessel and buying station groundfish delivery information, groundfish production data, and groundfish and prohibited species discard or disposition data. Upon notification by the Regional Administrator, DCPLs from the previous year may be used.

(B) Mothership ELB (see paragraph (f) of this section). The operator of a mothership may use the NMFS-approved mothership ELB to record processor identification information, catcher vessel and buying station groundfish delivery information, groundfish production data, and groundfish and prohibited species discard or disposition data.

(C) eLandings (see paragraph (e) of this section). (This paragraph (c)(1)(ii)(C) is effective until January 1, 2008) The operator of a mothership that is issued an FFP under § 679.4 and that receives groundfish may use eLandings to report weekly processor identification information, groundfish production data, and groundfish and prohibited species discard or disposition data in lieu of the mothership WPR (see paragraph (i) of this section) during the time the mothership is checked-in (see paragraph (h) of this section). Alternatively, the operator may use eLandings to report daily processor identification information, groundfish production data, and groundfish and prohibited species discard or disposition data. If a mothership is using eLandings to daily report processor identification information, groundfish production data, and groundfish and prohibited species discard or disposition data, the operator is not required to complete the “Production” nor “Discard or Disposition” sections of the DCPL; enter “eLandings” in those sections of the DCPL. The operator must record the processor identification information and the catcher vessel and buying station groundfish delivery information in the DCPL.

(iii) Catcher/processor—(A) Catcher/processor longline or pot gear DCPL and catcher/processor trawl gear DCPL (see paragraphs (c)(3) and (c)(4) of this section). Except as described in paragraphs (c)(1)(iii)(B) and (C) of this section, the operator of a catcher/processor must use the current edition of the DCPL to record processor identification information, catch-by-set or catch-by-haul information, groundfish production data, and groundfish and prohibited species discard or disposition data. Upon notification by the Regional Administrator, DCPLs from the previous year may be used.

(B) Catcher/processor ELB (see paragraph (f) of this section). The operator of a catcher/processor may use the appropriate gear-type, NMFS-approved catcher/processor ELB to record processor identification information, catch-by-haul or catch-by-set information, groundfish production data, and groundfish and prohibited species discard or disposition data.

(C) eLandings (see paragraph (e) of this section). (This paragraph (c)(1)(iii)(C) is effective until January 1, 2008) The operator of a catcher/processor that harvests groundfish and that is issued an FFP under § 679.4 may use eLandings during the fishing year to report weekly processor identification information, groundfish production data, and groundfish and prohibited species discard or disposition data in lieu of the catcher/processor WPR (see paragraph (i) of this section) during the time the catcher/processor is checked-in (see paragraph (h) of this section). Alternatively, the operator may use eLandings during the fishing year to report daily processor identification information, groundfish production data, and groundfish and prohibited species discard or disposition data. If a catcher/processor is using eLandings to daily report groundfish production data and groundfish and prohibited species discard or disposition data, the operator is not required to complete the “Production” nor “Discard or Disposition” sections of the DCPL (see paragraph (c) of this section); enter “eLandings” in those sections of the DCPL. The operator is required to complete in the DCPL the processor identification information and catch-by-haul or catch-by-set information.

(iv) Catcher vessel—(A) Catcher vessel longline or pot gear and catcher vessel trawl gear DFL (see paragraphs (c)(3) and (c)(4) of this section). Except as described in paragraph (c)(1)(iv)(B) of this section, the operator of a catcher vessel must use the current edition of the DFL to record catcher vessel identification information, catch-by-haul or catch-by-set information, and groundfish and prohibited species discard or disposition data. Upon notification by the Regional Administrator, DFLs from the previous year may be used.

(B) Catcher vessel longline or pot gear and catcher vessel trawl gear ELB (see paragraph (f) of this section). The operator of a catcher vessel may use the appropriate-gear, NMFS-approved catcher vessel ELB to record catcher vessel identification information, catch-by-haul or catch-by-set information, and groundfish and prohibited species discard or disposition data.

(v) Registered Buyer. A person who is issued a Registered Buyer permit and who receives IFQ halibut or IFQ sablefish from an IFQ permit holder, or who receives CDQ halibut from a CDQ permit holder at any time during the fishing year must use eLandings or other NMFS-approved software to report every landing of IFQ halibut, IFQ sablefish, or CDQ halibut.

(vi) Registered Crab Receiver (RCR)—IFQ crab. (A) A person who is issued an RCR permit and who receives IFQ crab from a crab IFQ permit holder or crab IFQ hired master, must use eLandings to report every landing of IFQ crab and incidental groundfish during the fishing year.

(B) An RCR aboard a catcher/processor is required to submit crab landing reports by e-mail attachment using eLandings in a format approved by NMFS. NMFS will provide format specifications upon request. Interested parties may contact NMFS Alaska Region, Sustainable Fisheries Division, Catch Accounting/Data Quality, P.O. Box 21668, Juneau, Alaska 99802-1668, at telephone: 907-586-7228.

(vii) Two vessel logbooks of same gear type. If using more than one logbook of the same gear type in a fishing year onboard a vessel, the operator must ensure that the page numbers follow the consecutive order of the previous logbook.

(viii) Two vessel logbooks of different gear types. If two different gear types are used onboard a vessel in a fishing year, the operator(s) of this vessel must use two separate vessel logbooks for the different gear types, each separately paginated.

(ix) Two vessel logbooks for pair trawl. If two vessels are dragging a trawl between them (pair trawl), the operator of each vessel must maintain a separate logbook to record the amount of the catch retained and fish discarded by that vessel. Each of the two logbooks must be separately paginated.

(x) Two logbooks of different operation. If a vessel functions both as a mothership and as a catcher/processor in the same fishing year, the operator(s) must maintain two logbooks, a separate logbook for each operation type, each separately paginated.

(xi) Alteration of logbook information. (A) Except as described in paragraphs (c)(1)(xi)(B) and (C) of this section, the operator, manager, or any other person may not alter or change any entry or record in a logbook.

(B) An inaccurate or incorrect entry or record may be corrected by lining out the original and inserting the correction, provided that the original entry or record remains legible. All corrections must be made in ink.

(C) If an error is found after a time period is passed, record the information in the DFL or DCPL out of sequence by lining out the initial entry of the error, adding a note that an error occurred, and indicating page number of logsheet where correction may be found.

(xii) Logsheet distribution and submittal. (A) No person except an authorized officer may remove any original white logsheet of any logbook.

(B) The operator or manager must distribute logsheets as indicated in the following table:

Logsheet Distribution and Submittal: If logsheet color is... | Logsheet Distribution and Submittal: Logsheet found in these logbooks: CV lgl | Logsheet Distribution and Submittal: Logsheet found in these logbooks: CV trw | Logsheet Distribution and Submittal: Logsheet found in these logbooks: CP lgl | Logsheet Distribution and Submittal: Logsheet found in these logbooks: CP trw | Logsheet Distribution and Submittal: Logsheet found in these logbooks: MS | Logsheet Distribution and Submittal: Logsheet found in these logbooks: SS/SFP | Logsheet Distribution and Submittal: Submit to... | Logsheet Distribution and Submittal: Time limit
(1) White | X | X | X | X | X | X | Must retain, permanently bound in logbook
(2) Goldenrod | X | X | X | X | X | X | Observer | After signature of operator, which is due by noon of the day following the week-ending date of the weekly reporting period.
(3) Yellow | X | X | X | X | X | X | Must submit quarterly to: NOAA Fisheries Office for Law Enforcement Alaska Region Logbook Program P.O. Box 21767 Juneau, AK 99802-1767 Telephone: 907-586-7225 | On the following schedule: 1st qtr by May 1 of that fishing year 2nd qtr by August 1 of that fishing year 3rd qtr by November 1 of that fishing year 4th qtr by February 1 of the following fishing year
(4) Blue | X | X |  |  |  |  | Mothership, shoreside processor, SFP, or buying station that receives the harvest | Within 2 hours after completion of catch delivery
(5) Green | X |  | X |  |  |  | Optional, but may be required by IPHC (see 50 CFR 300.60 through 300.65) Telephone: 206-634-1838 | After the vessel's catch is off-loaded
Note: CP = catcher/processor; CV = catcher vessel; lgl = longline; trw = trawl; MS = mothership; SS/SFP = shoreside processor and SFP

(2) Recording active and inactive time periods in the DFL or DCPL—(i) Account for each day of the fishing year. The operator or manager must account for each day of the fishing year, January 1 through December 31, in the DFL or DCPL and indicate whether the vessel or processor was active or inactive during the time period. Unless the appropriate box is checked on the logsheet to indicate an inactive period, NMFS assumes the records are for an active period (see descriptions of active time periods at paragraphs (c)(3)(iv)(A)(1), (c)(3)(iv)(B)(1), (c)(4)(iv)(A)(1), (c)(4)(iv)(B)(1), (c)(5)(iv), and (c)(6)(iv) of this section).

(ii) Record January 1 on page 1. The operator or manager must record the first day of the fishing year, January 1, on page one of the DFL or DCPL regardless of whether the vessel or processor was active or inactive. The operator or manager must record time periods consecutively.

(iii) Required information for inactive periods. If inactive, the operator or manager must record the following information on one logsheet in the DFL or DCPL:

(A) If a catcher vessel, vessel name, ADF&G vessel registration number, FFP number or Federal crab vessel permit number, operator printed name, operator signature, and page number.

(B) If a shoreside processor or SFP, on Part I of the logsheet record: processor name, ADF&G processor code, FPP number, manager printed name, manager signature, and page number. If a shoreside processor, write in the geographic (physical) location of plant.

(C) If a mothership or catcher/processor, record vessel name, ADF&G processor code, FFP number, operator printed name, operator signature, and page number.

(D) Check “inactive.”

(E) Record the date (mm/dd) of the first day when inactive under “Start date.”

(F) Write brief explanation why inactive, e.g., bad weather or equipment failure. If inactive due to surrender of a FFP or FPP, write “surrender of permit” as reason for inactivity.

(G) Record the date (mm/dd) of the last day when inactive under “End date.”

(iv) Inactive two or more quarters. If the inactive time period extends across two or more successive quarters, the operator or manager must complete a logsheet for each inactive quarter: the first logsheet to indicate the first and last day of the first inactive quarter and the second logsheet to indicate the first and last day of the second inactive quarter.

(3) Longline and pot gear catcher vessel DFL and catcher/processor DCPL—(i) Responsibility—(A) Groundfish fisheries. (1) The operator of a catcher vessel 60 ft (18.3 m) or greater LOA, that is required to have an FFP under § 679.4(b), that is using longline or pot gear to harvest groundfish, and that retains any groundfish from the GOA or BSAI, must maintain a longline and pot gear DFL.

(2) The operator of a catcher/processor that is required to have an FFP under § 679.4(b), that is using longline or pot gear to harvest groundfish, and that retains any groundfish from the GOA or BSAI, must maintain a longline and pot gear DCPL.

(B) IFQ halibut, CDQ halibut, and IFQ sablefish fisheries. (1) The operator of a catcher vessel 60 ft (18.3 m) or greater LOA, using fixed gear (NMFS), setline (IPHC), or pot gear to harvest IFQ sablefish, IFQ halibut, or CDQ halibut from the GOA or BSAI, must maintain a longline and pot gear DFL.

(2) The operator of a catcher/processor using longline or pot gear to harvest IFQ sablefish, IFQ halibut, or CDQ halibut from the GOA or BSAI, must maintain a longline and pot gear DCPL.

(C) CR crab fisheries. (1) The operator of a catcher vessel 60 ft (18.3 m) or greater LOA, using pot gear to harvest CR crab from the BSAI must maintain a longline and pot gear DFL.

(2) The operator of a catcher/processor using pot gear to harvest CR crab from the BSAI must maintain a longline and pot gear DCPL.

(ii) Data entry time limits. The operator of a catcher vessel using longline or pot gear must record in the DFL and the operator of a catcher/processor using longline or pot gear must record in the DCPL the following information for each set within the specified time limit:

DATA ENTRY TIME LIMITS, LONGLINE OR POT GEAR DFL OR DCPL
Required information | Record within this time limit.
(A) Set number, time and date gear set, time and date gear hauled, beginning and end positions, CDQ group number, halibut CDQ permit number, halibut IFQ permit number, sablefish IFQ permit number, crab IFQ permit number, FFP number and/or Federal crab vessel permit number (if applicable), number of pots set, and estimated total hail weight for each set | 2 hours after completion of gear retrieval
(B) Discard and disposition information | By noon each day to record the previous day's discard and disposition information
(C) Submit goldenrod logsheet to the observer | After signature of operator which is due by noon of the day following the week-ending date of the weekly reporting period.
(D) If on a catcher vessel: |
(1) Submit the blue DFL to mothership, shoreside processor, SFP, or buying station receiving catch | Within 2 hours after completion of catch delivery
(2) All other required information | 2 hours after the vessel's catch is off-loaded, notwithstanding other time limits
(3) Sign the completed logsheets | Within 2 hours after completion of catch delivery
(E) If on a catcher/processor: |
(1) Product information | By noon each day to record the previous day's production information
(2) All other required information | By noon of the day following completion of production
(3) Sign the completed logsheets | By noon of the day following the week-ending date of the weekly reporting period

(iii) Required information, if inactive. See paragraph (c)(2) of this section.

(iv) Required information, if active—(A) Catcher vessel. (1) A catcher vessel using longline or pot gear is active when gear remains on the grounds in a reporting area (except reporting area 300, 400, 550, or 690), regardless of the vessel location.

(2) If the catcher vessel identified in paragraph (c)(3)(i)(A)(1) of this section is active, the operator must record in the DFL, for one or more days on each logsheet, the information listed in paragraphs (c)(3)(v), (c)(3)(vi), (c)(3)(viii), (c)(3)(ix), and (c)(3)(xi) of this section.

(B) Catcher/processor. (1) A catcher/processor is active when checked-in or processing.

(2) If the catcher/processor identified in paragraph (c)(3)(i)(A)(2) of this section is active, the operator must record in the DCPL, the information listed in paragraphs (c)(3)(v), (c)(3)(vi), (c)(3)(vii), (c)(3)(viii), and (c)(3)(x) of this section.

(v) Identification information—(A) Page number. Number the pages in each logbook consecutively, beginning on the first page of the DFL or DCPL with page 1 for January 1 and continuing for the remainder of the fishing year.

(B) Printed name and signature of operator. The operator must sign each completed logsheet of the DFL or DCPL as verification of acceptance of the responsibility required in paragraph (a)(2) of this section. The operator's signature is due by noon of the day following the week-ending date of the weekly reporting period.

(C) Vessel identification. Name of vessel as displayed in official documentation; FFP number or Federal crab vessel permit of the vessel; and ADF&G vessel registration number if a catcher vessel or ADF&G processor code if a catcher/processor.

(D) Other permit numbers (if applicable). IFQ permit number of the operator, if any, and of each IFQ holder aboard the vessel; groundfish CDQ group number; and halibut CDQ permit number.

(E) Reporting area—(1) Groundfish. Record the Federal reporting area code (see Figures 1 and 3 to this part) where gear retrieval was completed, regardless of where the majority of the set took place. Use a separate logsheet for each reporting area.

(2) IFQ halibut, CDQ halibut. Record the IPHC regulatory area (see Figure 15 to this part) where gear retrieval was completed, regardless of where the majority of the set took place.

(3) CR crab. Leave this field blank.

(F) Crew size. If a catcher vessel, record the number of crew members (including operator), excluding certified observer(s), on the last day of a trip. If a catcher/processor, record the number of crew members (including operator), excluding certified observer(s), on the last day of the weekly reporting period.

(G) Gear type. Use a separate logsheet for each gear type. From the following table, indicate the gear type used to harvest the fish and appropriate “gear ID.” In addition, if using hook-and-line gear, enter the alphabetical letter that coincides with the gear description. If gear information is the same on subsequent logsheets, mark the box instead of re-entering the gear type information on the next logsheet.

If gear type is... | Then...
(1) Other gear | If gear is other than those listed, indicate “Other” and describe
(2) Pot gear | Enter the number of pots lost (optional, but may be required by IPHC regulations (see 50 CFR 300.60 through 300.65)) and number of pots set
(3) Hook-and-line gear | Indicate:
| (i) Whether gear is fixed hook (conventional or tub), autoline, or snap (optional, but may be required by IPHC regulations (see 50 CFR 300.60 through 300.65))
| (ii) Length of skate to the nearest foot (optional, but may be required by IPHC regulations (see 50 CFR 300.60 through 300.65)), number of skates lost (optional, but may be required by IPHC regulations (see 50 CFR 300.60 through 300.65)), and number of skates set
| (iii) Number of hooks per skate (optional, but may be required by IPHC regulations (see 50 CFR 300.60 through 300.65)), size of hooks, and hook spacing in feet
| (iv) Seabird avoidance gear code(s) (see § 679.24(e) and Table 19 to this part)

(H) Management program. Use a separate logsheet for each special management program (see paragraph (a)(1)(iii) of this section). If harvest is not under one of these management programs, leave blank.

(I) Observer information. Record the number of observers aboard, the name of the observer(s), and the observer cruise number(s).

(vi) Catch by set information. The operator must record the following information for each set (see § 679.2). If no catch occurred for a given day, write “no catch.”

(A) Set number. Sequentially by year.

(B) Gear deployment (or to set gear)—(1) Hook-and-line gear deployment. Record date (mm/dd), time (in military format, A.l.t.), and the beginning position (in latitude and longitude to the nearest minute) when the first hook-and-line gear of a set enters the water.

(2) Jig or troll gear deployment. Record date (mm/dd), time (in military format, A.l.t.), and the beginning position (latitude and longitude to the nearest minute) when the jig or troll gear enters the water.

(3) Pot gear deployment. Record date (mm/dd), time (in military format, A.l.t.), and the beginning position (latitude and longitude to the nearest minute) when the pot gear enters the water.

(C) Gear retrieval (or to haul gear)—(1) Hook-and-line gear retrieval. Date (mm/dd), time (in military format, A.l.t.), and end position coordinates (in latitude and longitude to the nearest minute), where the last hook-and-line gear of a set leaves the water, regardless of where the majority of the set took place.

(2) Jig or troll gear retrieval. Date (mm/dd), time (in military format, A.l.t.), and end position coordinates (in latitude and longitude to the nearest minute) where the jig or troll gear leaves the water.

(3) Pot gear retrieval. Date (mm/dd), time (in military format, A.l.t.), and end position coordinates (in latitude and longitude to the nearest minute) where the last pot of a set is retrieved, regardless of where the majority of the set took place.

(D) Begin and end buoy or bag numbers (optional, but may be required by IPHC regulations (see §§ 300.60 through 300.65)).

(E) Begin and end gear depths, recorded to the nearest fathom (optional, but may be required by IPHC regulations (see §§ 300.60 through 300.65)).

(F) Species codes. The operator or manager must record and report the following information for all groundfish (see Table 2a to this part - Species Codes: FMP Groundfish), prohibited species (see Table 2b to this part - Species Codes: FMP Prohibited Species and CR Crab), and forage fish (see Table 2c to this part - Species Codes: FMP Forage Fish). The operator or manager may record and report the following information for non-groundfish (see Table 2d to this part - Species Codes: Non-FMP Species).

(G) Target species code. Enter the species code of the species you intended to catch this set.

(H) Estimated total hail weight. Enter the estimated hail weight, which is an estimate of the total retained weight of the catch without regard to species. Indicate whether weight is estimated to the nearest pound or to the nearest 0.001 mt (2.20 lb);

(I) IR/IU species (see § 679.27). If a catcher/processor, enter species code of IR/IU species and estimated total round weight for each IR/IU species, if applicable; indicate whether weight is estimated to the nearest pound or the nearest 0.001 mt (2.20 lb).

(J) IFQ halibut and CDQ halibut. Estimated total round weight of IFQ halibut and CDQ halibut to the nearest pound.

(K) IFQ sablefish. Number and estimated total round weight of IFQ sablefish to the nearest pound. Indicate whether IFQ sablefish product is Western cut, Eastern cut, or round weight.

(L) CR crab. If in a CR crab fishery, record the number and scale weight of raw CR crab to the nearest pound.

(vii) Product information, catcher/processor. The operator must record the following groundfish product information for all retained groundfish by species code, product code, and product designation (see Table 1 to this part - Product and Delivery Codes); indicate whether weight is estimated to the nearest pound or nearest 0.001 mt (2.20 lb). If no production occurred for a given day, write “no production.”

(A) Enter total daily fish product weight or actual scale weight of fish production.

(B) Total product balance forward weight from the previous day.

(C) Determine weekly cumulative total by adding daily totals and balance carried forward from the day before.

(D) Summarize weekly cumulative totals of weights and numbers separately by reporting area, management program, and gear type.

(E) Record “0” balance forward and start a new logsheet:

(1) After the offload or transfer of all fish or fish product onboard, if such offload occurs prior to the end of a weekly reporting period.

(2) At the beginning of each weekly reporting period. Nothing shall be carried forward from the previous weekly reporting period.

(viii) Retain and record discard quantities over the MRA. When fishing in an IFQ fishery and the fishery for Pacific cod or rockfish is closed to directed fishing but not in PSC status in that reporting area as described in § 679.20, the operator must retain and record up to and including the MRA for Pacific cod or rockfish as defined in Table 10 or 11 to this part; quantities over this amount must be discarded and recorded as discard in the logbook.

(ix) Discard or disposition information, catcher vessel. The operator must record in a DFL the discard or disposition information that occurred prior to and during delivery to a buying station, mothership, shoreside processor, or SFP. Discard or disposition information must include the daily weight of groundfish, daily weight of herring PSC, and daily number of PSC animals. If no discard or disposition occurred for a given day, the operator must write “no discards or disposition.”

(A) Enter discard or disposition information by species codes and product codes as follows:

(1) Date (mm/dd) of discard or disposition (day that discard or disposition occurred).

(2) For whole fish discard or disposition of groundfish or Pacific herring PSC, daily estimated total weight, balance forward weight from the previous day, and cumulative total weight since last delivery for each species; indicate whether weight is estimated to the nearest pound or nearest 0.001 mt.

(3) For whole fish discard or disposition of each prohibited species (Pacific salmon, steelhead trout, Pacific halibut, king crabs, and Tanner crabs) record the daily estimated total number, balance forward from the previous day, and cumulative total number since the last delivery.

(4) Summarize the weekly cumulative discard and disposition totals of groundfish weights and number of PSC animals separately by reporting area, management program, and gear type. Determine the weekly cumulative total by adding daily totals and the balance carried forward from the day before.

(B) The operator must record “0” or zero balance forward and start a new logsheet after the offload or transfer of all fish or fish product onboard and prior to the beginning of each fishing trip. Nothing shall be carried forward from the previous fishing trip.

(x) Discard or disposition information, catcher/processor. The operator must record in a DCPL the discard or disposition information that occurred prior to, during, and after production of groundfish. Discard and disposition information must include the daily weight of groundfish, daily weight of herring PSC, and daily number of PSC animals. If no discard or disposition occurred for a given day, the operator must write “no discard or disposition.”

(A) The operator must record “0” or zero balance forward and start a new logsheet after the offload or transfer of all fish or fish product onboard, if such offload occurs prior to the end of a weekly reporting period, and at the beginning of each weekly reporting period. Nothing shall be carried forward from the previous weekly reporting period.

(B) Enter discard or disposition information by species codes and product codes as follows:

(1) Date (mm/dd) of discard or disposition (day that discard or disposition occurred).

(2) For whole fish discard or disposition of groundfish or Pacific herring PSC, daily estimated total weight, balance forward weight from the previous day, and cumulative total weight since last delivery for each species; indicate whether weight is estimated to the nearest pound or nearest 0.001 mt.

(3) For whole fish discard or disposition of each prohibited species (Pacific salmon, steelhead trout, Pacific halibut, king crabs, and Tanner crabs) record the daily estimated total number, balance forward from the previous day, and cumulative total number since last delivery.

(4) Summarize weekly cumulative discard and disposition totals of groundfish weights and number of PSC animals separately by reporting area, management program, and gear type. Determine the weekly cumulative total by adding daily totals and the balance carried forward from the day before.

(xi) Catcher vessel delivery information. The operator must enter the following information for delivery to a buying station, mothership, shoreside processor, or SFP:

(A) Date (mm/dd) that delivery of harvest was completed.

(B) ADF&G fish ticket issued to operator by the recipient or Registered Buyer receiving the delivery.

(C) Name of recipient or Registered Buyer.

(D) Unloading port. Name of port or port code (see Tables 14a and 14b to this part) of delivery location.

(4) Trawl gear catcher vessel DFL and catcher/processor DCPL—(i) Responsibility. The operator of a catcher vessel 60 ft (18.3 m) or greater LOA, that is required to have an FFP under § 679.4(b), that is using trawl gear to harvest groundfish, and that retains any groundfish from the GOA or BSAI must maintain a trawl gear DFL, and complete one or more logsheets per day. The operator of a catcher/processor that is required to have an FFP under § 679.4(b), that is using trawl gear to harvest groundfish, and that retains any groundfish from the GOA or BSAI must maintain a trawl gear DCPL. He or she must complete a separate logsheet for each day.

(ii) Data entry time limits. The operator of a catcher vessel using trawl gear must record in the DFL and the operator of a catcher/processor using trawl gear must record in the DCPL the following information for each haul within the specified time limit:

DATA ENTRY TIME LIMITS, TRAWL GEAR DFL OR DCPL
Required information | Record within this time limit
(A) Haul number, time and date gear set, time and date gear hauled, beginning and end positions, CDQ group number (if applicable), and total estimated hail weight for each haul | 2 hours after completion of gear retrieval
(B) Discard and disposition information | By noon each day to record the previous day's discard and disposition information
(C) Submit the goldenrod logsheet to the observer | After signature of operator which is due by noon of the day following the week-ending date of the weekly reporting period.
(D) If on a catcher vessel: |
(1) Submit blue DFL to mothership, shoreside processor, SFP, or buying station receiving the catch | 2 hours after completion of catch delivery
(2) Record all other required information | 2 hours after the vessel's catch is off-loaded, notwithstanding other time limits
(3) Sign the completed logsheets | 2 hours after completion of catch delivery
(E) If on a catcher/processor: |
(1) Record product information | By noon each day to record the previous day's production information
(2) Record all other required information | By noon of the day following completion of production to record all other required information
(3) Sign the completed logsheets | By noon of the day following the week-ending date of the weekly reporting period

(iii) Required information, if inactive. See paragraph (c)(2) of this section.

(iv) Required information, if active—(A) Catcher vessel. (1) A catcher vessel using trawl gear is active when the net or tow is at fishing depth.

(2) If the catcher vessel identified in paragraph (c)(4)(i) of this section is active, the operator must record for one day per logsheet in the DFL, the information described in paragraphs (c)(4)(v), (c)(4)(vi), (c)(4)(viii), and (c)(4)(x) of this section.

(B) Catcher/processor. (1) A catcher/processor is active when checked-in or processing.

(2) If the catcher/processor identified in paragraph (c)(4)(i) of this section is active, the operator must record for one day per logsheet in the DCPL, the information described in paragraphs (c)(4)(v), (c)(4)(vi), (c)(4)(vii), and (c)(4)(ix) of this section.

(v) Identification information. If active, the operator must record the following information:

(A) Date. Enter date of each day (mm/dd/yy). This date is also the date of gear deployment.

(B) Page number. Number the pages in each logbook consecutively, beginning on the first page of the DFL or DCPL with page 1 for January 1 and continuing for the remainder of the fishing year.

(C) Printed name and signature of operator. The operator must sign each completed logsheet of the DFL or DCPL as verification of acceptance of the responsibility required in paragraph (a)(2) of this section. The operator's signature is due by noon of the day following the week-ending date of the weekly reporting period.

(D) Vessel identification. Name of vessel as displayed in official documentation; FFP number of the vessel; ADF&G vessel registration number if a catcher vessel; and ADF&G processor code if a catcher/processor.

(E) Federal reporting area. Record the Federal reporting area code where gear retrieval was completed, regardless of where the majority of the set took place. Use a separate logsheet for each reporting area.

(F) COBLZ or RKCSA. If gear retrieval occurred in the COBLZ (see Figure 13 to this part) or RKCSA (see Figure 11 to this part) area within a reporting area, use two separate logsheets, the first to record the information from the reporting area that includes COBLZ or RKCSA, and the second to record the information from the reporting area that does not include COBLZ or RKCSA.

(G) Crew size. If a catcher vessel, record the number of crew members (including operator), excluding certified observer(s), on the last day of a trip. If a catcher/processor, record the number of crew members (including operator), excluding certified observer(s), on the last day of the weekly reporting period.

(H) Gear type. Use a separate logsheet for each gear type. Indicate whether pelagic trawl or non-pelagic trawl gear was used to harvest the fish.

(I) Management program. Indicate whether harvest occurred under one of the special management programs (see paragraph (a)(1)(iii) of this section). Use a separate logsheet for each management program. If harvest is not under one of these management programs, leave blank.

(J) Observer information. Record the number of observers aboard, the name of the observer(s), and the observer cruise number(s).

(vi) Catch-by-haul information. The operator must record the following information for each haul (see § 679.2). If no catch occurred for a given day, write “no catch.”

(A) Haul number. Number hauls sequentially by year.

(B) Gear deployment (or to set gear). Record the following information for trawl gear deployment:

(1) The time (in military format, A.l.t.) when the trawl gear reaches the fishing level and begins to fish, and

(2) The position (latitude and longitude to the nearest minute) where the trawl gear reaches the fishing level and begins to fish.

(C) Gear retrieval (or to haul gear). Record the following information for trawl gear retrieval:

(1) The date (mm/dd) and time (in military format, A.l.t.) when retrieval of trawl gear cable begins.

(2) The position (in latitude and longitude to the nearest minute) where retrieval of trawl gear cable begins.

(D) Average sea depth and average gear depth. Average sea depth and average gear depth; indicate whether average is reported to the nearest meter or fathom.

(E) Species codes. The operator must record and report the following information for all groundfish (see Table 2a to this part - Species Codes: FMP Groundfish), prohibited species (see Table 2b to this part - Species Codes: FMP Prohibited Species and CR Crab), and forage fish (see Table 2c to this part - Species Codes: FMP Forage Fish). The operator or manager may record and report the following information for non-groundfish (see Table 2d to this part - Species Codes: Non-FMP Species).

(F) Target species code. Enter the species code of the species you intended to catch this haul.

(G) IR/IU species (see § 679.27). If a catcher/processor, enter species code of IR/IU species and estimated total round weight for each IR/IU species, if applicable; indicate whether estimated weight is to the nearest pound or the nearest 0.001 mt.

(H) Total estimated hail weight. Total hail weight is an estimate of the total retained weight of the catch without regard to species. Indicate whether estimated weight is to the nearest pound or to the nearest 0.001 mt.

(vii) Product information, catcher/processor. The operator must record the following groundfish product information for all retained groundfish by species code, product code, and product designation; indicate whether estimated weight is to the nearest pound or nearest 0.001 mt. If no production occurred for a given day, write “no production.”

(A) Total daily fish product weight or actual scale weight of fish product;

(B) Balance forward weight from the previous day; and

(C) Weekly cumulative total weight of groundfish weights; determine the weekly cumulative total by adding daily totals and the balance carried forward from the day before. These weights may be either the total fish product weight or the actual scale weight of fish product.

(D) Summarize weekly cumulative totals of groundfish product weights separately by reporting area, management program, if harvest occurred in the COBLZ or RKCSA, and gear type.

(E) Record “0” or zero balance forward and start a new logsheet:

(1) After the offload or transfer of all fish or fish product onboard, if such offload occurs prior to the end of a weekly reporting period.

(2) At the beginning of each weekly reporting period, nothing shall be carried forward from the previous weekly reporting period.

(viii) Discard or disposition information, catcher vessel. The operator must record in a DFL the discard or disposition that occurred prior to and during delivery to a buying station, mothership, shoreside processor, or SFP. If no discards or disposition occurred on a given day, write “no discards or disposition.”

(A) Species code and product code. Record the species code and product code for all discards of groundfish and PSC Pacific herring, Pacific salmon, steelhead trout, Pacific halibut, king crabs, and Tanner crabs. Record the species code and product code for all disposition of groundfish.

(B) Discard weight. Record the daily estimated total round weight of groundfish or Pacific herring PSC discards and disposition, balance forward weight from the previous day, and cumulative total weight since last delivery, calculated by adding the daily totals and balance carried forward from the day before; indicate whether estimated weight is to the nearest pound or nearest 0.001 mt.

(C) PSC discard numbers. Record the daily number, balance forward from the previous day, and cumulative total number since last delivery of prohibited species animals (Pacific salmon, steelhead trout, Pacific halibut, king crabs, and Tanner crabs).

(D) Discard cumulative total. Summarize cumulative totals of groundfish weights and number of PSC animals separately by reporting area, if harvest occurred in the COBLZ or RKCSA, management program, and gear type.

(E) Discard zero balance forward. After the offload or transfer of all fish or fish product onboard and prior to the beginning of each fishing trip, the operator must record the balance forward from the previous day as “zero” and start a new logsheet. At the beginning of each fishing trip, nothing shall be carried forward from the previous fishing trip.

(ix) Discard or disposition information, catcher/processor. The operator must record discard or disposition information in a DCPL that occurred prior to, during, and after production of groundfish. If no discards or disposition occurred for a day, write “no discards or disposition” across the column. The operator must record discard or disposition information by species codes and product codes as follows:

(A) Discard total weight. Record the daily estimated total round weight of groundfish or Pacific herring PSC discards and disposition, balance forward weight from the previous day, and cumulative total weight for the weekly reporting period, calculated by adding the daily totals and balance carried forward from the day before; indicate whether estimated weight is to the nearest pound or nearest 0.001 mt.

(B) PSC discard numbers. Record the daily number, balance forward from the previous day, and cumulative total number for the weekly reporting period of prohibited species animals (Pacific salmon, steelhead trout, Pacific halibut, king crabs, and Tanner crabs).

(C) Discard cumulative totals. Summarize cumulative totals of groundfish weights and number of PSC animals separately by reporting area, if harvest occurred in the COBLZ or RKCSA, management program, and gear type.

(D) Discard zero balance forward. After the offload or transfer of all fish or fish product onboard and if such offload occurs prior to the end of a weekly reporting period, the operator must record the balance forward from the previous day as “zero” and start a new logsheet. At the beginning of each weekly reporting period, nothing shall be carried forward from the previous weekly reporting period.

(x) Catcher vessel delivery information. The operator must enter the following delivery information for groundfish delivered to a buying station, mothership, shoreside processor, or SFP:

(A) Date (mm/dd) that delivery of harvest was completed,

(B) ADF&G fish ticket number issued to operator by the recipient receiving the delivery, and

(C) Name and ADF&G processor code of recipient.

(5) Shoreside Processor DCPL—(i) Responsibility. Except as provided in paragraph (e) of this section, the manager of a shoreside processor or SFP that is required to have an FPP under § 679.4(f), who receives, processes, purchases, or arranges to purchase, any unprocessed groundfish from the GOA or BSAI from vessels issued an FFP under § 679.4, must maintain a shoreside processor DCPL and must incorporate into the DCPL any information for groundfish deliveries received, including groundfish received from processors for reprocessing or rehandling and groundfish received from an associated buying station documented on a buying station report (BSR).

(ii) Data entry time limits. The manager of a shoreside processor or SFP must record in the DCPL the following information for each groundfish delivery within the specified time limit:

DATA ENTRY TIME LIMITS, SHORESIDE PROCESSOR DCPL
Required information | Record within this time limit
(A) All catcher vessel or buying station delivery information | 2 hours after completion of receipt of each groundfish delivery
(B) Landings information | By noon each day to record the previous day's landings
(C) Product information | By noon each day to record the previous day's production
(D) Discard or disposition information | By noon each day to record the previous day's discard/disposition
(E) All other required information | By noon of the day following completion of production
(F) Sign the completed DCPL logsheets | By noon of the day following the week-ending date of the weekly reporting period
(G) Submit the goldenrod logsheet to the observer | After signed by the manager

(iii) Required information, if inactive. See paragraph (c)(2) of this section. If in an inactive period, the manager needs only to record information in Part I.

(iv) Required information Part I, if active. A shoreside processor or SFP is active when checked-in or processing. If the shoreside processor or SFP identified in paragraph (c)(5) of this section is active, the manager must record the following information on one or more Part I logsheets in the DCPL.

(A) Page number. Number the pages in Part I of each logbook consecutively, beginning with page 1 for January 1 and continuing for the remainder of the fishing year. Complete one Part I logsheet per day or up to 7 days per logsheet ending on the last day of a weekly reporting period.

(B) Week-ending date. Enter week-ending date in which groundfish is received, bought, or arranged to be bought.

(C) Printed name and signature of manager. The manager must sign each completed DCPL logsheet as verification of acceptance of the responsibility required in paragraph (a)(2) of this section.

(D) Name of shoreside processor or SFP as displayed in official documentation.

(E) Geographic location of plant, if a shoreside processor.

(F) FPP number and ADF&G processor code.

(G) Federal reporting area. Record the Federal reporting area code (see Figures 1 and 3 to this part) where harvest was completed. Use a separate Part I logsheet for each reporting area.

(H) Management program. On Part I logsheets, record whether harvest occurred under one of the special management programs (see paragraph (a)(1)(iii) of this section). Use a separate Part I logsheet for each management program. If harvest is not under one of these management programs, leave blank.

(I) Gear type only. Indicate gear type used to harvest fish. If gear is other than those listed, circle “other” and describe. Use a separate Part I logsheet for each gear type.

(J) COBLZ or RKCSA. If groundfish were harvested with trawl gear in the COBLZ or RKCSA, use two separate Part I logsheets to record the information: one logsheet for the reporting area that includes COBLZ or RKCSA, and a second Part I logsheet to record the information from the reporting area that does not include COBLZ or RKCSA.

(K) Observer information. Record the number of observers on site, the name of the observer(s), the dates each observer was present, and the observer cruise number(s).

(v) Required delivery information Part I, if active. The manager must record the following delivery information when unprocessed groundfish deliveries are received from a buying station or a catcher vessel. If no deliveries are received for a given day, write “no deliveries.”

(A) Date of delivery. Date (mm/dd) when delivery of harvest was completed.

(B) Type of delivery. “CV” or “BS” to indicate delivery was from catcher vessel or buying station, respectively.

(C) Non-submittal of discard report. Indicate whether the blue logsheet was received from the catcher vessel at the time of catch delivery. If delivery was from a buying station, leave this column blank. If a blue logsheet was not received from the catcher vessel, the manager must enter “NO” and the appropriate response code (example: NO L) to describe the reason for non-submittal as follows:

NON-SUBMITTAL OF DISCARD REPORT | WRITE
(1) The catcher vessel does not have an FFP | “P”
(2) The catcher vessel is under 60 ft (18.3 m) LOA and does not have an FFP | “P”
(3) The catcher vessel is under 60 ft (18.3 m) LOA and has an FFP | “L”
(4) The catcher vessel delivered an unsorted codend | “U”
(5) Another reason; describe circumstances | “O”

(D) Name and ADF&G vessel registration number of the catcher vessel or buying station (if applicable) delivering the groundfish.

(E) Receipt time. Record time (in military format, A.l.t.) when receipt of groundfish delivery was completed.

(F) Estimated total hail weight. Enter the total estimated hail weight of the combined species of each delivery from a catcher vessel or buying station. Total hail weight is an estimate of the total retained weight of the catch without regard to species. Indicate whether estimated weight is to the nearest pound or to the nearest 0.001 mt. If a catcher vessel reported discards on a blue DFL but did not deliver groundfish, enter “0” in this column.

(G) ADF&G fish ticket numbers. If receiving unprocessed groundfish from a catcher vessel, record the ADF&G fish ticket number that you issued to each catcher vessel. If receiving unprocessed groundfish from an associated buying station, record the ADF&G fish ticket numbers issued by the buying station to the catcher vessel.

(H) Fish ticket numbers, state other than Alaska. If a shoreside processor is located in a state other than Alaska and received unprocessed groundfish from a catcher vessel, record the fish ticket numbers issued for that non-Alaska state along with the two-character abbreviation for that state.

(I) Catch receipt numbers, state other than Alaska. If the shoreside processor is located in a state other than Alaska where no fish ticket system is available and receives unprocessed groundfish from a catcher vessel, record the catch receipt number issued to the catcher vessel.

(vi) Required landings information Part I, if active. The manager must record the following landings information for all retained species from groundfish deliveries. If no landings occurred for a given day, write “no landings.”

(A) Date of landing. Enter date (mm/dd) that sorting and weighing of a delivery by species was completed.

(B) Daily total weight of landings by species code and product code; indicate whether estimated weight is to the nearest pound or the nearest 0.001 mt. Landings weight may be recorded either as estimated round weight of groundfish or actual scale weights.

(C) Scale weights. (1) Obtain actual weights for each groundfish species received and retained by:

(i) Sorting according to species codes and direct weighing of that species, or

(ii) Weighing the entire delivery and then sorting and weighing the groundfish species individually to determine their weights. Record daily combined scale weights of landings by species and product codes.

(2) Record daily combined scale weights of landings by species and product codes.

(D) Weekly cumulative weight of landings, calculated by adding daily totals.

(E) Summary. Summarize weekly cumulative totals of groundfish weights and number of PSC animals separately by reporting area, management program, gear type, and if trawl gear used, if harvest occurred in the COBLZ or RKCSA.

(F) Landings as product. If you receive groundfish and record them as landings in Part II, and transfer these same fish to another processor without further processing, record the species code, product code, and weight of these fish also in Part II as products prior to transfer.

(vii) Required discard or disposition information Part I, if active. The manager must record discard or disposition information that occurred on site after receipt of groundfish from a catcher vessel or buying station; occurred prior to, during, and after processing of groundfish; was reported on a blue DFL received from a catcher vessel delivering groundfish; was reported on a blue DFL received from a catcher vessel when no groundfish are delivered, but the blue DFL contains records of groundfish discards or disposition (e.g., an IFQ fish delivery with groundfish incidental catch or fish eaten onboard by crew); or was reported on a BSR received from a buying station delivering groundfish, if different from the blue DFL logsheets submitted by catcher vessels to the buying station. The manager must record the following information for each discard or disposition:

(A) Date of discard. (1) Record the date (mm/dd) that discard or disposition occurred at the facility;

(2) Record the date (mm/dd) the blue logsheet was received from a catcher vessel (not the actual date of discard or disposition indicated on the blue logsheet); and

(3) Record the date (mm/dd) the BSR was received from a buying station (not the actual date of discard or disposition indicated on the BSR).

(B) Discard species code and product code. Record the species code (from Table 2a to this part) and product code (use discard/disposition codes from Table 1 to this part).

(C) Discard weight. Record the daily weight of groundfish or herring PSC discard or disposition; indicate whether estimated weight is to the nearest pound or nearest 0.001 mt.

(D) PSC discard numbers. Record the daily number of prohibited species animals (Pacific salmon, steelhead trout, Pacific halibut, king crabs, and Tanner crabs).

(E) Discard weekly cumulative totals. Record the weekly cumulative totals of groundfish weights and number of PSC animals summarized separately by reporting area, management program, gear type, and if trawl gear used in the harvest, if harvest occurred in the COBLZ or RKCSA. Determine weekly cumulative total by adding daily totals.

(viii) Required product information Part II, if active—(A) Requirement. The manager must record the groundfish product information in Part II of the DCPL for products made from unprocessed groundfish deliveries received and retained from a buying station or a catcher vessel; groundfish received and retained from another processor or other source; groundfish received for custom processing by you for another processor or business entity; and groundfish received as landings, but transferred without processing. If no production occurred for a given day or for a weekly reporting period, write “no production.”

(B) Page numbering. Number the pages in Part II of each logbook consecutively, beginning with page 1 for the first day of processing operations after the start of the fishing year. Record only those weeks in which production occurred during a fishing year.

(C) Printed name and signature of manager. The manager must sign each completed DCPL logsheet as verification of acceptance of the responsibility required in paragraph (a)(2) of this section.

(D) Name of shoreside processor or SFP as displayed in official documentation.

(E) FPP number and ADF&G processor code.

(F) Week-ending date. Enter the week-ending date (mm/dd/yy) in which processing of groundfish is completed. Use a separate logsheet for each week-ending date or use one logsheet for up to 3 week-ending dates.

(G) BSAI or GOA. Circle to indicate whether harvest occurred in BSAI or GOA management area.

(H) Date of production. Enter date (mm/dd) that production was completed.

(I) Species and product codes. Species code (from Table 2a to this part), product code and product designation (use Table 1 to this part).

(J) Daily product weight. Daily product weight may be recorded as either fish product weight or actual scale weight. Indicate whether weights are to the nearest pound or nearest 0.001 mt.

(K) Weekly cumulative totals of product weights. Determine the weekly cumulative total by adding daily totals.

(ix) Custom processing. The manager of a shoreside processor or SFP must record products that result from custom processing by you for another processor or business entity. If you receive unprocessed or processed groundfish to be handled or processed for another person, enter these groundfish in a DCPL consistently throughout a fishing year using one of the following two methods:

(A) Combined records. Record landings, discards or dispositions, and products of contract-processed groundfish routinely in the DCPL without separate identification; or

(B) Separate records. Record landings, discards or dispositions, and products of custom-processed groundfish in a separate DCPL, identified by the name, FPP number or FFP number, and ADF&G processor code of the associated business entity.

(6) Mothership DCPL—(i) Responsibility. The operator of a mothership who receives or processes any groundfish from the GOA or BSAI from vessels issued an FFP under § 679.4, must maintain a mothership DCPL. The operator also must incorporate into the DCPL any information for groundfish deliveries received, including groundfish received from processors for reprocessing or rehandling and groundfish received from an associated buying station documented on a BSR.

(ii) Data entry time limits. The operator of a mothership must record in the DCPL the following information for each groundfish delivery within the specified time limit:

DATA ENTRY TIME LIMITS, MOTHERSHIP DCPL
Required information | Record within this time limit
(A) All catcher vessel or buying station delivery information | 2 hours after completion of receipt of each groundfish delivery
(B) Product information | By noon each day to record the previous day's production
(C) Discard or disposition information | By noon each day to record the previous day's discard/disposition
(D) All other required information | By noon of the day following completion of production
(E) Sign the completed DCPL logsheets | By noon of the day following the week-ending date of the weekly reporting period
(F) Submit the goldenrod logsheet to the observer | After signed by the operator

(iii) Required information, if inactive. See paragraph (c)(2) of this section.

(iv) Required information, if active. A mothership is active when checked-in or processing. If the mothership identified in paragraph (c)(6) of this section is active, the operator must record the following information in the DCPL. Complete a separate logsheet for each day.

(A) Page number. Number the pages in each logbook consecutively, beginning with page 1 for January 1 and continuing throughout the logbook for the remainder of the fishing year.

(B) Printed name and signature of operator. The operator must sign each completed DCPL logsheet as verification of acceptance of the responsibility required in paragraph (a)(2) of this section. The operator's signature is due by noon of the day following the week-ending date of the weekly reporting period.

(C) Mothership identification. Name of mothership as displayed in official documentation, FFP number, and ADF&G processor code.

(D) Date. Enter date (mm/dd/yy) of each operating day.

(E) Crew size. Record the number of crew members (including operator), excluding certified observer(s), on the last day of the weekly reporting period.

(F) Gear type. Indicate the gear type of harvester. If gear type is other than those listed, circle “Other” and describe. Use a separate logsheet for each gear type.

(G) Federal reporting areas. Record Federal reporting area code (see Figures 1 and 3 to this part) where harvest was completed. Use a separate logsheet for each reporting area.

(H) COBLZ or RKCSA. If groundfish was harvested with trawl gear in the COBLZ or RKCSA, use two separate logsheets to record the information: one logsheet for the reporting area that includes COBLZ or RKCSA, and a second logsheet to record the information from the reporting area that does not include COBLZ or RKCSA.

(I) Observer information. Record the number of observers aboard, the name(s) of the observer(s), and the observer cruise number(s).

(J) Management program. Indicate whether harvest occurred under one of the special management programs (see paragraph (a)(1)(iii) of this section). Use a separate logsheet for each management program. If harvest is not under one of these management programs, leave blank.

(v) Required delivery information. The operator must record delivery information when unprocessed groundfish deliveries are received by the mothership from a buying station or a catcher vessel. If no deliveries are received for a given day, write “no deliveries.”

(A) Type of delivery. “CV” or “BS” to indicate delivery was from catcher vessel or buying station, respectively.

(B) Non-submittal of discard report. Indicate if the blue logsheet was received from the catcher vessel at the time of catch delivery. If the delivery was from a buying station, leave this column blank. If a blue logsheet was not received from the catcher vessel, the manager must enter “NO” and the appropriate response code (example: NO-L) to describe the reason for non-submittal as follows:

NON-SUBMITTAL OF DISCARD REPORT | WRITE
(1) The catcher vessel does not have an FFP | “P”
(2) The catcher vessel is under 60 ft (18.3 m) LOA and does not have an FFP | “P”
(3) The catcher vessel is under 60 ft (18.3 m) LOA and has an FFP | “L”
(4) The catcher vessel delivered an unsorted codend | “U”
(5) Another reason; describe circumstances | “O”

(C) Vessel identification. Name and ADF&G vessel registration number of the catcher vessel or buying station (if applicable) delivering the groundfish.

(D) Receipt time. Record time (in military format, A.l.t.) when receipt of groundfish delivery was completed.

(E) Beginning position of receipt. Record the latitude and longitude position coordinates where receipt of the groundfish delivery began.

(F) Estimated total groundfish hail weight. Enter the total estimated hail weight of the combined species. Total hail weight is an estimate of the total retained weight of the catch without regard to species. Indicate whether estimated weight is to the nearest pound or to the nearest 0.001 mt. If a catcher vessel reported discards on a blue DFL but did not deliver groundfish, enter “0” in this column.

(G) IR/IU species (see § 679.27). Enter the species code of IR/IU species and the estimated total round weight for each IR/IU species, if applicable; indicate whether estimated weight is to the nearest pound or the nearest 0.001 mt.

(H) ADF&G fish ticket numbers. If receiving unprocessed groundfish from a catcher vessel, record the ADF&G fish ticket number that you issued to each catcher vessel. If receiving unprocessed groundfish from an associated buying station, record the ADF&G fish ticket numbers issued by the buying station on your behalf to the catcher vessel.

(vi) Product information. The operator must record the following groundfish product information in the DCPL for products made from unprocessed groundfish deliveries received from a buying station or a catcher vessel; groundfish received from another processor or other source; and groundfish received for custom processing by you for another processor or business entity. If no production occurred for a given day, write “no production.”

(A) Species code and product code. Record the species code, product code, and product designation.

(B) Product weight. Record the daily total weight in either fish product weight or actual scale weight of product. Indicate whether product weight is recorded to the nearest pound or nearest 0.001 mt.

(C) Balance forward. Record the balance forward weight from the previous day.

(D) Product weekly cumulative totals. Record the weekly cumulative totals of groundfish weights; determine weekly cumulative total by adding daily totals and the balance forward from the day before. These weights may be either total fish product weight or actual scale weight of product.

(E) Weekly cumulative product totals. Summarize weekly cumulative product totals of groundfish weights separately by reporting area; management program; gear type; and if trawl gear was used by harvester, if harvest occurred in the COBLZ or RKCSA.

(F) Zero product balance. The operator must record “0” or zero balance forward and start a new logsheet:

(1) After the offload or transfer of all fish or fish product onboard, if such offload occurs prior to the end of a weekly reporting period.

(2) At the beginning of each weekly reporting period. Nothing shall be carried forward from the previous weekly reporting period.

(G) Custom processing. The operator must record products that result from custom processing by you for another processor or business entity. If you receive unprocessed or processed groundfish to be handled or processed for another person, enter these groundfish in a DCPL consistently throughout a fishing year using one of the following two methods:

(1) Combined records. Record landings (if applicable), discards or dispositions, and products of contract-processed groundfish without separate identification; or

(2) Separate records. Record landings (if applicable), discards or dispositions, and products of custom-processed groundfish in a separate DCPL identified by the name, FFP number, and ADF&G processor code of the associated business entity.

(vii) Required discard or disposition information. The operator must record discard or disposition information that occurred onboard after receipt of groundfish from a catcher vessel or buying station; occurred prior to, during, and after processing of groundfish; was reported on a blue DFL received from a catcher vessel delivering groundfish; no groundfish were delivered but discard or disposition was recorded on a blue DFL received from a catcher vessel containing records of groundfish discards or disposition; and was reported on a BSR received from a buying station delivering groundfish, if different from the blue DFL logsheets submitted by catcher vessels to the buying station. If no discards or disposition occurred for a given day or for a weekly reporting period, write “no discards.” The operator must record the following discard or disposition information:

(A) Discard species code and product code. Record the species code and product code.

(B) Discard estimated daily total weight. Record the estimated daily total weight, balance forward weight from the previous day, and weekly cumulative total weight of groundfish or herring PSC discard and disposition; indicate whether to nearest pound or to the nearest 0.001 mt. Determine weekly cumulative total by adding daily totals and balance forward weights. Summarize weekly cumulative discard and disposition totals of groundfish or herring PSC weights separately by reporting area, management program, gear type, and if trawl gear used, whether discard or disposition occurred in the COBLZ or RKCSA.

(C) PSC discard daily total numbers. Estimated daily total number, balance forward number from the previous day, and weekly cumulative total number of prohibited species animals (Pacific salmon, steelhead trout, Pacific halibut, king crabs, and Tanner crabs). Determine weekly cumulative total by adding daily totals and balance forward numbers. Summarize weekly cumulative discard and disposition totals of numbers of PSC animals separately by reporting area, management program, gear type, and if trawl gear used, if discard or disposition occurred in the COBLZ or RKCSA.

(D) Zero discard balance. The operator must record “0” or zero balance forward and start a new logsheet:

(1) After the offload or transfer of all fish or fish product onboard, if such offload occurs prior to the end of a weekly reporting period.

(2) At the beginning of each weekly reporting period. Nothing shall be carried forward from the previous weekly reporting period.

(d) Buying Station Report (BSR)—(1) Responsibility. (i) The operator or manager of a buying station that receives or delivers groundfish harvested from the GOA or BSAI in association with a shoreside processor or SFP as defined in paragraph (c)(5) or a mothership as defined in paragraph (c)(6) of this section, must complete and retain a separate BSR for each delivery of unprocessed groundfish or donated prohibited species received from a catcher vessel on behalf of an associated processor.

(ii) The operator or manager must ensure that the following accompanies each groundfish delivery from the landing site to the associated processor:

(A) A complete and accurate BSR that describes the delivery;

(B) Any blue DFL logsheets or equivalent printed ELB discard reports received from a catcher vessel; and

(C) Copies of all ADF&G fish tickets issued to the catcher vessel on behalf of the associated processor.

(iii) The operator of a catcher vessel, by prior arrangement with an associated processor, may function as a buying station for his own catch as follows:

(A) By shipping his groundfish catch with a copy of the BSR directly to that processor via truck or airline in the event that the processor is not located where the harvest is offloaded; or

(B) By driving a truck that contains his catch and a copy of the BSR to the processor.

(2) Data entry time limits. The operator or manager of a buying station must record in the BSR all required information and sign the BSR within 2 hours of completion of delivery from a catcher vessel.

(3) Required information, if inactive. The operator or manager of a buying station is not required to record information if inactive.

(4) Required information, if active. A buying station is active when receiving, discarding, or delivering groundfish for an associated processor. The operator or manager of a buying station must record the following information on a BSR for each delivery:

(i) Original/revised report. If a BSR is the first submitted to the Regional Administrator for a given date, gear type, and reporting area, indicate “ORIGINAL REPORT”. If a report is a correction to a previously submitted BSR for a given date, gear type, and reporting area, indicate “REVISED REPORT”.

(ii) Name of buying station. Enter name and ADF&G vessel registration number if a vessel, or name and license number if a vehicle; the name should be recorded as it is displayed in official documentation.

(iii) Operator or manager name and signature. The operator or manager must sign the completed BSR prior to delivery of harvest to a mothership, shoreside processor, or SFP. This signature is verification by the operator or manager of acceptance of the responsibility required in paragraph (a)(2) of this section.

(iv) Management program. Indicate whether harvest occurred under one of the special management programs (see paragraph (a)(1)(iii) of this section). If harvest is not under one of these management programs, leave blank.

(v) Indicate gear type of harvester.

(vi) Federal reporting area (see Figures 1 and 3 to this part) from which groundfish were harvested.

(vii) If harvester gear type was trawl and gear retrieval occurred in the COBLZ or RKCSA (see Figures 11 and 13 to this part), use two separate BSRs to record the information: one BSR for the reporting area that includes COBLZ or RKCSA, and a second BSR to record the information from the reporting area that does not include COBLZ or RKCSA.

(viii) Associated processor. Enter the name, ADF&G processor code, FFP number or FPP number of the associated processor, date (mm/dd/yy) and time (A.l.t., military format) delivery was completed.

(ix) Catcher vessel delivery information—(A) Catcher vessel identification. Name and ADF&G vessel registration number of catcher vessel making the delivery.

(B) Non-submittal of discard report. Indicate whether the blue logsheet was received from the catcher vessel at the time of catch delivery. If the blue logsheet is not received from the catcher vessel, enter “NO” and the appropriate response code to describe the reason for non-submittal. If a blue logsheet was not submitted by the catcher vessel, the operator must indicate one of the following reasons:

NON-SUBMITTAL OF DISCARD REPORT | WRITE
(1) The catcher vessel does not have an FFP | “P”
(2) The catcher vessel is under 60 ft (18.3 m) LOA and does not have an FFP | “P”
(3) The catcher vessel is under 60 ft (18.3 m) LOA and has an FFP | “L”
(4) The catcher vessel delivered an unsorted codend | “U”
(5) Another reason; describe circumstances | “O”

(C) ADF&G fish ticket number issued to catcher vessel.

(D) Species codes and scale weight. In addition to recording the total estimated delivery weight or actual scale weight of a catcher vessel delivery, if the operator or manager of the buying station sorted the delivery prior to delivery to an associated processor, he or she may enter specific species code and scale weights of individual species to the BSR; indicate whether to the nearest pound or to 0.001 mt.

(E) Groundfish hail weight. Enter the estimated total groundfish hail weight or actual scale weight of delivery. Total hail weight is an estimate of the total retained weight of the catch without regard to species. Indicate whether to the nearest pound or to the nearest 0.001 mt.

(x) Discard and disposition information—(A) Discard. The operator or manager of a buying station must record in a BSR, discard or disposition information that:

(1) Occurred on and was reported by a catcher vessel on a blue logsheet;

(2) Occurred on the buying station prior to delivery to an associated processor; and

(3) Was recorded on a blue logsheet submitted to the buying station by a catcher vessel when no groundfish were delivered by the catcher vessel (for example, disposition code 95 describes fish or fish products eaten onboard or taken off the vessel for personal use). Discard or disposition information must include:

(B) No discards. If no discards or disposition for a delivery, write “no discards”.

(C) Discard weight. Total discard weight of groundfish and herring PSC by species code and product code (indicate whether to nearest pound or to the nearest 0.001 mt).

(D) PSC discard numbers. Total PSC discard number of animals by species code and product code.

(e) Interagency Electronic Reporting System (IERS) and eLandings—(1) Responsibility—(i) Hardware, software, and Internet connectivity. Unless NMFS approves an alternative reporting method, for recordkeeping and reporting data for those fisheries listed in paragraph (e)(2) of this section, a User must obtain at his or her own expense hardware, software, and Internet connectivity to support Internet submissions of commercial fishery landings for which participants report to NMFS, production data, and discard or disposition data. The User must enter this information over the Internet at http://elandings.alaska.gov by logging on to the eLanding system or by using the desktop client software.

(ii) Computer or network failure—(A) Groundfish. In the event the eLandings system and/or the Internet is unavailable for a period longer than the required reporting time, contact NMFS Inseason Management at 907-586-7228 for instructions. The User must have onsite or onboard prior to fishing activity an appropriate interim paper form on which to record data. A User who for any reason is unable to properly submit a landing report or production report through eLandings must enter the information onto the interim paper form for reference until network connections are restored. When the network is restored, the User must enter this same information into eLandings.

(B) IFQ manual landing report for crab, halibut, and sablefish. If the Internet connection is unavailable or a change must be made to IFQ crab, halibut, and sablefish information submitted through the eLandings IFQ section (IFQ report), the User must complete an IFQ manual landing report to enter or change the data and submit it by fax to 907-586-7313. Manual landing instructions must be obtained from OLE, Juneau, AK at 800-304-4846 (Select Option 1). The User must complete all questions on the manual report, even if only one item has changed. In addition, the following information is required: whether the manual landing report is an original or revised, name, telephone number, and fax number of individual submitting the manual landing report.

(2) eLandings processor registration. (i) Before a User can use the eLandings system to report landings, production, discard or disposition data, he or she must request authorization to use the system, reserve a unique UserID, and obtain a password by using the Internet to complete the eLandings processor registration at https://elandings.alaska.gov/elandings/Register.

(ii) Upon receipt of the registration information, eLandings verifies that all of the required information is provided in the correct format, and that the requested UserID is not already in use. After completing registration or creating a new operation, eLandings will generate a User Agreement Form. The User must print, sign, and fax the registration form to NMFS/RAM eLandings Registration at 907-586-7354.

(iii) The User's signature on the registration form means that the User agrees to the following terms:

(A) To use eLandings access privileges only for submitting legitimate fishery landing reports;

(B) To safeguard the UserID and password to prevent their use by unauthorized persons; and

(C) To ensure that the User is authorized to submit landing reports for the processor permit number(s) listed.

(iv) Upon registration acceptance, the User must print, sign, and mail the registration form to NMFS/RAM eLandings Registration, P.O. Box 21668, Juneau, AK 99802-1668; or fax a signed form to 907-586-7354, Attn: eLandings Registration; or deliver the signed form by courier to NMFS/RAM eLandings Registration, 709 West Ninth Street, Suite 713, Juneau, AK 99801. Confirmation will be e-mailed to indicate that the User is registered, authorized to use eLandings, and that the UserID and User's account are enabled.

(3) Information required for eLandings processor registration form. The User must enter the following information to obtain operation registration and UserID registration:

(i) Operation type. Select the operation type from the dropdown list according to the following table:

For this Federal category: | Enter one of these eLandings operation types:
Shoreside processor or SFP | Plant/receiver
| Custom processing
Mothership | At-sea
Catcher/processor | At-sea
Buying station | Tender
| Buying Station

(ii) Operation name. Enter a name that will refer to the specific operation. For example, if the plant is in Kodiak and the company is East Pacific Seafoods, the operation name might read “East Pacific Seafoods - Kodiak”.

(iii) ADF&G processor code and home port of shoreside processor, SFP, mothership, or catcher/processor.

(iv) Federal permit number—(A) Shoreside processor or SFP. If a shoreside processor or SFP, enter the FPP number.

(B) Catcher/processor or mothership. If a catcher/processor or mothership, enter the FFP number.

(C) Registered Buyer. If a Registered Buyer, enter the Registered Buyer permit number.

(D) Registered Crab Receiver. If a Registered Crab Receiver, enter the Registered Crab Receiver permit number.

(E) Buying station. If a buying station, enter the home port code; if a tender, enter the ADF&G vessel registration number; if a vehicle, enter the vehicle license number.

(v) Physical operation. If a buying station or custom processor, enter the following information to identify the associated processor: operation type, ADF&G processor code, and applicable FFP number, FPP number, Registered Buyer permit number, or/or Registered Crab Receiver permit number if held.

(vi) UserID registration for primary User. The User must enter the following information: Requested UserID, initial password, company name, User name, city and state, business telephone number, fax number, e-mail address, security question, and security answer.

(4) Information entered automatically for eLandings landing report. eLandings autofills the following fields from processor registration records (see paragraph (e)(2) of this section): UserID, processor company name, business telephone number, e-mail address, port of landing, ADF&G processor code, and Federal permit number. eLandings will assign a unique landing report number upon completion of data entry.

(5) Information entered for each groundfish delivery to a shoreside processor and SFP—(i) Contents. The User of a shoreside processor and SFP must enter the following information provided by the operator of a catcher vessel or operator or manager of a buying station into the eLandings or other NMFS-approved software for each groundfish delivery (other than IFQ sablefish):

(A) Delivery information. (1) Number of observers present.

(2) Crew size (including operator).

(3) Management program name and identifying number (if any). Indicate in which management program harvest occurred.

(4) ADF&G groundfish statistical area of harvest.

(5) Date (mm/dd/yy) that delivery was completed.

(6) Indicate (YES or NO) whether delivery is from a buying station.

(7) If the delivery is received from a buying station, indicate the name of buying station.

(8) If delivery is received from a catcher vessel, indicate the name and ADF&G vessel registration number of the vessel.

(9) Indicate whether a discard report was received from catcher vessel. If NO, select reason provided by the catcher vessel for not supplying this copy.

(10) Indicate gear type of harvester.

(11) Total estimated hail weight (in pounds).

(12) ADF&G fish ticket number provided to catcher vessel (eLandings assigns an ADF&G fish ticket number to the landing report).

(B) Landings. The User of a shoreside processor or SFP must record the following landings information for all retained species from groundfish deliveries:

(1) Date of landing (mm/dd).

(2) Weight (in pounds) by species code and delivery condition code.

(C) Discard or disposition information. (1) The User must record discard or disposition information that occurred on and was reported by a vessel operator; that occurred on and was reported by a buying station; and that occurred prior to, during, and after production of groundfish at the shoreside processor or SFP. Discards and dispositions also must be recorded when no groundfish are delivered but the blue DFL is submitted by a catcher vessel containing records of discards or disposition.

(2) If groundfish or prohibited species herring, enter species code, delivery condition code, disposition code, and weight (in pounds), and

(3) If prohibited species halibut, salmon, or crab, enter species code, delivery condition code, disposition code, and count (in numbers of animals).

(ii) Signatures. If delivery is groundfish, and reported by a shoreside processor or SFP, both the User of the shoreside processor or SFP and the operator of the delivering catcher vessel must sign the completed landing report (ADF&G fish ticket) by noon of the day following the delivery day.

(iii) Submittal time limit. The User of a shoreside processor or SFP must enter information described at paragraphs (e)(5)(i) and (ii) of this section into eLandings or other NMFS-approved software for each groundfish delivery from a specific vessel by noon of the day following the delivery day.

(6) Information entered for each groundfish delivery to a mothership—(i) Contents. The User of a mothership must enter the following information provided by the operator of a catcher vessel or operator or manager of a buying station into the eLandings or other NMFS-approved software for each groundfish delivery:

(A) Delivery information. (1) Number of observers present.

(2) Crew size (including operator).

(3) Management program name and identifying number (if any). Indicate in which management program harvest occurred.

(4) ADF&G groundfish statistical area of harvest.

(5) Date (mm/dd) that delivery was completed.

(6) If the delivery is received from a buying station, indicate the name of the buying station.

(7) If delivery received from a catcher vessel, enter the ADF&G vessel registration number of the vessel.

(8) Indicate whether a discard report was received from catcher vessel. If NO, select the reason provided by the catcher vessel for not supplying this copy.

(9) Gear type of harvester.

(10) Total estimated round weight by species (pounds).

(11) ADF&G fish ticket number provided to catcher vessel (eLandings assigns an ADF&G fish ticket number to the landing report).

(B) Discard or disposition information. (1) The User must record discard or disposition information that occurred on and was reported by a catcher vessel; that occurred on and was reported by a buying station; and that occurred prior to, during, and after production of groundfish at the mothership. Discards and dispositions also must be recorded when no groundfish are delivered but the blue DFL is submitted by a catcher vessel containing records of discards or disposition.

(2) If groundfish or prohibited species herring, enter species code, delivery condition code, disposition code, and weight (in pounds), and

(3) If prohibited species halibut, salmon, or crab, enter species code, delivery condition code, disposition code, and count (in numbers of animals).

(ii) Signatures. If delivery is groundfish, and reported by a mothership, both the User of the mothership and operator of the delivering catcher vessel must sign the landing report (ADF&G fish ticket) by noon of the day following the delivery day.

(iii) Submittal time limit. The User of a mothership must enter information described at paragraphs (e)(6)(i) and (ii) of this section into eLandings or other NMFS-approved software for each groundfish delivery from a specific vessel by noon of the day following the delivery day.

(7) Information entered for each IFQ halibut, CDQ halibut, and IFQ sablefish delivery—(i) Contents. The User of a Registered Buyer must enter the following information into eLandings or other NMFS-approved software for each IFQ halibut, CDQ halibut, and IFQ sablefish delivery:

(A) User identification. NMFS person ID of User.

(B) Landing date. Date (mm/dd) of the landing.

(C) Landing location. Location of the landing (port code).

(D) Permit numbers. Permit number of the IFQ cardholder or CDQ halibut cardholder harvesting the fish and permit number of Registered Buyer receiving the IFQ halibut, IFQ sablefish, or CDQ halibut.

(E) Delivery information. As reported by the IFQ cardholder or CDQ halibut cardholder.

(1) Harvesting vessel's ADF&G vessel registration number.

(2) Gear code used to harvest IFQ halibut, IFQ sablefish, or CDQ halibut.

(3) ADF&G fish ticket number(s) for the landing (after the initial eLandings report is submitted, eLandings assigns an ADF&G fish ticket number to the landing report).

(4) ADF&G statistical area of harvest.

(5) If ADF&G statistical area is bisected by a line dividing two IFQ regulatory areas, provide the IFQ regulatory area of harvest reported by the IFQ cardholder or CDQ halibut cardholder, and

(6) Except as provided in paragraph (e)(7)(i)(E)(7) of this section, initial accurate scale weight(s) (in pounds) made at the time of offloading for IFQ halibut, IFQ sablefish, or CDQ halibut sold and retained (where retained includes: fish intended for personal use, fish weighed and reloaded for delivery to another processor, and fish landed but rejected at the dock by the Registered Buyer); species codes; delivery condition code; and disposition code for each ADF&G statistical area of harvest.

(7) Accurate weight of IFQ sablefish processed product obtained before the offload may be substituted for the initial accurate scale weight provided in paragraph (e)(7)(i)(E)(6) of this section, at time of offload, if the vessel operator is a Registered Buyer reporting an IFQ sablefish landing.

(8) Indicate whether initial accurate scale weight is given with or without ice and slime. Fish which have been washed prior to weighing or which have been offloaded from refrigerated salt water are not eligible for a 2-percent deduction for ice and slime and must be reported as fish weights without ice and slime.

(9) Indicate whether IFQ halibut is incidental catch concurrent with legal landing of salmon or concurrent with legal landing of lingcod harvested using dinglebar gear.

(ii) Signatures. If reporting IFQ halibut, CDQ halibut, or IFQ sablefish, the User of the Registered Buyer and the IFQ cardholder or CDQ cardholder must sign the landing report (ADF&G fish ticket), IFQ receipt, and IFQ manual landing report within 6 hours after all IFQ halibut, CDQ halibut, and IFQ sablefish are offloaded from a harvesting vessel and prior to shipment or transfer of the fish from the landing site.

(iii) Time limits—(A) Landing hours. A landing of IFQ halibut, CDQ halibut, or IFQ sablefish may commence only between 0600 hours, A.l.t., and 1800 hours, A.l.t., unless permission to land at a different time (waiver) is granted in advance by a clearing officer.

(B) Landing completion. The User of the Registered Buyer must submit a completed IFQ Landing Report (ADF&G fish ticket), as described at paragraph (e)(7)(i) of this section, within 6 hours after all IFQ halibut, CDQ halibut, and IFQ sablefish are offloaded from a specific vessel and prior to shipment or transfer of said fish from the landing site.

(8) Information entered for each IFQ crab delivery—(i) Contents. The User of the Registered Crab Receiver must enter the following information into the eLandings or other NMFS-approved software for each IFQ crab delivery:

(A) Permit numbers. RCR permit number and IFQ permit number, and IPQ permit number, as appropriate.

(B) Operation type. (1) If a shoreside processor or SFP, enter type of processing operation and port code from Table 14a or 14b to this part.

(2) If a catcher/processor, enter operation type from Table 14c to this part.

(C) Delivery information. As reported by IFQ permit holder.

(1) ADF&G vessel registration number of the delivering vessel.

(2) Date (mm/dd) fishing began.

(3) Date (mm/dd) of the IFQ crab landing.

(4) ADF&G fish ticket number (automatically supplied).

(5) ADF&G statistical area of harvest.

(6) Species code of catch from Table 2 to part 680.

(7) Delivery-condition codes of catch from Table 3a to this part.

(8) Number of crab retained and sold condition code, product type, size/grade, and sold pounds; and optionally, price per pound.

(9) Scale weight of deadloss (in pounds) and scale weight of crab retained for personal use (in pounds). Deadloss and personal use crab that an IPQ holder did not purchase will not be debited from the IPQ holder's account.

(ii) Signatures. For an IFQ crab delivery, the User of the RCR must sign the landing report (ADF&G fish ticket) and the IFQ receipt; when appropriate, the IFQ permit holder or hired master, must also sign the landing report and the IFQ receipt within 6 hours after all crab is offloaded from the vessel.

(iii) Submittal time limits. (A) Except as indicated in paragraph (e)(8)(iii)(B) of this section, the User of the RCR is required to submit a landing report described at paragraph (e)(8)(i) of this section within 6 hours after all crab is offloaded from the vessel.

(B) For IFQ crab harvested on a catcher/processor, the User of the RCR is required to sign and submit an IFQ crab landing report to NMFS by Tuesday noon after the end of each weekly reporting period in which IFQ crab was harvested.

(9) Information entered for IFQ crab custom processing landings. In addition to the information required in paragraph (e)(8) of this section, if custom processing IFQ crab, the User of the RCR must enter the ADF&G processor code of the person for which the IFQ crab was custom processed.

(10) Shoreside processor or SFP information entered for eLandings production report—(i) Contents. eLandings autofills the following fields when creating an eLandings production report: FPP number, company name, ADF&G processor code, User name, email address, and telephone number. In addition, the User of the shoreside processor or SFP must enter the following information:

(A) Date. Reporting date (mm/dd).

(B) Manager name and signature. Printed name and signature of the manager; and

(C) No production. Indicate if no production occurred.

(D) Product information. The User must enter the following information if production occurred:

(1) Whether harvested in GOA or BSAI.

(2) Product by species code, product type, and product code; and

(3) Product weight in pounds.

(ii) Submittal time limits. The User of a shoreside processor or SFP must daily submit an eLandings production report when checked-in pursuant to paragraph (h)(2) of this section by noon each day to record the previous day's production information.

(11) Catcher/processor or mothership information entered for eLandings production report—(i) Contents. eLandings autofills the following fields when creating an eLandings production report: FFP number, company name, ADF&G processor code, User name, email address, telephone number, and week-ending date. In addition, the User of the catcher/processor or mothership must enter the following information:

(A) Date. Reporting date (mm/dd).

(B) Crew size (including operator).

(C) Operator name and signature. Operator printed name and signature.

(D) No production. Indicate if no production occurred.

(E) Area. Federal reporting area where harvest occurred.

(F) Product information. The User must enter the following information if production occurred:

(1) Product by species code, product type, and product code; and

(2) Product weight in metric tons.

(G) Gear type of harvester.

(H) ADF&G fish ticket number. If a mothership, ADF&G fish ticket number issued to catcher vessel at delivery.

(ii) Submittal time limits (This paragraph (e)(11)(ii) is effective until January 1, 2008). (A) The User of a mothership must submit daily an eLandings production report when checked-in pursuant to paragraph (h)(2) of this section by noon each day to record the previous day's production information.

(B) The User of a catcher/processor must submit weekly an eLandings production report when checked-in pursuant to paragraph (h)(2) of this section by 1200 hours, A.l.t. on Tuesday following the end of the applicable weekly reporting period and for the last week of each calendar year (if still checked-in), when it ends at 2400 hours, A.l.t. December 31).

(12) eLandings printed reports. The User daily must print onsite through eLandings each landing report (ADF&G fish ticket), eLandings production report, and if an IFQ delivery, each IFQ receipt or IFQ manual landing report.

(i) The User of the shoreside processor or SFP and the catcher vessel operator or buying station operator or manager must acknowledge the accuracy of the printed groundfish landing report by signing and dating it as indicated in paragraphs (e)(5)(ii) and (iii) of this section. The User of the shoreside processor or SFP must print each eLandings production report as indicated in paragraph (e)(10) of this section.

(ii) The User of the mothership and the catcher vessel operator or buying station operator must acknowledge the accuracy of the printed groundfish landing report by signing and dating it as indicated in paragraphs (e)(6)(ii) and (iii) of this section. The User of the mothership must print each eLandings production report as indicated in paragraph (e)(11) of this section.

(iii) The User of the catcher/processor must acknowledge the accuracy of the printed groundfish landing report by signing and dating it as indicated in paragraphs (e)(6)(ii) and (iii) of this section. The User of the catcher/processor must print each eLandings production as indicated in paragraph (e)(11) of this section.

(iv) The User of the Registered Buyer and the IFQ cardholder or CDQ cardholder must acknowledge the accuracy of the printed IFQ halibut, CDQ halibut, or IFQ sablefish landing report (ADF&G fish ticket), IFQ receipt, and if necessary, IFQ manual landing report, by signing and dating it as indicated in paragraphs (e)(7)(ii) and (iii) of this section.

(v) The User of the Registered Crab Receiver and the IFQ permit holder or hired master must acknowledge the accuracy of the printed IFQ crab landing report, IFQ receipt, and, if necessary, IFQ manual landing report, by signing and dating it as indicated in paragraphs (e)(8)(ii) and (iii) of this section.

(13) Retention of eLandings printed reports. The User must retain the printed copies as indicated at paragraph (a)(5) of this section. The User must make available the printed copies upon request of NMFS observers and authorized officers.

(f) Electronic logbooks (ELBs). An ELB may be used in place of a DFL or DCPL, described in paragraph (c) of this section. To satisfy ELB use requirements, the operator after data entry must routinely create three products: an ELB logsheet, an ELB discard report, and an ELB data export.

(1) Responsibility. The operator must notify the Regional Administrator by fax at 907-586-7465 to ensure that NMFS knows that the operator is using a NMFS-approved ELB instead of a DFL or DCPL, prior to participating in any Federal fishery.

(i) Catcher vessel longline and pot gear ELB. The operator of a catcher vessel using longline and pot gear may use a NMFS-approved catcher vessel longline or pot gear ELB in lieu of using the NMFS-prescribed catcher vessel longline or pot gear DFL required at paragraph (c)(3) of this section.

(ii) Catcher/processor longline and pot gear ELB. The operator of a catcher/processor using longline and pot gear may use a NMFS-approved catcher/processor longline or pot gear ELB in lieu of using the NMFS-prescribed catcher/processor longline or pot gear DCPL required at paragraph (c)(3) of this section.

(iii) Catcher vessel trawl gear ELB. The operator of a catcher vessel using trawl gear may use a NMFS-approved catcher vessel trawl gear ELB in lieu of using the NMFS-prescribed catcher vessel trawl gear DFL required at paragraph (c)(4) of this section.

(iv) Catcher/processor trawl gear ELB. The operator of a catcher/processor using trawl gear may use a NMFS-approved catcher/processor trawl gear ELB in lieu of using the NMFS-prescribed catcher/processor trawl gear DCPL required at paragraph (c)(4) of this section.

(v) Mothership ELB. The operator of a mothership may use a NMFS-approved mothership ELB in lieu of using the NMFS-prescribed mothership DCPL required at paragraph (c)(6) of this section.

(vi) If using a NMFS-approved ELB, the operator is not required to quarterly submit logsheets to OLE.

(2) Requirements for using an ELB—(i) Use a NMFS-approved ELB. The operator must use only a NMFS-approved ELB. The Regional Administrator maintains a list of approved ELBs on the NMFS home page at http://www.fakr.noaa.gov (see also § 679.28(h) for approval of vendor software).

(ii) Keep a current copy of DFL or DCPL onboard. To ensure proper recording of the vessel's fishing activity in the event of problems with the ELB, the operator must keep a current copy of the appropriate DFL or DCPL onboard. In the event that electronic transmission isn't made or confirmed for the ELB, the operator must enter information into the paper DFL or DCPL in accordance with the regulations at paragraphs (c)(1) through (c)(4) of this section. The operator must transfer any information recorded in a DFL or DCPL to the ELB when transmission resumes function.

(iii) Enter all required information into the ELB—(A) Inactive. The operator must enter all required information, if inactive (see paragraph (c)(2) of this section).

(B) Active. The operator must enter all required information, if active (see paragraphs (c)(3) (c)(4), or (c)(6) of this section, as appropriate).

(1) Record the haul number or set number, time and date gear set, time and date gear hauled, begin and end position, CDQ group number (if applicable), and hail weight for each haul or set within 2 hours after completion of gear retrieval.

(2) Daily complete ELB data entry and printing of copies as indicated in paragraph (f)(3)(i) of this section.

(iv) Regularly backup ELB data. The operator must regularly backup ELB data to ensure that data are not lost in the event of hardware or software problems.

(v) Correct errors in ELB data. If after an ELB discard report and ELB logsheet are printed, an error is found in the data, the operator must make any necessary changes to the data, print a new copy of the ELB discard report and ELB logsheet, and export the revised file to NMFS. The operator must retain both the original and revised ELB reports.

(3) Printed copies. Upon completion of ELB data entry each day, the operator must print in the NMFS-specified format:

(i) ELB logsheet. (A) Print a copy of an ELB logsheet when a vessel is active, by noon each day to record the previous day's ELB information.

(B) Print one ELB logsheet to describe a continuous period of inactivity, when a vessel is inactive.

(C) Print a copy of the ELB logsheet for the observer's use if an observer is present, by noon each day to record the previous day's ELB information.

(ii) ELB discard report. (A) Print a copy of an ELB discard report upon completion of each fishing trip or each offload of fish.

(B) If an observer is present, print a copy of the ELB discard report for the observer's use upon completion of each fishing trip or each offload of fish.

(4) Signatures—(i) ELB logsheet. The operator daily must sign and date each printed ELB logsheet by noon each day to record the previous day's ELB information. The signature of the operator is verification of acceptance of the responsibility required in paragraph (a)(2) of this section.

(ii) ELB discard report. The operator daily must sign and date each printed ELB discard report upon completion of each fishing trip or each offload of fish. The signature of the operator is verification of acceptance of the responsibility required in paragraph (a)(2) of this section.

(5) Submittal time limits. (i) The operator of a catcher vessel using an ELB must upon delivery of catch submit the ELB discard report to the mothership, shoreside processor, or SFP.

(ii) The operator or manager of a buying station that receives groundfish catch from a catcher vessel using an ELB must upon delivery of catch submit the ELB discard report to the mothership, shoreside processor, or SFP and the ELB data export directly to the Regional Administrator or through the mothership, shoreside processor, or SFP.

(6) Retention. The operator must keep a signed copy of each ELB logsheet and each ELB discard report, filed in sequence for immediate access by authorized personnel as described at paragraph (a)(5) of this section.

(7) ELB data export. The operator must transmit an ELB data export to NMFS at the specified e-mail address within 24 hours of completing each fishing trip or offload, either by submitting the data export:

(i) Directly to NMFS as an email attachment; or

(ii) If a catcher vessel, directly to NMFS as an email attachment or to NMFS through a shoreside processor, SFP, or mothership who received his/her groundfish catch. Through a prior agreement with the catcher vessel, the operator of a mothership or the manager of a shoreside processor or SFP will forward the ELB data export to NMFS as an email attachment within 24 hours of completing receipt of the catcher vessel's catch.

(iii) Return receipt. (A) Upon receiving an ELB data export, NMFS will generate a dated return-receipt to confirm receipt of the ELB data. If errors exist in the data transmitted to NMFS, the receipt will identify the errors. If errors are identified, the operator must correct the errors and send a revised transmission to NMFS who will then confirm acceptance of the ELB data.

(B) The operator must retain the NMFS return receipt as described in paragraph (a)(5) of this section.

(C) If a return receipt from NMFS is not received within 24 hours, the operator of the catcher vessel, the operator of a catcher/processor, the operator of the mothership, or the manager of the shoreside processor or SFP forwarding the ELB data export for the operator of the catcher vessel, must contact NMFS by telephone at 907-586-7228 or fax at 907-586-7131 for instructions.

(g) Product transfer report (PTR)—(1) General requirements. Except as provided in paragraphs (g)(2)(i) through (v) of this section, the operator or manager must record on a PTR those species that are listed in Tables 2a and 2c to this part when those species are transferred out of the facility or off the vessel and may record species listed in Table 2d to this part.

* * * * *

(h) Check-in/check-out report—(1) Requirement. Except as described in paragraph (h)(2) of this section, the operator of a catcher/processor or mothership and manager of a shoreside processor or SFP must submit to NMFS a check-in report (BEGIN message) prior to becoming active and a check-out report (CEASE message) for every check-in report submitted. The check-in report and check-out report may be submitted by fax to 907-586-7131, or by e-mail to erreports.fakr@noaa.gov.

(2) Exception, two adjacent reporting areas. If on the same day a catcher/processor intends to fish in two adjacent reporting areas (an action which would require submittal of check-out reports and check-in reports multiple times a day when crossing back and forth across a reporting area boundary), and the two reporting areas have on that day and time an identical fishing status for every species, the operator must:

(i) Submit to NMFS a check-in report to the first area prior to entering the first reporting area, and

(ii) Submit to NMFS a check-in report to the second area prior to entering the second reporting area.

(iii) Remain within 10 nautical miles (18.5 km) of the boundary described in paragraph (h)(2)(i) of this section.

(iv) If the catcher/processor proceeds in the second reporting area beyond 10 nautical miles (18.5 km) of the boundary between the two areas, the operator must submit a check-out report from the first reporting area. The operator must submit a check-out report from the second area upon exiting that reporting area.

(3) Transit through reporting areas. The operator of a catcher/processor or mothership is not required to submit a check-in or check-out report if the vessel is transiting through a reporting area and is not fishing or receiving fish.

(4) Time limits and submittal. Except as indicated in paragraph (h)(2) of this section, the operator or manager must submit a check-in report and a check-out report according to the following table:

For... | If you are a... | Submit a BEGIN message within this time limit | Submit a CEASE message within this time limit
(i) Each reporting area, except 300, 400, 550, or 690 | (A) C/P using trawl gear | Before gear deployment. | Within 24 hours after departing a reporting area but prior to checking-in another reporting area.
| (B) C/P using longline or pot gear | Before gear deployment. May be checked in to more than one area simultaneously. | Upon completion of gear retrieval and within 24 hours after departing each reporting area.
| (C) MS | Before receiving groundfish, must check-in to reporting area(s) where groundfish were harvested. May be checked in to more than one area simultaneously. | Within 24 hours after receipt of fish is complete from that reporting area. If receipt of groundfish from a reporting area is expected to stop for at least one month during the fishing year and then start up again, may submit check-out report for that reporting area.
(ii) COBLZ or RKCSA | (A) C/P using trawl gear | Prior to fishing. Submit one check-in for the COBLZ or RKCSA and another check-in for the area outside the COBLZ or RKCSA. | Upon completion of gear retrieval for groundfish, submit a separate check-out for the COBLZ or RKCSA and another check-out for the area outside the COBLZ or RKCSA.
| (B) MS | Before receiving groundfish harvested with trawl gear that were harvested in the COBLZ or RKCSA, submit one check-in for the COBLZ or RKCSA and another check-in for the area outside the COBLZ or RKCSA. | Upon completion of groundfish receipt, submit a separate check-out for the COBLZ or RKCSA and another check-out for the area outside the COBLZ or RKCSA.
(iii) Gear Type | (A) C/P | If in the same reporting area but using more than one gear type, prior to fishing submit a separate check-in for each gear type. | Upon completion of gear retrieval for groundfish, submit a separate check-out for each gear type for which a check-in was submitted.
| (B) MS | If harvested in the same reporting area but using more than one gear type, prior to receiving groundfish submit a separate check-in for each gear type. | Upon completion of receipt of groundfish, submit a separate check-out for each gear type for which a check-in was submitted.
(iv) CDQ | (A) MS | Prior to receiving groundfish CDQ, if receiving groundfish under more than one CDQ number, use a separate check-in for each CDQ number. | Within 24 hours after receipt of groundfish CDQ has ceased for each CDQ number.
| (B) C/P | Prior to fishing, submit a separate check-in for each CDQ number. | Within 24 hours after groundfish CDQ fishing for each CDQ number has ceased.
(v) Exempted or Research Fishery | (A) C/P | Prior to fishing, submit a separate check-in for each type. | Upon completion of receipt of groundfish submit a separate check-out for each type for which a check-in was submitted.
| (B) MS | Prior to receiving groundfish, submit a separate check-in for each type. | Upon completion of receipt of groundfish submit a separate check-out for each type for which a check-in was submitted.
(vi) AIP | (A) C/P | Prior to AI pollock fishing. | Within 24 hours after completion of gear retrieval for AI pollock.
| (B) MS | Before receiving AI pollock. | Within 24 hours after receipt of AIP pollock has ceased.
(vii) Processor Type | C/P, MS | If a catcher/processor and functioning simultaneously as a mothership in the same reporting area, before functioning as either processor type. | Upon completion of simultaneous activity as both catcher/processor and mothership, a separate check-out, one for catcher/processor and one for mothership.
(viii) Change of fishing year | (A) C/P, MS | If continually active through the end of one fishing year and at the beginning of a second fishing year, submit a check-in for each reporting area to start the year on January 1. | If a check-out report was not previously submitted during a fishing year for a reporting area, submit a check-out report for each reporting area on December 31.
| (B) SS, SFP | If continually active through the end of one fishing year and at the beginning of a second fishing year, submit a check-in to start the year on January 1. | If a check-out report was not previously submitted during a fishing year, submit a check-out report on December 31.
(ix) Interruption of production | SS, SFP, MS | n/a | If receipt of groundfish is expected to stop for at least one month during the fishing year and then start up again, the manager or operator may choose to submit a check-out report.

(5) Required information. The operator of a catcher/processor or mothership and the manager of a shoreside processor or SFP must record the following information on a check-in report and a check-out report, as appropriate.

Required information | Check-in Report: MS | Check-in Report: C/P | Check-in Report: SS, SFP | Check-out Report: MS | Check-out Report: C/P | Check-out Report: SS, SFP
(i) Whether an original or revised report | X | X | X | X | X | X
(ii) Vessel name, ADF&G processor code, FFP number | X | X |  | X | X |
(iii) Processor name, ADF&G processor code, FPP number |  |  | X |  |  | X
(iv) Representative name, business telephone number, business fax number | X | X | X | X | X | X
(v) COMSAT number (if applicable) | X | X |  | X | X |
(vi) Management program name (see paragraph (a)(1)(iii) of this section) and identifying number (if any). If harvest is not under one of these management programs, leave blank. | X | X |  | X | X |
(vii) Processor type, gear type | X | X |  | X | X |
(viii) Date (mm/dd/yy) and time (A.l.t., military format) |  |  |  |  |  |
(A) When receipt of groundfish will begin | X |  |  |  |  |
(B) When gear deployment will begin |  | X |  |  |  |
(C) Date will begin to receive groundfish |  |  | X |  |  |
(D) When the last receipt of groundfish was completed |  |  |  | X |  |
(E) When the vessel departed the reporting area |  |  |  |  | X |
(F) Date ceased to receive or process groundfish |  |  |  |  |  | X
(ix) Position coordinates |  |  |  |  |  |
(A) Where groundfish receipt begins | X |  |  |  |  |
(B) Where receiving groundfish (if SFP): |  |  | X |  |  |
(C) Where gear is deployed |  | X |  |  |  |
(D) Where the last receipt of groundfish was completed |  |  |  | X |  |
(E) Where the vessel departed the reporting area |  |  |  |  | X |
(x) Reporting area code |  |  |  |  |  |
(A) Where gear deployment begins |  | X |  |  |  |
(B) Where groundfish harvest occurred | X |  |  |  |  |
(C) Where the last receipt of groundfish was completed |  |  |  | X |  |
(D) Where the vessel departed the reporting area |  |  |  |  | X |
(xi) Primary and secondary target species A change in intended target species within the same reporting area does not require a new BEGIN message. |  |  |  |  |  |
(A) Expected to be received the following week | X |  |  |  |  |
(B) Expected to be harvested the following week |  | X |  |  |  |
(xii) Indicate (YES or NO) whether this is a check-in report. |  |  | X |  |  |
(xiii) If YES, indicate |  |  |  |  |  |
(A) Checking in for the first time this fishing year |  |  | X |  |  |
(B) Checking in to restart receipt and processing of groundfish after filing a check-out report |  |  | X |  |  |
(xiv) Indicate (YES or NO) whether this is a check-out report. |  |  |  |  |  | X
(xv) If YES, indicate, indicate product weight of all fish or fish products (including non-groundfish) remaining at the facility (other than public cold storage) by species code and product code. Indicate if recorded in pounds or to the nearest 0.001 mt. |  |  | X |  |  | X

(i) Weekly production report (WPR)—(1) Responsibility—(i) Requirement. Except as indicated in paragraph (i)(1)(ii) of this section, the operator or manager must submit a WPR for any week the mothership, catcher/processor, shoreside processor, or SFP is checked-in pursuant to paragraph (h)(1) of this section.

(ii) Exemption. If using eLandings or other NMFS-approved software (see paragraph (e) of this section), the operator or manager is exempt from the requirements to submit a WPR.

(2) Time limit and submittal. The operator or manager must submit a separate WPR to the Regional Administrator by fax at 907-586-7131 or by email at erreports.fakr@noaa.gov by 1200 hours, A.l.t. on Tuesday following the end of the applicable weekly reporting period.

(3) Submit separate WPR. The operator or manager must submit a separate WPR containing the following information:

For... | If you are a... | Submit a separate WPR for...
(i) Federal reporting area | C/P, MS, SS, SFP | Each reporting area, except 300, 400, 550, and 690.
(ii) COBLZ or RKCSA | C/P, MS, SS, SFP | If groundfish are caught with trawl gear in the COBLZ or RKCSA, submit one WPR for fish harvested in the COBLZ or RKCSA and another WPR for fish harvested outside the COBLZ or RKCSA.
(iii) Gear Type | C/P, MS, SS, SFP | Each gear type of harvester if groundfish are caught in the same reporting area using more than one gear type.
(iv) Management program | C/P, MS, SS, SFP | If groundfish are caught under a special management program (see paragraph (a)(1)(iii) of this section), submit a separate WPR for each program and for each program number. If harvest is not under one of these management programs, leave blank.
(v) Processor Type | C/P, MS | If a vessel is operating simultaneously during a weekly reporting period as both a catcher/ processor and a mothership, the operator must submit two separate WPRs for that week, one for catcher/processor fishing activity and one for mothership fishing activity.
(vi) Change of fishing year | C/P, MS, SS, SFP | If continually active through the end of one fishing year and at the beginning of a second fishing year, the operator or manager must submit a WPR for each reporting area: (A) To complete the year at 2400 hours A.l.t., December 31, if still active regardless of where this date falls within the weekly reporting period. (B) To start the year on January 1, if still active regardless of where this date falls within the weekly reporting period.

(4) Required information. The operator of a catcher/processor or mothership and the manager of a shoreside processor or SFP must record the following information on a WPR:

Requirement | If you are a...: C/P | If you are a...: MS | If you are a...: SS, SFP
(i) Whether original or revised WPR | X | X | X
(ii) Week-ending date | X | X | X
(iii) Processor name, ADF&G processor code, FPP number |  |  | X
(iv) Processor name, ADF&G processor code, FFP number | X | X |
(v) Representative name, email address, telephone number, fax number, date (mm/dd/yy) WPR completed | X | X | X
(vi) Management program name (see paragraph (a)(1)(iii) of this section) and identifying number (if any). If harvest is not under one of these management programs, leave blank. | X | X | X
(vii) Reporting area of harvest | X | X | X
(viii) If groundfish are caught with trawl gear in the COBLZ or RKCSA, submit one report for fish harvested in the COBLZ or RKCSA and another report for fish harvested outside the COBLZ or RKCSA. | X | X | X
(ix) Gear type of harvester | X | X | X
(x) Processor type and crew size | X | X |
(xi) Groundfish landings weekly cumulative scale weights (to the nearest 0.001 mt) recorded by species codes, product codes, and product designations. If no landings occurred for a weekly reporting period, write “No landings” across the appropriate columns. |  |  | X
(xii) Discard or disposition weights (to the nearest 0.001 mt) or PSC numbers by species codes and product codes. If no discard or disposition occurred for a weekly reporting period, write “No discard or disposition” across the appropriate columns. | X | X | X
(xiii) Groundfish product weekly cumulative product weights by scale weight or fish product weight (to the nearest 0.001 mt) recorded by species codes, product codes, and product designations. If no production occurred for a weekly reporting period, write “No production” across the appropriate columns. | X | X | X
(xiv) BSAI or GOA management area |  |  | X
(xv) ADF&G fish ticket numbers issued to catcher vessels |  | X | X

* * * * *

(l) * * *

(1) * * *

(iv) Exemption—(A) Halibut. An IFQ landing of halibut of 500 lb or less of IFQ weight determined pursuant to § 679.42(c)(2) and concurrent with a legal landing of salmon harvested using hand troll gear or power troll gear is exempt from the PNOL required by this section.

(B) Lingcod. An IFQ landing of halibut of 500 lb or less of IFQ weight determined pursuant to § 679.42(c)(2) and concurrent with a legal landing of lingcod harvested using dinglebar gear is exempt from the PNOL required by this section.

(2) IFQ landing—(i) Remain at landing site. Once the landing has commenced, the IFQ cardholder or CDQ cardholder and the harvesting vessel may not leave the landing site until the IFQ halibut, IFQ sablefish, or CDQ halibut account is properly debited (see § 679.40(h)).

(ii) No movement. The offloaded IFQ halibut, CDQ halibut, or IFQ sablefish may not be moved from the landing site until the IFQ Landing Report is completed through eLandings or other NMFS-approved software and the IFQ cardholder's or CDQ cardholder's account is properly debited (see § 679.40(h)).

(iii) Single offload site—(A) IFQ halibut and CDQ halibut. The vessel operator who lands IFQ halibut or CDQ halibut must continuously and completely offload at a single offload site all halibut onboard the vessel.

(B) IFQ sablefish. The vessel operator who lands IFQ sablefish must continuously and completely offload at a single offload site all sablefish onboard the vessel.

* * * * *

5. In § 679.5, revised paragraphs (c)(1)(ii)(C), (c)(1)(iii)(C), and (e)(11)(ii) are further revised on January 1, 2008, to read as follows:

§ 679.5 Recordkeeping and reporting (R&R).

* * * * *

(c) * * *

(1) * * *

(ii) * * *

(C) eLandings (see paragraph (e) of this section). (1) The operator of a mothership that receives groundfish and that is issued an FFP under § 679.4 is required daily to use eLandings during the fishing year to report processor identification information, groundfish production data, and groundfish and prohibited species discard or disposition data in lieu of the mothership DCPL (see paragraph (c)(6) of this section) and WPR (see paragraph (i) of this section) during the time the mothership is checked-in (see paragraph (h) of this section). The operator is not required to complete the “Production” nor “Discard or Disposition” sections of the DCPL (see paragraph (c) of this section); enter “eLandings” in those sections of the DCPL. The operator must record the processor identification information and catcher vessel and buying station groundfish delivery information in the DCPL.

(2) The operator of a mothership must create, print, and sign a paper copy of each ADF&G fish ticket and retain that document per paragraph (a)(5) of this section. In addition, the operator must print and sign an additional copy of each ADF&G fish ticket and provide it to the operator of the catcher vessel delivering groundfish to the mothership by 1200 hours, A.l.t., on Tuesday following the end of applicable weekly reporting period.

(iii) * * *

(C) eLandings (see paragraph (e) of this section). The operator of a catcher/processor that harvests groundfish and that is issued an FFP under § 679.4 is required to use eLandings during the fishing year to report daily processor identification information, groundfish production data, and groundfish and prohibited species discard or disposition data in lieu of the catcher/processor WPR (see paragraph (i) of this section) during the time the catcher/processor is checked-in (see paragraph (h) of this section). The operator is not required to complete the “Production” nor “Discard or Disposition” sections of the DCPL (see paragraph (c) of this section); enter “eLandings” in those sections of the DCPL. The operator must record the processor identification information and catch-by-haul or catch-by-set information in the DCPL.

* * * * *

(e) * * *

(11) * * *

(ii) Submittal time limits. The User of a mothership or catcher/processor must submit daily an eLandings production report when checked-in pursuant to paragraph (h)(2) of this section by noon each day to record the previous day's production information.

* * * * *

6. In § 679.7, paragraph (a)(1)(iii) is added to read as follows:

§ 679.7 Prohibitions.

* * * * *

(a) * * *

(1) * * *

(iii) Conduct fishing operations from a vessel using other than the operation type(s) specified on the FFP (see § 679.4(b)) issued for that vessel.

* * * * *

7. In § 679.22, paragraph (b)(6) is removed and reserved, and paragraphs (b)(5)(i) and (b)(5)(ii) are revised to read as follows:

§ 679.22 Closures.

* * * * *

(b) * * *

(5) * * *

(i) No FFP holder may fish for groundfish in the Sitka Pinnacles Marine Reserve, and no vessel named on an FFP may be anchored in the Sitka Pinnacles Marine Reserve, as described in Figure 18 to this part.

(ii) No person fishing under an IFQ halibut permit may fish for halibut and no person fishing under an IFQ sablefish permit may fish for sablefish in the Sitka Pinnacles Marine Reserve; and no vessel with an IFQ permit holder or IFQ card holder onboard may be anchored in the Sitka Pinnacles Marine Reserve, as described in Figure 18 to this part.

* * * * *

8. In § 679.28:

A. Paragraphs (b)(2)(iii)(A) and (B) are removed.

B. Paragraph (b)(2)(v) is removed and reserved.

C. Paragraphs (f)(4)(iii) and (h) are added.

D. Paragraphs (a), (b)(2)(iii), (b)(2)(iv), (b)(2)(vi)(A), (f)(4)(i), (f)(4)(ii), and (f)(5) are revised.

The revisions and additions read as follows:

§ 679.28 Equipment and operational requirements.

(a) Applicability. This section contains the operational requirements for scales, observer sampling stations, bins for volumetric estimates, vessel monitoring system hardware, catch monitoring and control plan, and catcher vessel electronic logbook software.

(b) * * *

(2) * * *

(iii) Who may perform scale inspections and approvals? Scales must be inspected and approved by a NMFS-staff scale inspector or an inspector designated by NMFS and trained by a NMFS-staff scale inspector.

(iv) How does a vessel owner arrange for a scale inspection? The operator must submit a request for a scale inspection at least 10 working days in advance of the requested inspection by filing a request online or by printing and faxing the scale inspection request at http://www.fakr.noaa.gov/scales/default.htm.

* * * * *

(vi) * * *

(A) Make the vessel and scale available for inspection by the scale inspector.

* * * * *

(f) * * *

(4) * * *

(i) Register your VMS unit with an appropriate service provider;

(ii) Use VMS check-in report to contact OLE by fax at 907-586-7703 and provide the date (mm/dd/yy), vessel name, USCG documentation number, FFP number or Federal crab vessel permit number, name and telephone number of contact person, and VMS transmitter ID or serial number; and

(iii) Call OLE at 907-586-7225, Monday through Friday, between the hours of 0800 hours, A.l.t., and 1630 hours, A.l.t., at least 72 hours before leaving port and receive confirmation that the transmissions are being received.

(5) What must the vessel owner do when the vessel replaces a VMS transmitter? If you are a vessel owner who must use a VMS and you wish to replace a transmitter, you must follow the reporting and confirmation procedure for the replacement transmitter, as described in paragraph (f)(4) of this section.

* * * * *

(h) ELB software—(1) How do I get my ELB software approved by NMFS?—(i) Specifications. NMFS will provide specifications for ELB software upon request. Interested parties may contact NMFS by mail at NMFS Alaska Region, Sustainable Fisheries Division, Catch Accounting/Data Quality, P.O. Box 21668, Juneau, Alaska 99802-1668; by telephone at 907-586-7228, or by email at erreports.fakr@noaa.gov. The four types of ELB software are:

(A) Catcher vessel longline or pot gear (see § 679.5(c)(3));

(B) Catcher/processor longline or pot gear (see § 679.5(c)(3));

(C) Catcher vessel trawl gear (see § 679.5(c)(4)); and

(D) Catcher/processor trawl gear (see § 679.5(c)(4)).

(ii) ELB submittal package. A vendor or developer wishing to have an ELB approved by NMFS must submit:

(A) A fully operational test copy of the software; and

(B) An application for ELB-approval giving the following information:

(1) Company, contact person, address, telephone number, and fax number for the company developing the software;

(2) Name and type of software; and

(3) Printed name and signature of individual submitting the software for approval.

(C) Copies of all manuals and documentation for the software.

(iii) ELB approval. NMFS will approve ELB software within 15 working days of receipt of all required information if the software meets the following standards:

(A) Has fields for the entry of all information required for a paper DFL or DCPL as described in § 679.5(c)(3) and (c)(4), as appropriate.

(B) The software must automatically time and date stamp each printed copy of the ELB logsheet and ELB discard report and clearly identify the first printed copy as an original. If any changes are made to the data in the ELB, subsequent printed copies must clearly be identified as revised. The software must be designed to prevent the operator from overriding this feature.

(C) The software must export data as an ASCII comma delimited text file or other format approved by NMFS.

(D) The software must integrate with the vessel's global positioning system (GPS) to allow vessel location fields to be completed automatically.

(E) When the software is started, it must clearly show the software version number.

(F) The software must be designed to facilitate the transfer of an export file to NMFS as an email attachment.

(G) The software must be designed to ensure that an operator can comply with the requirements for ELB use as described in § 679.5(f).

(H) The software must include sufficient data validation capability to prevent a submitter from accidentally transmitting a data file or printing an ELB logsheet that is incomplete or contains clearly erroneous data.

(2) What if I need to make changes to NMFS-approved ELB software?—(i) NMFS-instigated changes. NMFS will provide the developer with information that affects the ELB software as soon as it is available for distribution, e.g., changes in species codes or product codes.

(ii) Developer-instigated changes. The developer must submit a copy of the changed software along with documentation describing the need for the change to NMFS for review and approval as described in paragraph (h)(1)(i) of this section. NMFS will review and approve the new version according to the guidelines set forth in paragraph (h)(1)(ii) of this section.

(iii) NMFS-approved ELB changes. If changes to ELB software are approved by NMFS, the developer must:

(A) Give the revised software a new version number;

(B) Notify all known ELB users of the software that a new version is available; and

(C) Ensure that the ELB users are provided with a revised copy within 15 days of notification.

9. In § 679.40, paragraph (c)(3) is revised and paragraph (h) is added to read as follows:

§ 679.40 Sablefish and halibut QS.

* * * * *

(c) * * *

(3) IFQ permit. The Regional Administrator shall issue to each QS holder, pursuant to § 679.4, an IFQ permit specifying the maximum amount of halibut and sablefish that may be harvested with fixed gear in a specified IFQ regulatory area and vessel category. Such IFQ permits will be mailed to each QS holder at the address on record for that person prior to the start of the IFQ fishing season.

* * * * *

(h) Properly debited landing—(1) Source of debit. NMFS shall use the following sources of information to debit a CDQ halibut, IFQ halibut, or IFQ sablefish account:

(i) Unprocessed landing. Except as provided in paragraph (h)(1)(ii) of this section, if offload of unprocessed IFQ halibut, CDQ halibut, or IFQ sablefish from a vessel, the scale weight (in pounds) of the halibut or sablefish product actually measured at the time of offload, as required by § 679.5(e)(8)(i)(K) to be included in the IFQ Landing Report.

(ii) Processed landing. If offload of processed IFQ halibut, CDQ halibut, or IFQ sablefish from a vessel, the scale weight (in pounds) of the halibut or sablefish processed product actually measured at or before the time of offload.

(2) Box or container markings. If the product scale weights are taken before the time of offload, then the species and actual product weight of each box or container must be visibly marked on the outside of each container to facilitate inspection by OLE or designees.

(3) Permit holder's account. Except as provided in paragraph (g) of this section, all IFQ halibut, CDQ halibut, and IFQ sablefish catch onboard a vessel must be weighed and debited from the IFQ permit holder's account or CDQ halibut permit holder's account under which the catch was harvested (see § 679.5(e)).

10. In § 679.42:

A. Paragraphs (c)(1)(iii), (c)(1)(iv), (c)(3), and (j)(6) are removed.

B. Paragraph (h)(4) is added.

C. Paragraphs (c)(2) and (h)(3) are revised.

D. Paragraph (j)(7) is redesignated as paragraph (j)(6).

The revisions and additions read as follows:

§ 679.42 Limitations on use of QS and IFQ.

* * * * *

(c) * * *

(2) A corporation, partnership, or other non-individual entity, except for a publicly held corporation, that receives an allocation of QS must provide annual updates to the Regional Administrator identifying all current shareholders, partners, or members to the individual person level and affirming the entity's continuing existence as a corporation or partnership, or other non-individual entity.

* * * * *

(h) * * *

(3) Excess. An IFQ permit holder who receives an approved IFQ allocation of halibut or sablefish in excess of these limitations may nevertheless catch and retain all of that IFQ with a single vessel. However, two or more IFQ permit holders may not catch and retain their IFQs with one vessel in excess of these limitations.

(4) Liability. Owners of vessels exceeding these limitations are jointly and severally liable with IFQ permit holders and IFQ cardholders whose harvesting causes the vessel to exceed these limitations.

* * * * *

11. In 679.50, paragraph (g)(1)(ix)(A) is revised to read as follows:

§ 679.50 Groundfish Observer Program (applicable through December 31, 2007).

* * * * *

(g) * * *

(1) * * *

(ix) * * *

(A) Ensure that transfers of observers at sea are carried out during daylight hours, under safe conditions, and with the agreement of observers involved.

* * * * *

§§ 679.1, 679.2, 679.4, 679.5, 679.20, 679.21, 679.22, 679.28, 679.42, and 679.61 [Amended]

12. At each of the locations shown in the Location column, remove the phrase indicated in the “Remove” column and replace it with the phrase indicated in the “Add” column for the number of times indicated in the “Frequency” column.

Location | Remove | Add | Frequency
§ 679.1 introductory text | under the Magnuson- Stevens Fishery Conservation and Management Act and the Northern Pacific Halibut Act | under the Magnuson-Stevens Fishery Conservation and Management Act, 16 U.S.C. 1801 et seq. (Magnuson-Stevens Act) and the Northern Pacific Halibut Act of 1982 (Halibut Act) | 1
§ 679.1(a)(2) | 5 AAC 28.110 | 5 AAC 28.111 | 1
§ 679.2 definition of “Authorized distributor” | food bank distributors | food bank distributors (see § 679.26, Prohibited Species Donation Program) | 1
§ 679.2 definition of “Authorized fishing gear” paragraph (14)(iii) | paragraph (10)(ix) | paragraph (14)(ix) | 1
§ 679.2 definition of “Authorized fishing gear” paragraphs (14)(iv) and (14)(v) | paragraph (10)(iii) | paragraph (14)(iii) | 1
§ 679.2 definition of “Basis species” | authorized to harvest | authorized to harvest (see Tables 10 and 11 to this part) | 1
§ 679.2 definition of “Catcher/processor” | Catcher/processor means | Catcher/processor (C/P) means | 1
§ 679.2 definition of “Catcher vessel” | Catcher vessel means | Catcher vessel (CV) means | 1
§ 679.2 definition of “Endorsement” paragraphs (1) and (2) | LLP permits | LLP licenses | 1
§ 679.2 definition of “Prohibited species” | regulated under this part | issued an FFP under § 679.4(b) | 1
§ 679.2 definition of “Stationary floating processor” | Stationary floating processor | Stationary floating processor (SFP) | 1
§ 679.2 definition of “Vessel operations category” | § 679.5(b)(3) | § 679.4(b)(3) | 1
§ 679.4(b)(5)(ii) and (f)(2)(ii) | owner; and the name | owner; and if applicable, the name | 1
§ 679.4(b)(5)(iii) | horsepower; whether this is a vessel of the United States; and whether this vessel will be used as a stationary floating processor | horsepower; and whether this is a vessel of the United States | 1
§ 679.4(d)(1)(i), (d)(2)(i), (d)(3)(i), (d)(3)(iv), and (e)(2) | suspended, or modified | suspended, surrendered under paragraph (a)(9) of this section, or modified | 1
§ 679.4(k) heading | Licenses for license limitation groundfish or crab species | Licenses for license limitation program (LLP) groundfish or crab species | 1
§ 679.4(k)(5)(iv) | Pacific time | Alaska local time | 1
§ 679.5(g)(1)(i) heading | Groundfish. | Groundfish and donated prohibited species. | 1
§ 679.5(n)(1)(i) | SPELR | eLandings | 1
§ 679.5(p)(2) | Alaska Department of Fish & Game, Division of Commercial Fisheries | ADF&G Division of Commercial Fisheries | 1
§ 679.5(r)(3) heading | SPELR | eLandings | 1
§ 679.5(r)(3) | SPELR | eLandings | 1
§ 679.20(e) heading | Maximum retainable amounts— | Maximum retainable amounts (MRA)— | 1
§ 679.20(g)(2)(iii) | § 679.5(a)(9) | § 679.5(a)(8)(v)(C) | 1
§ 679.21(a)(2) | motherships and shoreside processors | motherships, shoreside processors, and SFPs | 1
§ 679.21(e)(1)(ii) | (e)(1)(iii)(A) through (C) | (e)(1)(ii)(A) through (C) | 1
§ 679.21(e)(7)(vii) | during August | during the period August | 1
§ 679.22(b)(1)(iii) | open to any trawl other than a pelagic trawl gear year round | open unless otherwise closed to trawling | 1
§ 679.28(c)(3)(i) | § 679.5(a)(13) | § 679.5(c)(1)(iv) | 1
§ 679.42(j) introductory text | corporation or partnership | corporation, partnership, or other non-individual entity | 4
§ 679.61(d)(1) and (e)(1) | paragraph (c) | paragraph (d) | 1

13. Figure 3a to part 679 is revised to read as follows:

BILLING CODE 3510-22-S

14. Figure 5a to part 679 is revised to read as follows:

15. Figure 7 to part 679 is revised to read as follows:

16. Figure 12 to part 679 is revised to read as follows:

BILLING CODE 3510-22-C BILLING CODE 3510-22-C

17. Table 1 to part 679 is removed; Tables 1a, 1b, and 1c to part 679 are added; and Tables 2a and 2b to part 679 are revised to read as follows:

Table 1a to Part 679—Delivery Condition and Product Codes
Description | Code
GENERAL USE CODES
Belly flaps. Flesh in region of pelvic and pectoral fins and behind head (ancillary only). | 19
Bled only. Throat, or isthmus, slit to allow blood to drain. | 03
Bled fish destined for fish meal (includes offsite production). DO NOT RECORD ON PTR. | 42
Bones (if meal, report as 32) (ancillary only). | 39
Butterfly, no backbone. Head removed, belly slit, viscera and most of backbone removed; fillets attached. | 37
Cheeks. Muscles on sides of head (ancillary only). | 17
Chins. Lower jaw (mandible), muscles, and flesh (ancillary only). | 18
Fillets, deep-skin. Meat with skin, adjacent meat with silver lining, and ribs removed from sides of body behind head and in front of tail, resulting in thin fillets. | 24
Fillets, skinless/boneless. Meat with both skin and ribs removed, from sides of body behind head and in front of tail. | 23
Fillets with ribs, no skin. Meat with ribs with skin removed, from sides of body behind head and in front of tail. | 22
Fillets with skin and ribs. Meat and skin with ribs attached, from sides of body behind head and in front of tail. | 20
Fillets with skin, no ribs. Meat and skin with ribs removed, from sides of body behind head and in front of tail. | 21
Fish meal. Meal from whole fish or fish parts; includes bone meal. | 32
Fish oil. Rendered oil from whole fish or fish parts. Record only oil destined for sale and not oil stored or burned for fuel onboard. | 33
Gutted, head on. Belly slit and viscera removed. | 04
Gutted, head off. Belly slit and viscera removed. | 05
Head and gutted, with roe. | 06
Headed and gutted, Western cut. Head removed just in front of the collar bone, and viscera removed. | 07
Headed and gutted, Eastern cut. Head removed just behind the collar bone, and viscera removed. | 08
Headed and gutted, tail removed. Head removed usually in front of collar bone, and viscera and tail removed. | 10
Heads. Heads only, regardless where severed from body (ancillary only). | 16
Kirimi (Steak) Head removed either in front or behind the collar bone, viscera removed, and tail removed by cuts perpendicular to the spine, resulting in a steak. | 11
Mantles, octopus or squid. Flesh after removal of viscera and arms. | 36
Milt. (in sacs, or testes) (ancillary only). | 34
Minced. Ground flesh. | 31
Other retained product. If product is not listed on this table, enter code 97 and write a description and product recovery rate next to it in parentheses. | 97
Pectoral girdle. Collar bone and associated bones, cartilage and flesh. | 15
Roe. Eggs, either loose or in sacs, or skeins (ancillary only). | 14
Salted and split. Head removed, belly slit, viscera removed, fillets cut from head to tail but remaining attached near tail. Product salted. | 12
Stomachs. Includes all internal organs (ancillary only). | 35
Surimi. Paste from fish flesh and additives. | 30
Whole fish or shellfish/food fish. | 01¹
Wings. On skates, side fins are cut off next to body. | 13
SHELLFISH ONLY
Soft shell crab | 75
Bitter crab | 76
Sections | 80
Meat | 81
¹When using whole fish codes, record round weights not product weights, even if the whole fish is not used.

Table 1b to Part 679—Discard and Disposition Codes
Description | Code
Confiscation. | 63
Deadloss (crab only). | 79
Halibut retained for future sale (Halibut only). | 87
Overage (Specify overage type in comment). | 62
Tagged Fish (Exempt from IFQ). | 64
Whole fish/bait, not sold. Used as bait on board vessel. | 92¹
Whole fish/bait, sold. | 61
Whole fish/discard at sea. Whole groundfish and prohibited species discarded by catcher vessels, catcher/processors, motherships, or tenders. DO NOT RECORD ON PTR. | 98
Whole fish/discard, damaged. Whole fish damaged by observer's sampling procedures. | 93¹
Whole fish/discard, decomposed. Decomposed or previously discarded fish. | 89
Whole fish/discard, infested. Flea-infested fish, parasite-infested fish. | 88
Whole fish/discard, onshore. Discard after delivery and before processing by shoreside processors, stationary floating processors, and buying stations and in-plant discard of whole groundfish and prohibited species during processing. DO NOT RECORD ON PTR. | 99
Whole fish/donated prohibited species. Number of Pacific salmon or Pacific halibut, otherwise required to be discarded that is donated to charity under a NMFS-authorized program. | 86
Whole fish/fish meal. Whole fish destined for meal (includes offsite production.) DO NOT RECORD ON PTR. | 41¹
Whole fish/personal use, consumption. Fish or fish products eaten on board or taken off the vessel for personal use. Not sold or utilized as bait. | 95¹
Whole fish/sold, for human consumption. | 60
¹When using whole fish codes, record round weights not product weights, even if the whole fish is not used.

Table 1c to Part 679—Product Type Codes
Description | Code
Ancillary product. A product, such as meal, heads, internal organs, pectoral girdles, or any other product that may be made from the same fish as the primary product. | A
Primary product. A product, such as fillets, made from each fish, with the highest recovery rate. | P
Reprocessed or rehandled product. A product, such as meal, that results from processing a previously reported product or from rehandling a previously reported product. | R

Table 2a to Part 679—Species Codes: FMP Groundfish
Species Description | Code
Atka mackerel (greenling) | 193
Flatfish, miscellaneous (flatfish species without separate codes) | 120
FLOUNDER
Alaska plaice | 133
Arrowtooth and/or Kamchatka | 121
Starry | 129
Octopus, North Pacific | 870
Pacific cod | 110
Pollock | 270
ROCKFISH
Aurora (S. aurora) | 185
Black (BSAI) (S. melanops) | 142
Blackgill (S. melanostomus) | 177
Blue (BSAI) (S. mystinus) | 167
Bocaccio (S. paucispinis) | 137
Canary (S. pinniger) | 146
Chilipepper (S. goodei) | 178
China (S. nebulosus) | 149
Copper (S. caurinus) | 138
Darkblotched (S. crameri) | 159
Dusky (S. ciliatus) | 154
Greenstriped (S. elongatus) | 135
Harlequin (S. variegatus) | 176
Northern (S. polyspinis) | 136
Pacific ocean perch (S. alutus) | 141
Pygmy (S. wilsoni) | 179
Quillback (S. maliger) | 147
Redbanded (S. babcocki) | 153
Redstripe (S. proriger) | 158
Rosethorn (S. helvomaculatus) | 150
Rougheye (S. aleutianus) | 151
Sharpchin (S. zacentrus) | 166
Shortbelly (S. jordani) | 181
Shortraker (S. borealis) | 152
Silvergray (S. brevispinis) | 157
Splitnose (S. diploproa) | 182
Stripetail (S. saxicola) | 183
Thornyhead (all Sebastolobus species) | 143
Tiger (S. nigrocinctus) | 148
Vermilion (S. miniatus) | 184
Widow (S. entomelas) | 156
Yelloweye (S. ruberrimus) | 145
Yellowmouth (S. reedi) | 175
Yellowtail (S. flavidus) | 155
Sablefish (blackcod) | 710
Sculpins | 160
SHARKS
Other (if salmon, spiny dogfish or Pacific sleeper shark — use specific species code) | 689
Pacific sleeper | 692
Salmon | 690
Spiny dogfish | 691
SKATES
Big | 702
Longnose | 701
Other (If longnose or big skate — use specific species code) | 700
SOLE
Butter | 126
Dover | 124
English | 128
Flathead | 122
Petrale | 131
Rex | 125
Rock | 123
Sand | 132
Yellowfin | 127
Squid, majestic | 875
Turbot, Greenland | 134

Table 2b to Part 679—Species Codes: FMP Prohibited Species and CR Crab
Species Description | Code | CR Crab | Groundfish PSC
CRAB
Box | Lopholithodes mandtii | 900 | ✓ |
Dungeness | Cancer magister | 910 | ✓ |
King, blue | Paralithodes platypus | 922 | ✓ | ✓
King, golden (brown) | Lithodes aequispinus | 923 | ✓ | ✓
King, red | Paralithodes amtshaticus | 921 | ✓ | ✓
King, scarlet (deepsea) | Lithodes couesi | 924 | ✓ | ✓
Korean horsehair crab | Erimacrus isenbeckii | 940 | ✓ |
Multispinus crab | Paralomis multispinus | 951 | ✓ |
Tanner, Bairdi | Chionoecetes bairdi | 931 | ✓ | ✓
Tanner, grooved | Chionoecetes tanneri | 933 | ✓ | ✓
Tanner, snow | Chionoecetes opilio | 932 | ✓ | ✓
Tanner, triangle | Chionoecetes angulatus | 934 | ✓ | ✓
Verrilli crab | Paralomis verrilli | 953 | ✓ |
PACIFIC HALIBUT | Hippoglossus stenolepis | 200 |  | ✓
PACIFIC HERRING | family Clupeidae | 235 |  | ✓
SALMON
Chinook (king) | Oncorhynchus tshawytscha | 410 |  | ✓
Chum (dog) | Oncorhynchus keta | 450 |  | ✓
Coho (silver) | Oncorhynchus kisutch | 430 |  | ✓
Pink (humpback) | Oncorhynchus gorbuscha | 440 |  | ✓
Sockeye (red) | Oncorhynchus nerka | 420 |  | ✓
STEELHEAD TROUT | Oncorhynchus mykiss | 540 |  | ✓

18. Table 2d to part 679 is revised to read as follows:

Table 2d to Part 679—Species Codes: Non-FMP Species
Species Description | Code
GENERAL USE
Arctic char (anadromous) | 521
Bering flounder (Hippoglossoides robustus) | 116
Dolly varden (anadromous) | 531
Eels or eel-like fish | 210
Eel, wolf | 217
GREENLING
Kelp | 194
Rock | 191
Whitespot | 192
Grenadier, giant | 214
Grenadier (rattail) | 213
Jellyfish (unspecified) | 625
Lamprey, Pacific | 600
Lingcod | 130
Lumpsucker | 216
Pacific flatnose | 260
Pacific hagfish | 212
Pacific hake | 112
Pacific lamprey | 600
Pacific saury | 220
Pacific tomcod | 250
Poacher (family Agonidae) | 219
Prowfish | 215
Ratfish | 714
Rockfish, black (GOA) | 142
Rockfish, blue (GOA) | 167
Sardine, Pacific (pilchard) | 170
Sea cucumber, red | 895
Shad | 180
Skilfish | 715
Snailfish, general (genus liparis careproctus) | 218
Sturgeon, general | 680
Wrymouths | 211
SHELLFISH
Abalone, northern (pinto) | 860
CLAMS
Arctic surf | 812
Cockle | 820
Eastern softshell | 842
Pacific geoduck | 815
Pacific littleneck | 840
Pacific razor | 830
Washington butter | 810
Coral | 899
Mussel, blue | 855
Oyster, Pacific | 880
Scallop, weathervane | 850
Scallop, pink (or calico) | 851
SHRIMP
Coonstripe | 964
Humpy | 963
Northern (pink) | 961
Sidestripe | 962
Spot | 965
Snails | 890
Urchin, green sea | 893
Urchin, red sea | 892

19. Table 4 to part 679 is revised to read as follows:

Table 4 to Part 679—Steller Sea Lion Protection Areas Pollock Fisheries Restrictions

Table 4 to Part 679—Steller Sea Lion Protection Areas Pollock Fisheries Restrictions
Column Number 1: Site Name | 2 | 3: Boundaries from: Latitude | 4: Boundaries from: Longitude | 5: Boundaries to¹: Latitude | 6: Boundaries to¹: Longitude | 7: Pollock No-fishing Zones for Trawl Gear²,⁸ (nm)
St. Lawrence I./S Punuk I. | Bering Sea | 63°04.00 N | 168°51.00 W |  |  | 20
St. Lawrence I./SW Cape | Bering Sea | 63°18.00 N | 171°26.00 W |  |  | 20
Hall I. | Bering Sea | 60°37.00 N | 173°00.00 W |  |  | 20
St. Paul I./Sea Lion Rock | Bering Sea | 57°06.00 N | 170°17.50 W |  |  | 3
St. Paul I./NE Pt. | Bering Sea | 57°15.00 N | 170°06.50 W |  |  | 3
Walrus I. (Pribilofs) | Bering Sea | 57°11.00 N | 169°56.00 W |  |  | 10
St. George I./Dalnoi Pt. | Bering Sea | 56°36.00 N | 169°46.00 W |  |  | 3
St. George I./S Rookery | Bering Sea | 56°33.50 N | 169°40.00 W |  |  | 3
Cape Newenham | Bering Sea | 58°39.00 N | 162°10.50 W |  |  | 20
Round (Walrus Islands) | Bering Sea | 58°36.00 N | 159°58.00 W |  |  | 20
Attu I./Cape Wrangell | Aleutian I. | 52°54.60 N | 172°27.90 E | 52°55.40 N | 172°27.20 E | 20
Agattu I./Gillon Pt. | Aleutian I. | 52°24.13 N | 173°21.31 E |  |  | 20
Attu I./Chirikof Pt. | Aleutian I. | 52°49.75 N | 173°26.00 E |  |  | 20
Agattu I./Cape Sabak | Aleutian I. | 52°22.50 N | 173°43.30 E | 52°21.80 N | 173°41.40 E | 20
Alaid I. | Aleutian I. | 52°46.50 N | 173°51.50 E | 52°45.00 N | 173°56.50 E | 20
Shemya I. | Aleutian I. | 52°44.00 N | 174°08.70 E |  |  | 20
Buldir I. | Aleutian I. | 52°20.25 N | 175°54.03 E | 52°20.38 N | 175°53.85 E | 20
Kiska I./Cape St. Stephen | Aleutian I. | 51°52.50 N | 177°12.70 E | 51°53.50 N | 177°12.00 E | 20
Kiska I./Sobaka & Vega | Aleutian I. | 51°49.50 N | 177°19.00 E | 51°48.50 N | 177°20.50 E | 20
Kiska I./Lief Cove | Aleutian I. | 51°57.16 N | 177°20.41 E | 51°57.24 N | 177°20.53 E | 20
Kiska I./Sirius Pt. | Aleutian I. | 52°08.50 N | 177°36.50 E |  |  | 20
Tanadak I. (Kiska) | Aleutian I. | 51°56.80 N | 177°46.80 E |  |  | 20
Segula I. | Aleutian I. | 51°59.90 N | 178°05.80 E | 52°03.06 N | 178°08.80 E | 20
Ayugadak Point | Aleutian I. | 51°45.36 N | 178°24.30 E |  |  | 20
Rat I./Krysi Pt. | Aleutian I. | 51°49.98 N | 178°12.35 E |  |  | 20
Little Sitkin I. | Aleutian I. | 51°59.30 N | 178°29.80 E |  |  | 20
Amchitka I./Column Rocks | Aleutian I. | 51°32.32 N | 178°49.28 E |  |  | 20
Amchitka I./East Cape | Aleutian I. | 51°22.26 N | 179°27.93 E | 51°22.00 N | 179°27.00 E | 20
Amchitka I./Cape Ivakin | Aleutian I. | 51°24.46 N | 179°24.21 E |  |  | 20
Semisopochnoi/Petrel Pt. | Aleutian I. | 52°01.40 N | 179°36.90 E | 52°01.50 N | 179°39.00 E | 20
Semisopochnoi I./Pochnoi Pt. | Aleutian I. | 51°57.30 N | 179°46.00 E |  |  | 20
Amatignak I. Nitrof Pt. | Aleutian I. | 51°13.00 N | 179°07.80 W |  |  | 20
Unalga & Dinkum Rocks | Aleutian I. | 51°33.67 N | 179°04.25 W | 51°35.09 N | 179°03.66 W | 20
Ulak I./Hasgox Pt. | Aleutian I. | 51°18.90 N | 178°58.90 W | 51°18.70 N | 178°59.60 W | 20
Kavalga I. | Aleutian I. | 51°34.50 N | 178°51.73 W | 51°34.50 N | 178°49.50 W | 20
Tag I. | Aleutian I. | 51°33.50 N | 178°34.50 W |  |  | 20
Ugidak I. | Aleutian I. | 51°34.95 N | 178°30.45 W |  |  | 20
Gramp Rock | Aleutian I. | 51°28.87 N | 178°20.58 W |  |  | 20
Tanaga I./Bumpy Pt. | Aleutian I. | 51°55.00 N | 177°58.50 W | 51°55.00 N | 177°57.10 W | 20
Bobrof I. | Aleutian I. | 51°54.00 N | 177°27.00 W |  |  | 20
Kanaga I./Ship Rock | Aleutian I. | 51°46.70 N | 177°20.72 W |  |  | 20
Kanaga I./North Cape | Aleutian I. | 51°56.50 N | 177°09.00 W |  |  | 20
Adak I. | Aleutian I. | 51°35.50 N | 176°57.10 W | 51°37.40 N | 176°59.60 W | 20
Little Tanaga Strait | Aleutian I. | 51°49.09 N | 176°13.90 W |  |  | 20
Great Sitkin I. | Aleutian I. | 52°06.00 N | 176°10.50 W | 52°06.60 N | 176°07.00 W | 20
Anagaksik I. | Aleutian I. | 51°50.86 N | 175°53.00 W |  |  | 20
Kasatochi I. | Aleutian I. | 52°11.11 N | 175°31.00 W |  |  | 20
Atka I./North Cape | Aleutian I. | 52°24.20 N | 174°17.80 W |  |  | 20
Amlia I./Sviech. Harbor¹¹ | Aleutian I. | 52°01.80 N | 173°23.90 W |  |  | 20
Sagigik I.¹¹ | Aleutian I. | 52°00.50 N | 173°09.30 W |  |  | 20
Amlia I./East¹¹ | Aleutian I. | 52°05.70 N | 172°59.00 W | 52°05.75 N | 172°57.50 W | 20
Tanadak I. (Amlia¹¹) | Aleutian I. | 52°04.20 N | 172°57.60 W |  |  | 20
Agligadak I.¹¹ | Aleutian I. | 52°06.09 N | 172°54.23 W |  |  | 20
Seguam I./Saddleridge Pt.¹¹ | Aleutian I. | 52°21.05 N | 172°34.40 W | 52°21.02 N | 172°33.60 W | 20
Seguam I./Finch Pt. | Aleutian I. | 52°23.40 N | 172°27.70 W | 52°23.25 N | 172°24.30 W | 20
Seguam I./South Side | Aleutian I. | 52°21.60 N | 172°19.30 W | 52°15.55 N | 172°31.22 W | 20
Amukta I. & Rocks | Aleutian I. | 52°27.25 N | 171°17.90 W |  |  | 20
Chagulak I. | Aleutian I. | 52°34.00 N | 171°10.50 W |  |  | 20
Yunaska I. | Aleutian I. | 52°41.40 N | 170°36.35 W |  |  | 20
Uliaga³ | Bering Sea | 53°04.00 N | 169°47.00 W | 53°05.00 N | 169°46.00 W | 20,10
Chuginadak | Gulf of Alaska | 52°46.70 N | 169°41.90 W |  |  | 20
Kagamil³ | Bering Sea | 53°02.10 N | 169°41.00 W |  |  | 20,10
Samalga | Gulf of Alaska | 52°46.00 N | 169°15.00 W |  |  | 20
Adugak I.³ | Bering Sea | 52°54.70 N | 169°10.50 W |  |  | 10
Umnak I./Cape Aslik³ | Bering Sea | 53°25.00 N | 168°24.50 W |  |  | BA
Ogchul I. | Gulf of Alaska | 52°59.71 N | 168°24.24 W |  |  | 20
Bogoslof I./Fire I.³ | Bering Sea | 53°55.69 N | 168°02.05 W |  |  | BA
Polivnoi Rock | Gulf of Alaska | 53°15.96 N | 167°57.99 W |  |  | 20
Emerald I. | Gulf of Alaska | 53°17.50 N | 167°51.50 W |  |  | 20
Unalaska/Cape Izigan | Gulf of Alaska | 53°13.64 N | 167°39.37 W |  |  | 20
Unalaska/Bishop Pt.⁹ | Bering Sea | 53°58.40 N | 166°57.50 W |  |  | 10
Akutan I./Reef-lava⁹ | Bering Sea | 54°08.10 N | 166°06.19 W | 54°09.10 N | 166°05.50 W | 10
Unalaska I./Cape Sedanka⁶ | Gulf of Alaska | 53°50.50 N | 166°05.00 W |  |  | 20
Old Man Rocks⁶ | Gulf of Alaska | 53°52.20 N | 166°04.90 W |  |  | 20
Akutan I./Cape Morgan⁶ | Gulf of Alaska | 54°03.39 N | 165°59.65 W | 54°03.70 N | 166°03.68 W | 20
Akun I./Billings Head⁹ | Bering Sea | 54°17.62 N | 165°32.06 W | 54°17.57 N | 165°31.71 W | 10
Rootok⁶ | Gulf of Alaska | 54°03.90 N | 165°31.90 W | 54°02.90 N | 165°29.50 W | 20
Tanginak I.⁶ | Gulf of Alaska | 54°12.00 N | 165°19.40 W |  |  | 20
Tigalda/Rocks NE⁶ | Gulf of Alaska | 54°09.60 N | 164°59.00 W | 54°09.12 N | 164°57.18 W | 20
Unimak/Cape Sarichef⁹ | Bering Sea | 54°34.30 N | 164°56.80 W |  |  | 10
Aiktak⁶ | Gulf of Alaska | 54°10.99 N | 164°51.15 W |  |  | 20
Ugamak I.⁶ | Gulf of Alaska | 54°13.50 N | 164°47.50 W | 54°12.80 N | 164°47.50 W | 20
Round (GOA)⁶ | Gulf of Alaska | 54°12.05 N | 164°46.60 W |  |  | 20
Sea Lion Rock (Amak)⁹ | Bering Sea | 55°27.82 N | 163°12.10 W |  |  | 10
Amak I. And rocks⁹ | Bering Sea | 55°24.20 N | 163°09.60 W | 55°26.15 N | 163°08.50 W | 10
Bird I. | Gulf of Alaska | 54°40.00 N | 163°17.2 W |  |  | 10
Caton I. | Gulf of Alaska | 54°22.70 N | 162°21.30 W |  |  | 3
South Rocks | Gulf of Alaska | 54°18.14 N | 162°41.3 W |  |  | 10
Clubbing Rocks (S) | Gulf of Alaska | 54°41.98 N | 162°26.7 W |  |  | 10
Clubbing Rocks (N) | Gulf of Alaska | 54°42.75 N | 162°26.7 W |  |  | 10
Pinnacle Rock | Gulf of Alaska | 54°46.06 N | 161°45.85 W |  |  | 3
Sushilnoi Rocks | Gulf of Alaska | 54°49.30 N | 161°42.73 W |  |  | 10
Olga Rocks | Gulf of Alaska | 55°00.45 N | 161°29.81 W | 54°59.09 N | 161°30.89 W | 10
Jude I. | Gulf of Alaska | 55°15.75 N | 161°06.27 W |  |  | 20
Sea Lion Rocks (Shumagins) | Gulf of Alaska | 55°04.70 N | 160°31.04 W |  |  | 3
Nagai I./Mountain Pt. | Gulf of Alaska | 54°54.20 N | 160°15.40 W | 54°56.00 N | 160°15.00 W | 3
The Whaleback | Gulf of Alaska | 55°16.82 N | 160°05.04 W |  |  | 3
Chernabura I. | Gulf of Alaska | 54°45.18 N | 159°32.99 W | 54°45.87 N | 159°35.74 W | 20
Castle Rock | Gulf of Alaska | 55°16.47 N | 159°29.77 W |  |  | 3
Atkins I. | Gulf of Alaska | 55°03.20 N | 159°17.40 W |  |  | 20
Spitz I. | Gulf of Alaska | 55°46.60 N | 158°53.90 W |  |  | 3
Mitrofania | Gulf of Alaska | 55°50.20 N | 158°41.90 W |  |  | 3
Kak | Gulf of Alaska | 56°17.30 N | 157°50.10 W |  |  | 20
Lighthouse Rocks | Gulf of Alaska | 55°46.79 N | 157°24.89 W |  |  | 20
Sutwik I. | Gulf of Alaska | 56°31.05 N | 157°20.47 W | 56°32.00 N | 157°21.00 W | 20
Chowiet I. | Gulf of Alaska | 56°00.54 N | 156°41.42 W | 56°00.30 N | 156°41.60 W | 20
Nagai Rocks | Gulf of Alaska | 55°49.80 N | 155°47.50 W |  |  | 20
Chirikof I. | Gulf of Alaska | 55°46.50 N | 155°39.50 W | 55°46.44 N | 155°43.46 W | 20
Puale Bay¹² | Gulf of Alaska | 57°40.60 N | 155°23.10 W |  |  | 3,10
Kodiak/Cape Ikolik | Gulf of Alaska | 57°17.20 N | 154°47.50 W |  |  | 3
Takli I. | Gulf of Alaska | 58°01.75 N | 154°31.25 W |  |  | 10
Cape Kuliak | Gulf of Alaska | 58°08.00 N | 154°12.50 W |  |  | 10
Cape Gull | Gulf of Alaska | 58°11.50 N | 154°09.60 W | 58°12.50 N | 154°10.50 W | 10
Kodiak/Cape Ugat | Gulf of Alaska | 57°52.41 N | 153°50.97 W |  |  | 10
Sitkinak/Cape Sitkinak | Gulf of Alaska | 56°34.30 N | 153°50.96 W |  |  | 10
Shakun Rock | Gulf of Alaska | 58°32.80 N | 153°41.50 W |  |  | 10
Twoheaded I. | Gulf of Alaska | 56°54.50 N | 153°32.75 W | 56°53.90 N | 153°33.74 W | 10
Cape Douglas (Shaw I.)¹² | Gulf of Alaska | 59°00.00 N | 153°22.50 W |  |  | 20,10
Kodiak/Cape Barnabas | Gulf of Alaska | 57°10.20 N | 152°53.05 W |  |  | 3
Kodiak/Gull Point⁴ | Gulf of Alaska | 57°21.45 N | 152°36.30 W |  |  | 10,3
Latax Rocks | Gulf of Alaska | 58°40.10 N | 152°31.30 W |  |  | 10
Ushagat I./SW | Gulf of Alaska | 58°54.75 N | 152°22.20 W |  |  | 10
Ugak I.⁴ | Gulf of Alaska | 57°23.60 N | 152°17.50 W | 57°21.90 N | 152°17.40 W | 10,3
Sea Otter I. | Gulf of Alaska | 58°31.15 N | 152°13.30 W |  |  | 10
Long I. | Gulf of Alaska | 57°46.82 N | 152°12.90 W |  |  | 10
Sud I. | Gulf of Alaska | 58°54.00 N | 152°12.50 W |  |  | 10
Kodiak/Cape Chiniak | Gulf of Alaska | 57°37.90 N | 152°08.25 W |  |  | 10
Sugarloaf I. | Gulf of Alaska | 58°53.25 N | 152°02.40 W |  |  | 20
Sea Lion Rocks (Marmot) | Gulf of Alaska | 58°20.53 N | 151°48.83 W |  |  | 10
Marmot I.⁵ | Gulf of Alaska | 58°13.65 N | 151°47.75 W | 58°09.90 N | 151°52.06 W | 15,20
Nagahut Rocks | Gulf of Alaska | 59°06.00 N | 151°46.30 W |  |  | 10
Perl | Gulf of Alaska | 59°05.75 N | 151°39.75 W |  |  | 10
Gore Point | Gulf of Alaska | 59°12.00 N | 150°58.00 W |  |  | 10
Outer (Pye) I. | Gulf of Alaska | 59°20.50 N | 150°23.00 W | 59°21.00 N | 150°24.50 W | 20
Steep Point | Gulf of Alaska | 59°29.05 N | 150°15.40 W |  |  | 10
Seal Rocks (Kenai) | Gulf of Alaska | 59°31.20 N | 149°37.50 W |  |  | 10
Chiswell Islands | Gulf of Alaska | 59°36.00 N | 149°34.00 W |  |  | 10
Rugged Island | Gulf of Alaska | 59°50.00 N | 149°23.10 W | 59°51.00 N | 149°24.70 W | 10
Point Elrington⁷, ¹⁰ | Gulf of Alaska | 59°56.00 N | 148°15.20 W |  |  | 20
Perry I.⁷ | Gulf of Alaska | 60°44.00 N | 147°54.60 W
The Needle⁷ | Gulf of Alaska | 60°06.64 N | 147°36.17 W
Point Eleanor⁷ | Gulf of Alaska | 60°35.00 N | 147°34.00 W
Wooded I. (Fish I.) | Gulf of Alaska | 59°52.90 N | 147°20.65 W |  |  | 20
Glacier Island⁷ | Gulf of Alaska | 60°51.30 N | 147°14.50 W
Seal Rocks (Cordova)¹⁰ | Gulf of Alaska | 60°09.78 N | 146°50.30 W |  |  | 20
Cape Hinchinbrook¹⁰ | Gulf of Alaska | 60°14.00 N | 146°38.50 W |  |  | 20
Middleton I. | Gulf of Alaska | 59°28.30 N | 146°18.80 W |  |  | 10
Hook Point¹⁰ | Gulf of Alaska | 60°20.00 N | 146°15.60 W |  |  | 20
Cape St. Elias | Gulf of Alaska | 59°47.50 N | 144°36.20 W |  |  | 20
¹Where two sets of coordinates are given, the baseline extends in a clock-wise direction from the first set of geographic coordinates along the shoreline at mean lower-low water to the second set of coordinates. Where only one set of coordinates is listed, that location is the base point.
²Closures as stated in § 679.22(a)(7)(iv), (a)(8)(ii) and (b)(2)(ii).
³This site lies within the Bogoslof area (BA). The BA consists of all waters of area 518 as described in Figure 1 of this part south of a straight line connecting 55°00′ N / 170°00′ W, and 55°00′ N / 168°11′4.75″ W. Closure to directed fishing for pollock around Uliaga and Kagamil is 20 nm for waters west of 170° W long. and 10 nm for waters east of 170° W long.
⁴The trawl closure between 0 nm to 10 nm is effective from January 20 through May 31. Trawl closure between 0 nm to 3 nm is effective from August 25 through November 1.
⁵Trawl closure between 0 nm to 15 nm is effective from January 20 through May 31. Trawl closure between 0 nm to 20 nm is effective from August 25 to November 1.
⁶Restriction area includes only waters of the Gulf of Alaska Area.
⁷Contact the Alaska Department of Fish and Game for fishery restrictions at these sites.
⁸No-fishing zones are the waters between 0 nm and the nm specified in column 7 of this table around each site and within the BA.
⁹This site is located in the Bering Sea Pollock Restriction Area, closed to pollock trawling during the A season. This area consists of all waters of the Bering Sea subarea south of a line connecting the points
163°00′00″ W long. / 55°46′30″ N lat.,
165°08′00″ W long. / 54°42′9″ N lat.,
165°40′00″ W long. / 54°26′30″ N lat.,
166°12′00″ W long. / 54°18′40″ N lat., and
167°00′00″ W long. / 54°8′50″ N lat.
¹⁰The 20 nm closure around this site is effective in federal waters outside of State of Alaska waters of Prince William Sound.
¹¹Some or all of the restricted area is located in the Seguam Foraging area (SFA) which is closed to all gears types. The SFA is established as all waters within the area between 52° N lat. and 53° N lat. and between 173°30′ W long. and 172°30′ W long.
¹²The 3 nm trawl closure around Puale Bay and the 20 nm trawl closure around Cape Douglas/Shaw I. are effective January 20 through May 31. The 10 nm trawl closure around Puale Bay and the 10 nm trawl closure around Cape Douglas/Shaw I. are effective August 25 through November 1.

20. Tables 9, 10, 11, and 12 to part 679 are revised to read as follows:

Table 9 to Part 679—Required Documentation and Monitoring Systems from Participants in the Federal Groundfish Fisheries
Requirement Name | Catcher Vessel¹ | Catcher/ Processor¹ | Mothership | Shoreside Processor & SFP | Buying Station
Buying Station Report (BSR) | NO | NO | NO | NO | YES
Catch monitoring and weighing documentation² | NO | YES | YES | YES | NO
Check-in/Check-out Report | NO | YES | YES | YES | NO
Optional: Electronic Check-in/out report | NO | YES | YES | YES | NO
Daily Fishing Logbook (DFL) | YES | NO | NO | NO | NO
Daily Cumulative Production Logbook (DCPL) | NO | YES | YES | YES | NO
eLandings instead of DCPL and WPR³ | NO | NO | NO | YES | NO
Optional: eLandings instead of DCPL and WPR | NO | YES | YES | YES | NO
Optional: Electronic logbook instead of DFL or DCPL | YES | YES | YES | NO | NO
Product Transfer Report (PTR) | NO | YES | YES | YES | NO
Vessel Activity Report (VAR) | YES | YES | YES | NO | NO
Vessel Monitoring System (VMS)⁴ | YES | YES | NO | NO | NO
Video Monitoring System (Rockfish Program only) | NO | YES | NO | NO | NO
Weekly Production Report (WPR) | NO | YES | YES | YES | NO
Optional: Electronic WPR | NO | YES | YES | YES | NO
¹Two formats each of the catcher vessel DFL and catcher/processor DCPL exist: one for trawl gear at § 679.5(c)(2) and one for longline and pot gear at § 679.5(c)(3).
²At-sea scales required for AFA, CDQ, and Rockfish Program including daily scale test, printed scale output, request for inspection of scales and observer station, scale approval sticker at § 679.28.
³Required for AFA and Rockfish Program, see § 679.5(e).
⁴Use of VMS is required for:
All federally permitted vessels operating in the Aleutian Islands subarea, see § 679.7(a)(21) and § 679.28(f)(6)(i).
All federally permitted vessels operating in the GOA with bottom contact gear on board, see §§679.7(a)(22) and 679.28(f)(6)(iii).
Any vessel in any reporting area (see definitions at § 679.2) off Alaska while any fishery requiring VMS, for which the vessel has a species and gear endorsement on its Federal fisheries permit under § 679.4(b)(5)(vi), is open [Atka mackerel, pollock, Pacific cod], see §679.4(b)(5)(vi) and §679.28(f)(6)(i).

Table 10 to Part 679—Gulf of Alaska Retainable Percentages
BASIS SPECIES | INCIDENTAL CATCH SPECIES (for DSR caught on catcher vessels in the SEO, see § 679.20(j)⁶)
Code | Species | Pollock | Pacific cod | DW flat⁽²⁾ | Rex sole | Flat- head sole | SW Flat⁽³⁾ | Arrow- tooth | Sable- fish | Aggre- gated rock- fish⁽⁸⁾ | SR/RE ERA⁽¹⁾ | DSR SEO (C/Ps only)⁽⁶⁾ | Atka mack- erel | Aggre- gated forage fish⁽¹⁰⁾ | Skates⁽¹¹⁾ | Other species⁽⁷⁾
110 | Pacific cod | 20 | na⁽⁹⁾ | 20 | 20 | 20 | 20 | 35 | 1 | 5 | ⁽¹⁾ | 10 | 20 | 2 | 20 | 20
121 | Arrowtooth | 5 | 5 | 0 | 0 | 0 | 0 | na⁽⁹⁾ | 0 | 0 | 0 | 0 | 0 | 2 | 0 | 20
122 | Flathead sole | 20 | 20 | 20 | 20 | na⁽⁹⁾ | 20 | 35 | 7 | 15 | 7 | 1 | 20 | 2 | 20 | 20
125 | Rex sole | 20 | 20 | 20 | na⁽⁹⁾ | 20 | 20 | 35 | 7 | 15 | 7 | 1 | 20 | 2 | 20 | 20
136 | Northern rockfish | 20 | 20 | 20 | 20 | 20 | 20 | 35 | 7 | 15 | 7 | 1 | 20 | 2 | 20 | 20
141 | Pacific ocean perch | 20 | 20 | 20 | 20 | 20 | 20 | 35 | 7 | 15 | 7 | 1 | 20 | 2 | 20 | 20
143 | Thornyhead | 20 | 20 | 20 | 20 | 20 | 20 | 35 | 7 | 15 | 7 | 1 | 20 | 2 | 20 | 20
152/ 151 | Shortraker/ rougheye⁽¹⁾ | 20 | 20 | 20 | 20 | 20 | 20 | 35 | 7 | 15 | na⁽⁹⁾ | 1 | 20 | 2 | 20 | 20
193 | Atka mackerel | 20 | 20 | 20 | 20 | 20 | 20 | 35 | 1 | 5 | ⁽¹⁾ | 10 | na⁽⁹⁾ | 2 | 20 | 20
270 | Pollock | na⁽⁹⁾ | 20 | 20 | 20 | 20 | 20 | 35 | 1 | 5 | ⁽¹⁾ | 10 | 20 | 2 | 20 | 20
710 | Sablefish | 20 | 20 | 20 | 20 | 20 | 20 | 35 | na⁽⁹⁾ | 15 | 7 | 1 | 20 | 2 | 20 | 20
Flatfish, deep water⁽²⁾ | 20 | 20 | na⁽⁹⁾ | 20 | 20 | 20 | 35 | 7 | 15 | 7 | 1 | 20 | 2 | 20 | 20
Flatfish, shallow water⁽³⁾ | 20 | 20 | 20 | 20 | 20 | na⁽⁹⁾ | 35 | 1 | 5 | ⁽¹⁾ | 10 | 20 | 2 | 20 | 20
Rockfish, other⁽⁴⁾ | 20 | 20 | 20 | 20 | 20 | 20 | 35 | 7 | 15 | 7 | 1 | 20 | 2 | 20 | 20
Rockfish, pelagic⁽⁵⁾ | 20 | 20 | 20 | 20 | 20 | 20 | 35 | 7 | 15 | 7 | 1 | 20 | 2 | 20 | 20
Rockfish, DSR-SEO⁽⁶⁾ | 20 | 20 | 20 | 20 | 20 | 20 | 35 | 7 | 15 | 7 | na⁽⁹⁾ | 20 | 2 | 20 | 20
Skates⁽¹¹⁾ | 20 | 20 | 20 | 20 | 20 | 20 | 35 | 1 | 5 | ⁽¹⁾ | 10 | 20 | 2 | na⁽⁹⁾ | 20
Other species⁽⁷⁾ | 20 | 20 | 20 | 20 | 20 | 20 | 35 | 1 | 5 | ⁽¹⁾ | 10 | 20 | 2 | 20 | na⁽⁹⁾
Aggregated amount of non-groundfish species⁽¹²⁾ | 20 | 20 | 20 | 20 | 20 | 20 | 35 | 1 | 5 | ⁽¹⁾ | 10 | 20 | 2 | 20 | 20
Footnotes
1 | Shortraker/rougheye rockfish
|  | SR/RE |  | Shortraker/rougheye rockfish (171)
|  |  |  | Shortraker rockfish (152)
|  |  |  | Rougheye rockfish (151)
|  | SR/RE ERA |  | Shortraker/rougheye rockfish in the Eastern Regulatory Area.
| Where numerical percentage is not indicated, the retainable percentage of SR/RE is included under Aggregated Rockfish
2 | Deep-water flatfish |  |  |  | Dover sole, Greenland turbot, and deep-sea sole
3 | Shallow water flatfish |  |  |  | Flatfish not including deep water flatfish, flathead sole, rex sole, or arrowtooth flounder
4 | Other rockfish |  |  |  | Western Regulatory Area |  |  |  | means slope rockfish and demersal shelf rockfish
|  |  |  |  | Central Regulatory Area |  |  |  |
|  |  |  |  | West Yakutat District |  |  |  |
|  |  |  |  | Southeast Outside District |  |  |  | means slope rockfish
|  |  |  |  | Slope rockfish
|  |  |  |  | S. aurora (aurora) |  |  |  | S. variegatus (harlequin) |  |  |  | S. brevispinis (silvergrey)
|  |  |  |  | S. melanostomus (blackgill) |  |  |  | S. wilsoni (pygmy) |  |  |  | S. diploproa (splitnose)
|  |  |  |  | S. paucispinis (bocaccio) |  |  |  | S. babcocki (redbanded) |  |  |  | S. saxicola (stripetail)
|  |  |  |  | S. goodei (chilipepper) |  |  |  | S. proriger (redstripe) |  |  |  | S. miniatus (vermilion)
|  |  |  |  | S. crameri (darkblotch) |  |  |  | S. zacentrus (sharpchin) |  |  |  | S. reedi (yellowmouth)
|  |  |  |  | S. elongatus (greenstriped) |  |  |  | S. jordani (shortbelly) |  |  |  |
|  |  |  |  | In the Eastern GOA only, Slope rockfish also includes S. polyspinous. (Northern)
5 | Pelagic shelf rockfish |  |  |  | S. ciliatus (dusky) |  |  |  | S. entomelas (widow) |  |  |  | S. flavidus (yellowtail)
6 | Demersal shelf rockfish (DSR) |  |  |  | S. pinniger (canary) |  |  |  | S. maliger (quillback) |  |  |  | S. ruberrimus (yelloweye)
|  |  |  |  | S. nebulosus (china) |  |  |  | S. helvomaculatus (rosethorn |  |  |  |
|  |  |  |  | S. caurinus (copper) |  |  |  | S. nigrocinctus (tiger) |  |  |  |
|  |  |  |  | DSR-SEO = Demersal shelf rockfish in the Southeast Outside District The operator of a catcher vessel that is required to have a Federal fisheries permit, or that harvests IFQ halibut with hook and line or jig gear, must retain and land all DSR that is caught while fishing for groundfish or IFQ halibut in the SEO. Limits on sale and requirements for disposal of DSR are set out at § 679.20(j).
7 | Other species |  |  |  | sculpins |  |  | octopus |  |  | Sharks |  |  | Squid
8 | Aggregated rockfish |  |  |  | Means rockfish of the genera Sebastes and Sebastolobus defined at § 679.2 except in:
|  |  |  |  | Southeast Outside District (SEO) |  |  |  | where DSR is a separate category for those species marked with a numerical percentage
|  |  |  |  | Eastern Regulatory Area (ERA) |  |  |  | where SR/RE is a separate category for those species marked with a numerical percentage
9 | N/A |  |  |  | not applicable
10 | Aggregated forage fish (all species of the following families)
|  |  |  |  | Bristlemouths, lightfishes, and anglemouths (family Gonostomatidae) |  |  |  |  |  |  |  |  |  | 209
|  |  |  |  | Capelin smelt (family Osmeridae) |  |  |  |  |  |  |  |  |  | 516
|  |  |  |  | Deep-sea smelts (family Bathylagidae) |  |  |  |  |  |  |  |  |  | 773
|  |  |  |  | Eulachon smelt (family Osmeridae) |  |  |  |  |  |  |  |  |  | 511
|  |  |  |  | Gunnels (family Pholidae) |  |  |  |  |  |  |  |  |  | 207
|  |  |  |  | Krill (order Euphausiacea) |  |  |  |  |  |  |  |  |  | 800
|  |  |  |  | Laternfishes (family Myctophidae) |  |  |  |  |  |  |  |  |  | 772
|  |  |  |  | Pacific herring (family Clupeidae) |  |  |  |  |  |  |  |  |  | 235
|  |  |  |  | Pacific Sand fish (family Trichodontidae) |  |  |  |  |  |  |  |  |  | 206
|  |  |  |  | Pacific Sand lance (family Ammodytidae) |  |  |  |  |  |  |  |  |  | 774
|  |  |  |  | Pricklebacks, war-bonnets, eelblennys, cockscombs and Shannys (family Stichaeidae) |  |  |  |  |  |  |  |  |  | 208
|  |  |  |  | Surf smelt (family Osmeridae) |  |  |  |  |  |  |  |  |  | 515
11 | Skates Species and Groups
|  |  |  |  | Big Skates |  |  |  |  |  |  |  |  |  | 702
|  |  |  |  | Longnose Skates |  |  |  |  |  |  |  |  |  | 701
|  |  |  |  | Other Skates |  |  |  |  |  |  |  |  |  | 700
12 | Aggregated non-groundfish |  |  |  | All legally retained species of fish and shellfish, including IFQ halibut, that are not listed as FMP groundfish in Tables 2a and 2c to this part.

Table 11 to Part 679—BSAI Retainable Percentages
BASIS SPECIES: Codes | BASIS SPECIES: Species | INCIDENTAL CATCH SPECIES⁵: Pollock | INCIDENTAL CATCH SPECIES⁵: Pacific cod | INCIDENTAL CATCH SPECIES⁵: Atka mackerel | INCIDENTAL CATCH SPECIES⁵: Alaska plaice | INCIDENTAL CATCH SPECIES⁵: Arrow- tooth | INCIDENTAL CATCH SPECIES⁵: Yellowfin sole | INCIDENTAL CATCH SPECIES⁵: Other flatfish² | INCIDENTAL CATCH SPECIES⁵: Rock sole | INCIDENTAL CATCH SPECIES⁵: Flathead sole | INCIDENTAL CATCH SPECIES⁵: Green- land turbot | INCIDENTAL CATCH SPECIES⁵: Sable- fish¹ | INCIDENTAL CATCH SPECIES⁵: Short- raker/ rough- eye | INCIDENTAL CATCH SPECIES⁵: Aggregated rockfish⁶ | INCIDENTAL CATCH SPECIES⁵: Squid | INCIDENTAL CATCH SPECIES⁵: Aggregated forage fish⁷ | INCIDENTAL CATCH SPECIES⁵: Other species⁴
110 | Pacific cod | 20 | na⁵ | 20 | 20 | 35 | 20 | 20 | 20 | 20 | 1 | 1 | 2 | 5 | 20 | 2 | 20
121 | Arrow- tooth | 0 | 0 | 0 | 0 | na⁵ | 0 | 0 | 0 | 0 | 0 | 0 | 0 | 0 | 0 | 2 | 0
122 | Flathead sole | 20 | 20 | 20 | 35 | 35 | 35 | 35 | 35 | na⁵ | 35 | 15 | 7 | 15 | 20 | 2 | 20
123 | Rock sole | 20 | 20 | 20 | 35 | 35 | 35 | 35 | na⁵ | 35 | 1 | 1 | 2 | 15 | 20 | 2 | 20
127 | Yellowfin sole | 20 | 20 | 20 | 35 | 35 | na⁵ | 35 | 35 | 35 | 1 | 1 | 2 | 5 | 20 | 2 | 20
133 | Alaska Plaice | 20 | 20 | 20 | na⁵ | 35 | 35 | 35 | 35 | 35 | 1 | 1 | 2 | 5 | 20 | 2 | 20
134 | Greenland turbot | 20 | 20 | 20 | 20 | 35 | 20 | 20 | 20 | 20 | na⁵ | 15 | 7 | 15 | 20 | 2 | 20
136 | Northern | 20 | 20 | 20 | 20 | 35 | 20 | 20 | 20 | 20 | 35 | 15 | 7 | 15 | 20 | 2 | 20
141 | Pacific Ocean perch | 20 | 20 | 20 | 20 | 35 | 20 | 20 | 20 | 20 | 35 | 15 | 7 | 15 | 20 | 2 | 20
152/ 151 | Short raker/ Rough eye | 20 | 20 | 20 | 20 | 35 | 20 | 20 | 20 | 20 | 35 | 15 | na⁵ | 5 | 20 | 2 | 20
193 | Atka mackerel | 20 | 20 | na⁵ | 20 | 35 | 20 | 20 | 20 | 20 | 1 | 1 | 2 | 5 | 20 | 2 | 20
270 | Pollock | na⁵ | 20 | 20 | 20 | 35 | 20 | 20 | 20 | 20 | 1 | 1 | 2 | 5 | 20 | 2 | 20
710 | Sablefish¹ | 20 | 20 | 20 | 20 | 35 | 20 | 20 | 20 | 20 | 35 | na⁵ | 7 | 15 | 20 | 2 | 20
875 | Squid | 20 | 20 | 20 | 20 | 35 | 20 | 20 | 20 | 20 | 1 | 1 | 2 | 5 | na⁵ | 2 | 20
Other flatfish² | 20 | 20 | 20 | 35 | 35 | 35 | na⁵ | 35 | 35 | 1 | 1 | 2 | 5 | 20 | 2 | 20
Other rockfish³ | 20 | 20 | 20 | 20 | 35 | 20 | 20 | 20 | 20 | 35 | 15 | 7 | 15 | 20 | 2 | 20
Other species⁴ | 20 | 20 | 20 | 20 | 35 | 20 | 20 | 20 | 20 | 1 | 1 | 2 | 5 | 20 | 2 | na⁵
Aggregated amount non-groundfish species⁸ | 20 | 20 | 20 | 20 | 35 | 20 | 20 | 20 | 20 | 1 | 1 | 2 | 5 | 20 | 2 | 20
¹Sablefish: for fixed gear restrictions, see § 679.7(f)(3)(ii) and (f)(11).
²Other flatfish includes all flatfish species, except for Pacific halibut (a prohibited species), flathead sole, Greenland turbot, rock sole, yellowfin sole, Alaska plaice, and arrowtooth flounder.
³Other rockfish includes all Sebastes and Sebastolobus species except for Pacific ocean perch; and northern, shortraker, and rougheye rockfish. The CDQ reserves for shortraker, rougheye, and northern rockfish will continue to be managed as the “other red rockfish” complex for the BS.
⁴Other species includes sculpins, sharks, skates and octopus. Forage fish, as defined at Table 2c to this part are not included in the “other species” category.
⁵na = not applicable
⁶Aggregated rockfish includes all of the genera Sebastes and Sebastolobus, except shortraker and rougheye rockfish.
⁷Forage fish are defined at Table 2c to this part.
⁸All legally retained species of fish and shellfish, including CDQ halibut and IFQ halibut that are not listed as FMP groundfish in Tables 2a and 2c to this part.

Table 12 to Part 679—Steller Sea Lion Protection Areas, 3nm No Groundfish Fishing Sites
Column Number 1: Site Name | 2: Area or Subarea | 3: Boundaries from: Latitude | 4: Boundaries from: Longitude | 5: Boundaries to¹: Latitude | 6: Boundaries to¹: Longitude | 7: No transit² 3 nm
Walrus I. (Pribilofs) | Bering Sea | 57°11.00 N | 169°56.00 W |  |  | Y
Attu I./Cape Wrangell | Aleutian I. | 52°54.60 N | 172°27.90 E | 52°55.40 N | 172°27.20 E | Y
Agattu I./Gillon Pt. | Aleutian I. | 52°24.13 N | 173°21.31 E |  |  | Y
Agattu I./Cape Sabak | Aleutian I. | 52°22.50 N | 173°43.30 E | 52°21.80 N | 173°41.40 E | Y
Buldir I. | Aleutian I. | 52°20.25 N | 175°54.03 E | 52°20.38 N | 175°53.85 E | Y
Kiska I./Cape St. Stephen | Aleutian I. | 51°52.50 N | 177°12.70 E | 51°53.50 N | 177°12.00 E | Y
Kiska I./Lief Cove | Aleutian I. | 51°57.16 N | 177°20.41 E | 51°57.24 N | 177°20.53 E | Y
Ayugadak Point | Aleutian I. | 51°45.36 N | 178°24.30 E |  |  | Y
Amchitka I./Column Rocks | Aleutian I. | 51°32.32 N | 178°49.28 E |  |  | Y
Amchitka I./East Cape | Aleutian I. | 51°22.26 N | 179°27.93 E | 51°22.00 N | 179°27.00 E | Y
Semisopochnoi/Petrel Pt. | Aleutian I. | 52°01.40 N | 179°36.90 E | 52°01.50 N | 179°39.00 E | Y
Semisopochnoi I./Pochnoi Pt. | Aleutian I. | 51°57.30 N | 179°46.00 E |  |  | Y
Ulak I./Hasgox Pt. | Aleutian I. | 51°18.90 N | 178°58.90 W | 51°18.70 N | 178°59.60 W | Y
Tag I. | Aleutian I. | 51°33.50 N | 178°34.50 W |  |  | Y
Gramp Rock | Aleutian I. | 51°28.87 N | 178°20.58 W |  |  | Y
Adak I. | Aleutian I. | 51°35.50 N | 176°57.10 W | 51°37.40 N | 176°59.60 W | Y
Kasatochi I. | Aleutian I. | 52°11.11 N | 175°31.00 W |  |  | Y
Agligadak I. | Aleutian I. | 52°06.09 N | 172°54.23 W |  |  | Y
Seguam I./Saddleridge Pt. | Aleutian I. | 52°21.05 N | 172°34.40 W | 52°21.02 N | 172°33.60 W | Y
Yunaska I. | Aleutian I. | 52°41.40 N | 170°36.35 W |  |  | Y
Adugak I. | Bering Sea | 52°54.70 N | 169°10.50 W |  |  | Y
Ogchul I. | Gulf of Alaska | 52°59.71 N | 168°24.24 W |  |  | Y
Bogoslof I./Fire I. | Bering Sea | 53°55.69 N | 168°02.05 W |  |  | Y
Akutan I./Cape Morgan | Gulf of Alaska | 54°03.39 N | 165°59.65 W | 54°03.70 N | 166°03.68 W | Y
Akun I./Billings Head | Bering Sea | 54°17.62 N | 165°32.06 W | 54°17.57 N | 165°31.71 W | Y
Ugamak I. | Gulf of Alaska | 54°13.50 N | 164°47.50 W | 54°12.80 N | 164°47.50 W | Y
Sea Lion Rock (Amak) | Bering Sea | 55°27.82 N | 163°12.10 W |  |  | Y
Clubbing Rocks (S) | Gulf of Alaska | 54°41.98 N | 162°26.7 W |  |  | Y
Clubbing Rocks (N) | Gulf of Alaska | 54°42.75 N | 162°26.7 W |  |  | Y
Pinnacle Rock | Gulf of Alaska | 54°46.06 N | 161°45.85 W |  |  | Y
Chernabura I. | Gulf of Alaska | 54°45.18 N | 159°32.99 W | 54°45.87 N | 159°35.74 W | Y
Atkins I. | Gulf of Alaska | 55°03.20 N | 159°17.40 W |  |  | Y
Chowiet I. | Gulf of Alaska | 56°00.54 N | 156°41.42 W | 56°00.30 N | 156°41.60 W | Y
Chirikof I. | Gulf of Alaska | 55°46.50 N | 155°39.50 W | 55°46.44 N | 155°43.46 W | Y
Sugarloaf I. | Gulf of Alaska | 58°53.25 N | 152°02.40 W |  |  | Y
Marmot I. | Gulf of Alaska | 58°13.65 N | 151°47.75 W | 58°09.90 N | 151°52.06 W | Y
Outer (Pye) I. | Gulf of Alaska | 59°20.50 N | 150°23.00 W | 59°21.00 N | 150°24.50 W | Y
Wooded I. (Fish I.) | Gulf of Alaska | 59°52.90 N | 147°20.65 W |  |  |
Seal Rocks (Cordova) | Gulf of Alaska | 60°09.78 N | 146°50.30 W |  |  |
¹Where two sets of coordinates are given, the baseline extends in a clock-wise direction from the first set of geographic coordinates along the shoreline at mean lower-low water to the second set of coordinates. Where only one set of coordinates is listed, that location is the base point.
²See 50 CFR 223.202(a)(2)(i) for regulations regarding 3 nm no transit zones.
Note: No groundfish fishing zones are the waters between 0 nm to 3 nm surrounding each site.

21. Tables 14a and 14b to part 679 are revised to read as follows:

Table 14a to Part 679--Port of Landing Codes, Alaska
Port Name | NMFS Code | ADF&G Code
Adak | 186 | ADA
Akutan, Akutan Bay | 101 | AKU
Alitak | 103 | ALI
Anchorage | 105 | ANC
Angoon | 106 | ANG
Aniak | 300 | ANI
Anvik | 301 | ANV
Atka | 107 | ATK
Auke Bay | 136 | JNU
Beaver Inlet | 119 | DUT
Bethel | 302 | BET
Captains Bay | 119 | DUT
Chefornak | 189 | CHF
Chignik | 113 | CHG
Cordova | 115 | COR
Craig | 116 | CRG
Dillingham | 117 | DIL
Douglas | 136 | JNU
Dutch Harbor/Unalaska | 119 | DUT
Egegik | 122 | EGE
Ekuk | 303 | EKU
Elfin Cove | 123 | ELF
Emmonak | 304 | EMM
Excursion Inlet | 124 | XIP
False Pass | 125 | FSP
Fairbanks | 305 | FBK
Galena | 306 | GAL
Glacier Bay | 307 | GLB
Glennallen | 308 | GLN
Gustavus | 127 | GUS
Haines | 128 | HNS
Homer | 132 | HOM
Hoonah | 133 | HNH
Hydaburg | 309 | HYD
Hyder | 134 | HDR
Juneau | 136 | JNU
Kake | 137 | KAK
Kaltag | 310 | KAL
Kasilof | 138 | KAS
Kenai | 139 | KEN
Kenai River | 139 | KEN
Ketchikan | 141 | KTN
King Cove | 142 | KCO
King Salmon | 143 | KNG
Kipnuk | 144 | KIP
Klawock | 145 | KLA
Kodiak | 146 | KOD
Kotzebue | 311 | KOT
Larsen Bay | 327 | LRB
Mekoryuk | 147 | MEK
Metlakatla | 148 | MET
Moser Bay | 312 | MOS
Naknek | 149 | NAK
Nenana | 313 | NEN
Nikiski (or Nikishka) | 150 | NIK
Ninilchik | 151 | NIN
Nome | 152 | NOM
Nunivak Island | 314 | NUN
Old Harbor | 153 | OLD
Other Alaska¹ | 499 | OAK
Pelican | 155 | PEL
Petersburg | 156 | PBG
Port Alexander | 158 | PAL
Port Armstrong | 315 | PTA
Port Bailey | 159 | PTB
Port Graham | 160 | GRM
Port Lions | 316 | LIO
Port Moller | 317 | MOL
Port Protection | 161 | PRO
Quinhagak | 187 | QUK
Sand Point | 164 | SPT
Savoonga | 165 | SAV
Selawik | 326 | SWK
Seldovia | 166 | SEL
Seward | 167 | SEW
Sitka | 168 | SIT
Skagway | 169 | SKG
Soldotna | 318 | SOL
St. George | 170 | STG
St. Mary | 319 | STM
St. Paul | 172 | STP
Tee Harbor | 136 | JNU
Tenakee Springs | 174 | TEN
Togiak | 176 | TOG
Toksook Bay | 177 | TOB
Tununak | 178 | TUN
Ugashik | 320 | UGA
Unalakleet | 321 | UNA
Valdez | 181 | VAL
Wasilla | 322 | WAS
Whittier | 183 | WHT
Wrangell | 184 | WRN
Yakutat | 185 | YAK
¹To report a landing at a location not currently assigned a location code number: use the code for “Other Alaska”, code “499” or “OAK.”

Table 14b to Part 679—Port of Landing Codes: Non-Alaska (California, Canada, Oregon, and Washington)
Port State or Country | Port Name | NMFS Code | ADF&G Code
CALIFORNIA | Eureka | 500 | EUR
| Other California¹ | 599 | OCA
CANADA | Other Canada¹ | 899 | OCN
| Port Edward, B.C. | 802 | PRU
| Prince Rupert, B.C. | 802 | PRU
| Vancouver, B.C. | 803 | VAN
OREGON | Astoria | 600 | AST
| Newport | 603 | NPT
| Other Oregon¹ | 699 | OOR
| Portland | 323 | POR
| Warrenton | 604 | WAR
WASHINGTON | Anacortes | 700 | ANA
| Bellingham | 702 | BEL
| Blaine | 717 | BLA
| Everett | 704 | EVT
| La Conner | 708 | LAC
| Olympia | 324 | OLY
| Other Washington¹ | 799 | OWA
| Seattle | 715 | SEA
| Tacoma | 325 | TAC
¹To report a landing at a location not currently assigned a location code number, use the code for “Other California”, “Other Oregon”, “Other Washington”, or “Other Canada” at which the landing occurs.

22. Table 15 to part 679 is revised to read as follows:

Table 15 to Part 679—Gear Codes, Descriptions, and Use
(X indicates where this code is used)
Name of gear | Use alphabetic code to complete the following:: Alpha gear code | Use alphabetic code to complete the following:: NMFS logbooks & paper forms | Use alphabetic code to complete the following:: Electronic WPR & check-in/ check-out | Use numeric code to complete the following:: Numeric gear code | Use numeric code to complete the following:: IERS eLandings | Use numeric code to complete the following:: ADF&G COAR
NMFS & ADF&G GEAR CODES
Hook-and-line | HAL | X | X | 61 | X | X
Jig, mechanical | JIG | X | X | 26 | X | X
Pot | POT | X | X | 91 | X | X
Trawl, nonpelagic/bottom | NPT | X | X | 07 | X | X
Trawl, pelagic/midwater | PTR | X | X | 47 | X | X
Troll, dinglebar | TROLL | X | X | 25 | X | X
Troll, hand | TROLL | X | X | 05 | X | X
Troll, power gurdy | TROLL | X | X | 15 | X | X
All other gear types | OTH | X | X |  |  |
ADF&G GEAR CODES
Diving |  |  |  | 11 | X | X
Dredge |  |  |  | 22 | X | X
Dredge, hydro/mechanical |  |  |  | 23 | X | X
Fish ladder/raceway |  |  |  | 77 | X | X
Fish wheel |  |  |  | 08 | X | X
Gillnet, drift |  |  |  | 03 | X | X
Gillnet, herring |  |  |  | 34 | X | X
Gillnet, set |  |  |  | 04 | X | X
Gillnet, sunken |  |  |  | 41 | X | X
Handpicked |  |  |  | 12 | X | X
Net, dip |  |  |  | 13 | X | X
Net, ring |  |  |  | 10 | X | X
Other/specify |  |  |  | 99 | X | X
Pound |  |  |  | 21 | X | X
Seine, purse |  |  |  | 01 | X | X
Seine, beach |  |  |  | 02 | X | X
Shovel |  |  |  | 18 | X | X
Trap |  |  |  | 90 | X | X
Trawl, beam |  |  |  | 17 | X | X
Trawl, double otter |  |  |  | 27 | X |
Trawl, pair |  |  |  | 37 | X | X
Weir |  |  |  | 14 | X | X
FIXED GEAR
Authorized gear for sablefish harvested from any GOA reporting area | All longline gear (hook-and-line, jig, troll, and handline) and, for purposes of determining initial IFQ allocation, all pot gear used to make a legal landing.
Authorized gear for sablefish harvested from any BSAI reporting area | All hook-and-line gear and all pot gear.
Authorized gear for halibut harvested from any IFQ regulatory area | All fishing gear comprised of lines with hooks attached, including one or more stationary, buoyed, and anchored lines with hooks attached.

PART 680—SHELLFISH FISHERIES OF THE EXCLUSIVE ECONOMIC ZONE OFF ALASKA

23. The authority citation for part 680 continues to read as follows:

Authority: 16 U.S.C. 1862.

24. In § 680.2, a definition for “sideboards” is added in alphabetical order; and paragraphs (1), (2) introductory text, (3), and (4) under the definition for “Crab individual fishing quota (crab IFQ)” are revised to read as follows:

§ 680.2 Definitions.

* * * * *

Crab individual fishing quota (crab IFQ) * * *

(1) Catcher vessel crew (CVC) IFQ means a permit, initially issued to persons who historically held CFEC crab permits and signed fish tickets for qualifying landings based on pounds delivered raw, to annually harvest, but not process, CR crab onboard the vessel used to harvest that crab.

(2) Catcher vessel owner (CVO) IFQ means a permit, initially issued to persons who held LLP crab permits and had qualifying landings based on pounds delivered raw, to annually harvest, but not process, CR crab onboard the vessel used to harvest that crab.

* * * * *

(3) Catcher/processor owner (CPO) IFQ means a permit, initially issued to persons who held LLP crab permits and had qualifying landings derived from landings processed at sea, to annually harvest and process CR crab.

(4) Catcher/processor crew (CPC) IFQ means a permit, initially issued to persons who historically held CFEC crab permits and signed fish tickets for qualifying landings based on landings processed at sea, to annually harvest and process CR crab.

* * * * *

Sideboards (see § 680.22).

* * * * *

25. In § 680.4, paragraph (d)(3) is revised to read as follows:

§ 680.4 Permits.

* * * * *

(d) * * *

(3) On an annual basis, the Regional Administrator will issue a crab IFQ permit to a person who submits a complete annual application for a crab IFQ/IPQ permit, described at paragraph (f) of this section, that is subsequently approved by the Regional Administrator.

* * * * *

26. In § 680.5:

A. Paragraphs (c) and (d) are removed and reserved.

B. Paragraphs (a)(2)(i)(G) and (b) are revised.

C. Paragraphs (a)(2)(i)(L) and (m) are added.

The revisions and additions read as follows:

§ 680.5 Recordkeeping and reporting (R&R).

(a) * * *

(2) * * *

(i) * * *

Recordkeeping and Reporting Report | Person Responsible | Reference
(G) CR crab landing report | RCR | § 679.5(e)(9)
* * * * * * * |  |
(L) CR RCR Ex-vessel Volume and Value Report | RCR | § 680.5(m)

* * * * *

(b) IFQ crab landings—(1) Landing reports. See § 679.5(e).

(2) Properly debited landing. All landed crab catch must be weighed, reported, and debited from the appropriate IFQ or IPQ account under which the catch was harvested, as appropriate (see § 679.5(e)).

* * * * *

(m) CR Registered Crab Receiver Ex-vessel Volume and Value Report—(1) Applicability. An RCR that also operates as a shoreside processor or stationary floating crab processor and receives and purchases landings of CR crab must submit annually to NMFS a complete CR RCR Ex-vessel Volume and Value Report, as described in this paragraph (m), for each reporting period in which the RCR receives CR crab.

(2) Reporting period. The reporting period of the CR RCR Ex-vessel Volume and Value Report shall extend from August 15 through April 30 of the following year, inclusive.

(3) Due date. A complete CR RCR Ex-vessel Volume and Value Report must be received by the Regional Administrator not later than May 15 of the reporting period in which the RCR received the CR crab.

(4) Information required. A complete CR RCR Ex-vessel Volume and Value Report must include the following information, for receipt of raw crab only:

(i) RCR identification, including:

(A) Name;

(B) RCR permit number;

(C) Social security number or tax identification number;

(D) NMFS person ID number;

(E) Business mailing address, indicate whether permanent or temporary;

(F) Business telephone number, fax number; and e-mail address (if any);

(G) Facility or vessel location (port location);

(ii) CR crab pounds purchased and ex-vessel value:

(A) Pounds purchased. The total CR crab pounds purchased for each crab fishery/species by month;

(B) Ex-vessel value paid. The total dollar value (ex-vessel value) for fish in any product form of CR crab pounds before any deductions are made for goods and services (e.g., bait, ice, fuel, repairs, machinery replacement, etc.) provided to the CR crab harvesters. Include price adjustments made in the current year to CR crab harvesters for landings made during the crab fishing year.

(C) Value paid for price adjustments. Enter the monthly total U.S. dollar amount (value paid for price adjustments) of any CR crab retro-payments (correlated by CR crab species and fishery, landing month(s), and month of payment) made in the current year to CR crab permit holders for landings made during the previous calendar year.

(iii) Certification. Enter printed name, signature, and date signed of the RCR or authorized representative. If a representative, attach authorization.

(5) Submission address. The RCR must complete the CR Registered Crab Receiver Ex-vessel Volume and Value Report and submit by mail or fax to: Administrator, NMFS Alaska Region; Attn: RAM Program; P.O. Box 21668; Juneau, AK 99802-1668; fax number 907-586-7354; or submit electronically to NMFS via forms available at http://www.fakr.noaa.gov/ram.

27. In § 680.23, paragraph (b)(4) is revised to read as follows:

§ 680.23 Equipment and operational requirements.

* * * * *

(b) * * *

(4) Offload all CR crab product processed onboard at a shoreside location in the United States accessible by road or regularly scheduled air service and weigh that product on a scale approved by the state in which the CR crab product is removed from the vessel that harvested the CR crab; and

* * * * *

28. In § 680.44, paragraph (a)(2)(i) is revised to read as follows:

§ 680.44 Cost recovery.

(a) * * *

(2) * * *

(i) All CR allocation holders and RCR permit holders will be subject to a fee liability for any CR crab debited from a CR allocation during a crab fishing year, except for crab designated as personal use or deadloss, or crab confiscated by NMFS or the State of Alaska.

* * * * *

§§ 680.7, 680.20, and 680.40 [Amended]

29. At each of the locations shown in the Location column, remove the phrase indicated in the “Remove” column and replace it with the phrase indicated in the “Add” column for the number of times indicated in the “Frequency” column.

Location | Remove | Add | Frequency
§ 680.7(e)(1) | without a valid crab IFQ permit | without a legible copy of a valid crab IFQ permit | 1
§ 680.20(g)(2)(ix) | not required under this section, except as permitted by paragraph (j) of this section. | unless required under this section. | 1
§ 680.40(c)(2)(vi)(A) | § 679.40(k)(5)(v) | § 679.4(k)(5)(v) | 1

[FR Doc. 07-3117 Filed 6-28-07; 8:45 am]

BILLING CODE 3510-22-S